DEPARTMENT OF COMMERCE

National Oceanic and Atmospheric Administration

50 CFR Part 660

[Docket No. 160808696-6696-01]

RIN 0648-BG17

Magnuson-Stevens Act Provisions; Fisheries Off West Coast States; Pacific Coast Groundfish Fishery; 2017-2018 Biennial Specifications and Management Measures; Amendment 27

AGENCY: National Marine Fisheries Service (NMFS), National Oceanic and Atmospheric Administration (NOAA), Commerce.

ACTION: Proposed rule; request for comments.

SUMMARY: This proposed rule would establish the 2017-2018 harvest specifications and management measures for groundfish taken in the U.S. exclusive economic zone off the coasts of Washington, Oregon, and California, consistent with the Magnuson-Stevens Fishery Conservation and Management Act (MSA) and the Pacific Coast Groundfish Fishery Management Plan (PCGFMP). This proposed rule would also revise the management measures that are intended to keep the total catch of each groundfish species or species complex within the harvest specifications. This action also includes regulations to implement Amendment 27 to the PCGFMP, which adds deacon rockfish to the PCGFMP, reclassifies big skate as an actively managed stock, add a new inseason management process for commercial and recreational in California, and makes several clarifications.

DATES: Comments must be received no later than November 28, 2016.

ADDRESSES: Submit your comments, identified by NOAA-NMFS-2016-0094, by either of the following methods:

• Federal e-Rulemaking Portal: Go to www.regulations.gov/#!docketDetail;D=NOAA-NMFS-2016-094, click the “Comment Now!” icon, complete the required fields, and enter or attach your comments.

• Mail: Submit written comments to William Stelle, Regional Administrator, West Coast Region, NMFS, 7600 Sand Point Way NE., Seattle, WA 98115-0070.

Instructions: NMFS may not consider comments if they are sent by any other method, to any other address or individual, or received after the comment period ends. All comments received are a part of the public record and NMFS will post for public viewing on www.regulations.gov without change. All personal identifying information (e.g., name, address, etc.), confidential business information, or otherwise sensitive information submitted voluntarily by the sender is publicly accessible. NMFS will accept anonymous comments (enter “N/A” in the required fields if you wish to remain anonymous).

FOR FURTHER INFORMATION CONTACT: Gretchen Hanshew, phone: 206-526-6147, fax: 206-526-6736, or email: Gretchen.hanshew@noaa.gov.

SUPPLEMENTARY INFORMATION:

Electronic Access

This proposed rule is accessible via the Internet at the Office of the Federal Register Web site at

http://www.access.gpo.gov/su_docs/aces/aces140.html. Background information and documents are available at the NMFS West Coast Region Web site at http://www.westcoast.fisheries.noaa.gov/fisheries/groundfish/index.html and at the Pacific Fishery Management Council's Web site at http://www.pcouncil.org.

Executive Summary

Purpose of the Regulatory Action

This proposed rule would implement the 2017-2018 harvest specifications and management measures for groundfish species taken in the U.S. exclusive economic zone off the coasts of Washington, Oregon, and California, implement harvest specifications consistent with default harvest control rules, and implement Amendment 27 to the PCGFMP. The purpose of the proposed action is to conserve and manage Pacific Coast groundfish fishery resources to prevent overfishing, to rebuild overfished stocks, to ensure conservation, to facilitate long-term protection of essential fish habitats (EFH), and to realize the full potential of the Nation's fishery resources. This action proposes harvest specifications for 2017-2018 consistent with existing or revised default harvest control rules for all stocks, and establishes management measures designed to keep catch within the appropriate limits. The harvest specifications are set consistent with the optimum yield (OY) harvest management framework described in Chapter 4 of the PCGFMP. The proposed rule would also implement Amendment 27 to the PCGFMP. Amendment 27 adds deacon rockfish to the PCGFMP, reclassifies big skate as “in the fishery,” adds a new inseason management process for California fisheries, and makes several clarifications. This rule is authorized by 16 U.S.C. 1854 and 1855 and by the PCGFMP.

Major Provisions

This proposed rule contains two types of major provisions. The first are the harvest specifications (overfishing limits (OFLs), acceptable biological catches (ABCs), and annual catch limits (ACLs)), and the second are management measures designed to keep fishing mortality within the ACLs. The harvest specifications (OFLs, ABCs, and ACLs) in this rule have been developed through a rigorous scientific review and decision making process, which is described later in this proposed rule.

In summary, the OFL is the maximum sustainable yield (MSY) harvest level and is an estimate of the catch level above which overfishing is occurring. OFLs are based on recommendations by the Pacific Fishery Management Council's (Council) Scientific and Statistical Committee (SSC) as the best scientific information available. The ABC is an annual catch specification that is the stock or stock complex's OFL reduced by an amount associated with scientific uncertainty. The SSC-recommended method for incorporating scientific uncertainty is referred to as the P star-sigma approach and is discussed in detail in the proposed and final rules for the 2011-2012 (75 FR 67810, November 3, 2010; 76 FR 27508, May 11, 2011) and 2013-2014 (77 FR 67974, November 12, 2012; 78 FR 580, January 3, 2013) biennial harvest specifications and management measures. The ACL is a harvest specification set equal to or below the ABC. The ACLs are decided in a manner to achieve OY from the fishery, which is the amount of fish that will provide the greatest overall benefit to the Nation, particularly with respect to food production and recreational opportunities, and taking into account the protection of marine ecosystems. The ACLs are based on consideration of conservation objectives, socio-economic concerns, management uncertainty, and other factors. All known sources of fishing and scientific research catch are counted against the ACL.

This proposed rule includes ACLs for the five overfished species managed under the PCGFMP. For the 2017-2018 biennium darkblotched rockfish and Pacific ocean perch (POP) have rebuilding plan changes to their Harvest Control Rules, while maintaining the current target year for rebuilding (TTARGET). TTARGET is the year by which the stock can be rebuilt as soon as possible, taking into account the status and biology of the stock, the needs of fishing communities, and the interaction of the stock of fish within the marine ecosystem. For darkblotched rockfish, a new assessment indicates the stock will be rebuilt during 2015, with a stock status above MSY in 2016 and beyond. Therefore, this rule proposes to establish harvest specifications for darkblotched rockfish in 2017-2018 based on the default harvest control rules for healthy stocks. Under this harvest control rule, the stock is anticipated to rebuild 10 years earlier than the TTARGET of 2025. For POP, new information is available regarding the needs of fishing communities that rely on revenue from fisheries on healthy stocks that take POP incidentally. Changes to the harvest control rule are necessary to meet the needs of communities. Accordingly, the rebuilding plan would be revised, setting a constant catch ACL for 2017-2018, followed in 2019 and beyond by harvest specifications derived from the SPR harvest rate in the current rebuilding plan (86.4 percent). Under this harvest control rule, the stock is anticipated to rebuild by the TTARGET in the current rebuilding plan of 2051. The remaining overfished species are making adequate progress towards rebuilding. Therefore, this rule proposes to establish harvest specifications consistent with the existing rebuilding plan provisions for those species.

This rulemaking also proposes to implement Amendment 27 to the PCGFMP. Amendment 27 consists of five components that would: (1) Reclassify big skate from an ecosystem component species to “in the fishery,” (2) add deacon rockfish to the list of species in the PCGFMP, (3) establish a new inseason management process in California for black, canary, and yelloweye rockfishes, (4) make updates to clarify several stock assessment descriptions, and (5) update several sections of the PCGFMP because canary rockfish and petrale sole are rebuilt. The Notice of Availability for Amendment 27 to the PCGFMP published on September 30, 2016 (81 FR 67287) and is available for public comment (see ADDRESSES). The public comment period on the Notice of Availability closes on November 29, 2016.

In order to keep mortality of the species managed under the PCGFMP within the ACLs the Council also recommended management measures. Generally speaking, management measures are intended to rebuild overfished species, prevent ACLs from being exceeded, and allow for the harvest of healthy stocks. Management measures include time and area restrictions, gear restrictions, trip or bag limits, size limits, and other management tools. Management measures may vary by fishing sector because different fishing sectors require different types of management to control catch. Most of the management measures the Council recommended for 2017-2018 were slight variations to existing management measures, and do not represent a change from current management practices. These types of changes include changes to trip limits, bag limits, closed areas, etc. Additionally, several new management measures were recommended by the Council including: Changes to flatfish retention in the Oregon recreational fishery, creation of a new inseason process for changes to recreational and commercial fisheries in California outside of a Council meeting, changes to petrale sole and starry flounder season in the California recreational fishery, and management measures resulting from reclassifying big skate as “in the fishery.”

Table of Contents

I. Background

A. Specification and Management Measure Development Process

B. Amendment 24—Default Harvest Specifications & Management Measures Clarifications

II. Amendment 27 to the PCGFMP

A. Reclassify Big Skate as “in the Fishery”

B. New California Inseason Process

C. Updates to the PCGFMP

D. Updates Based on New Science for Deacon Rockfish, Canary Rockfish, and Petrale Sole

III. Harvest Specifications

A. Proposed OFLs for 2017 and 2018

B. Proposed ABCs for 2017 and 2018

C. Proposed ACLs for 2017 and 2018

IV. Management Measures

A. Deductions From the ACLs

B. Biennial Fishery Allocations

C. Modifications to the Boundaries Defining Rockfish Conservation Areas (RCAs)

D. Sorting Requirements Resulting From Big Skate Designation to “in the Fishery”

E. New Inseason Process for Commercial and Recreational Fisheries in California

F. Limited Entry Trawl

G. Limited Entry Fixed Gear and Open Access Nontrawl Fishery

H. Recreational Fisheries

I. Tribal Fisheries

V. Classification

I. Background

The Pacific Coast Groundfish fishery is managed under the PCGFMP. The PCGFMP was prepared by the Council, approved on July 30, 1984, and has been amended numerous times. Regulations at 50 CFR part 660, subparts C through G, implement the provisions of the PCGFMP.

The PCGFMP requires the harvest specifications and management measures for groundfish to be set at least biennially. This proposed rule is based on the Council's final recommendations that were made at its June 2016 meeting as well as harvest specifications for some stocks adopted at the Council's November 2015 and April 2016 meetings.

A. Specification and Management Measure Development Process

The process for setting the 2017-2018 harvest specifications began in 2014 with the preparation of stock assessments. A stock assessment is the scientific and statistical process where the status of a fish population or subpopulation (stock) is assessed in terms of population size, reproductive status, fishing mortality, and sustainability. In the terms of the PCGFMP, stock assessments generally provide: (1) An estimate of the current biomass (reproductive potential); (2) an FMSY or proxy (a default harvest rate for the fishing mortality rate that is expected to achieve the maximum sustainable yield), translated into exploitation rate; (3) an estimate of the biomass that produces the maximum sustainable yield (BMSY); and, (4) a precision estimate (e.g., confidence interval) for current biomass. Stock assessments, including data moderate assessments, are reviewed by the Council's stock assessment review panel (STAR panel). The STAR panel is designed to review the technical merits of stock assessments and is responsible for determining if a stock assessment document is sufficiently complete. Finally, the SSC reviews the stock assessment and STAR panel reports and makes recommendations to the Council. In addition to full stock assessments, stock assessment updates that run new data through existing models without changing the model are also prepared.

When spawning stock biomass falls below the minimum stock size threshold (MSST), a stock is declared overfished and a rebuilding plan must be developed that determines the strategy for rebuilding the stock to BMSY in the shortest time possible, while considering needs of fishing communities and other factors (16 U.S.C. 1854(e)). The current MSST reference point for assessed flatfish stocks is 12.5 percent of initial biomass or B12.5%. For all other assessed groundfish stocks, the current MSST reference point is 25 percent of initial biomass or B25%. The following overfished groundfish stocks would be managed under rebuilding plans in 2017-2018: Bocaccio south of 40°10′ N. lat.; cowcod south of 40°10′ N. lat.; darkblotched rockfish; POP; and yelloweye rockfish.

For overfished stocks, in addition to any stock assessments or stock assessment updates, rebuilding analyses may also be prepared. The rebuilding analysis is used to project the future status of the overfished resource under a variety of alternative harvest strategies and to determine the probability of recovering to BMSY or its proxy within a specified time-frame.

The Council considered new stock assessments, stock assessment updates, rebuilding analysis for POP, public comment, and advice from its advisory bodies over the course of six Council meetings during development of its recommendations for the 2017-2018 harvest specifications and management measures. At each Council meeting between June 2015 and June 2016, the Council made a series of decisions and recommendations that were, in some cases, refined after further analysis and discussion. Detailed information, including the supporting documentation the Council considered at each meeting is available at the Council's Web site, www.pcouncil.org.

The 2017-2018 biennial management cycle was the first cycle following PCGFMP Amendment 24, which established default harvest control rules and included an Environmental Impact Statement (EIS). The EIS described the ongoing implementation of the PCGFMP and default harvest control rules, along with ten year projections for harvest specifications and a range of management measures. Therefore, a draft Environmental Assessment (EA) identifying the preferred alternative new management measures and other decision points that were not described in the 2015 EIS is posted on the NMFS WCR along with this proposed rule. At the Council's June 2016, meeting, following public comment and Council consideration, the Council made its final recommendations for the 2017-2018 harvest specifications and management measures as well as for Amendment 27 to the PCGFMP.

B. Amendment 24—Default Harvest Specifications & Management Measures Clarifications

This biennial cycle is the first since the implementation of Amendment 24, which established default harvest control rules for most stocks and evaluated ten year projections for harvest specifications and routinely adjusted management measures (80 FR 12567, March 10, 2015). This resulted in a streamlined decision making process for the 2017-2018 biennial cycle. The use of default harvest control rules and their addition to the PCGFMP was intended to simplify the Council's harvest specifications process and acknowledge that the Council generally maintains the policy choices from the previous biennium to determine the harvest specifications for the next biennium. Under Amendment 24, the harvest control rules used to determine the previous biennium's harvest specifications (i.e., OFLs, ABCs, and ACLs) would automatically be applied to the best scientific information available to determine the future biennium's harvest specifications. NMFS would implement harvest specifications based on the default harvest control rules unless the Council makes a different recommendation. Therefore, this rule implements the default harvest specifications, consistent with Amendment 24, for most stocks and discusses departures from the defaults.

In addition to the use of defaults to simplify the harvest specifications process, Amendment 24 made changes to the description of the type of management measures that may be addressed through the biennial process. Under Amendment 24, management measures that may be implemented during the biennial process include: (1) Measures that will be classified as routine for future biennial cycles; (2) adjustments to current management measures that are already classified as routine; and (3) new management measures not previously analyzed. This was intended to simplify the management measures proposed through each biennial cycle.

Information regarding the OFLs, ABCs, and ACLs proposed for groundfish stocks and stock complexes in 2017-2018 is presented below, followed by a discussion of the proposed management measures for commercial and recreational groundfish fisheries.

II. Amendment 27 to the PCGFMP

Amendment 27 consists of 5 components: (1) Reclassify big skate from an ecosystem component species to “in the fishery,” (2) add deacon rockfish to the list of species in the PCGFMP, (3) establish a new inseason management process in California for black, canary, and yelloweye rockfish, (4) make updates to clarify several stock assessment descriptions, and (5) update several sections to reflect the rebuilt status of canary rockfish and petrale sole.

A. Reclassify Big Skate as “in the Fishery”

Amendment 24 to PCGFMP classified several species, including big skate, as ecosystem component species. The information available during development of Amendment 24 indicated that big skate was not targeted and had only small amounts of landings. However, a majority of the unspecified skate landed in the Shorebased IFQ Program is now known to be big skate. According to National Standard Guideline 1, a stock may be classified as an ecosystem component species if it is not determined to be (1) a target species or target stock; (2) subject to overfishing, approaching overfished, or overfished; (3) likely to become subject to overfishing or overfished, according to the best available information, in the absence of conservation and management measures; and (4) generally retained for sale or personal use. Such large landings indicate big skate are being targeted and therefore generally retained for sale, and can no longer be considered an ecosystem species. Therefore, Amendment 27 reclassifies big skate as “in the fishery,” and this rule proposes species specific harvest specifications.

B. New California Inseason Process

The objective of any inseason management system is to be responsive to the needs of fishing participants while keeping catch within the established harvest specifications. The scope and magnitude of options available to address management issues is highly dependent on the amount of time between when an issue is identified and when corrective action(s) can be implemented. The summer months tend to be the busiest times for both the commercial and recreational fisheries in California, and mortality tends to accumulate more quickly during these times. The Council meets in June and September of each year. If an action is not warranted based on information available at the June meeting, there is a lag of up to four months before additional inseason actions can be implemented. Because fisheries are ongoing during this time, overages identified at the September meeting tend to be of a higher magnitude requiring more severe corrective actions (e.g., closing a fishery). Therefore, a new inseason process was developed for only black rockfish, canary rockfish, and yelloweye rockfish, and only in California. This system would allow NMFS to take inseason action outside of a Council meeting when a Federal harvest specification for one of these species is projected to be attained or had been attained prior to the start of the next scheduled Council meeting. Allowing NMFS to take inseason action outside of a Council meeting can reduce the severity of management actions and thus reduce negative economic impacts to the fleets and to the coastal communities which depend on the revenues generated from these fisheries. Similar inseason management processes were not explored for Washington or Oregon, because they have rapid inseason management processes sufficient for their inseason management needs.

C. Updates to the PCGFMP

Minor edits in Amendment 27 clarify the applicability of several stock assessment procedures and categories that were inadvertently omitted when Amendment 23 modified the PCGFMP consistent with the revised National Standard Guidelines in 2011.

D. Updates Based on New Science for Deacon Rockfish, Canary Rockfish, and Petrale Sole

Deacon rockfish (Sebastes diaconus) was recently described and adopted as a new Sebastes species by the American Fisheries Society based on evidence of the presence of two genetically distinct cryptic species in central California: Deacon rockfish and blue rockfish. Deacon rockfish is therefore acknowledged as a PCGFMP species that is “in the fishery,” based on the PCGFMP provision stating, “The category “rockfish” includes all genera and species of the family Scorpaenidae, even if not listed, that occur in the Washington, Oregon, and California area. The Scorpaenidae genera are Sebastes, Scorpaena, Sebastolobus, and Scorpaenodes.”

Finally, canary rockfish and petrale sole were declared rebuilt on August 4, 2015; therefore, all references to them as overfished stocks must be updated. The Notice of Availability for the PCGFMP Amendment 27 was published on September 30, 2016 (81 FR 67287).

III. Harvest Specifications

The PCGFMP requires the Council to set harvest specifications and management measures for groundfish at least biennially. This proposed rule would set 2017-2018 harvest specifications and management measures for all of the 90 plus groundfish species or species groups managed under the PCGFMP, except for Pacific whiting. Pacific whiting harvest specifications are established annually through a separate bilateral process with Canada.

A. Proposed OFLs for 2017 and 2018

Introduction

This section describes the proposed OFLs for overfished species managed under rebuilding plans, non-overfished species managed with individual species-specific harvest specifications, and species managed within stock complexes.

The OFLs for groundfish species with stock assessments are derived by applying the FMSY harvest rate proxy to the current estimated biomass. Fx% harvest rates are the rates of fishing mortality that will reduce the female spawning biomass per recruit (SPR) to X percent of its unfished level. A rate of F40% is a more aggressive harvest rate than F45% or F50%.

For 2017-2018, the Council maintained a policy of using a default harvest rate as a proxy for the fishing mortality rate that is expected to achieve the maximum sustainable yield (FMSY). A proxy is used because there is insufficient information for most Pacific Coast groundfish stocks to estimate species-specific FMSY values. Taxon-specific proxy fishing mortality rates are used due to perceived differences in the productivity among different taxa of groundfish. A lower value is used for stocks with relatively high resilience to fishing while higher values are used for less resilient stocks with low productivity. In 2017-2018, the following default harvest rate proxies, based on the SSC's recommendations, were used: F30% for flatfish, F40% for Pacific whiting, F50% for rockfish (including longspine and shortspine thornyheads), F50% for elasmobranchs, and F45% for other groundfish such as sablefish and lingcod.

For the 2017-2018 biennial specification process, seven full stock assessments and three stock assessment updates were prepared. Full stock assessments, those that consider the appropriateness of the assessment model and that revise the model as necessary, were prepared for the following stocks: Black rockfish, bocaccio south of 40°10′ N. lat., canary rockfish, China rockfish, darkblotched rockfish, kelp greenling between 46°16′ N. lat. and 42° N. lat., and widow rockfish. A stock assessment update, which runs new data through an existing model, was prepared for chilipepper rockfish south of 42° N. lat., petrale sole, and sablefish. Updated projections from existing models, where actual catches for recent years replaced assumed catches for those same years in the model, were also prepared for arrowtooth flounder, blue rockfish south of 42° N. lat., greenspotted rockfish, Dover sole, lingcod, POP, and yelloweye rockfish.

Each new stock assessment includes a base model and two alternative models. The alternative models are developed from the base model by bracketing the dominant dimension of uncertainty (e.g., stock-recruitment steepness, natural mortality rate, survey catchability, recent year-class strength, weights on conflicting catch per unit effort series, etc.) and are intended to be a means of expressing uncertainty within the model by showing the contrast in management implications. Once a base model has been bracketed on either side by alternative model scenarios, capturing the overall degree of uncertainty in the assessment, a two-way decision table analysis (states-of-nature versus management action) is used to present the repercussions of uncertainty to decision makers. As noted above, the SSC makes recommendations to the Council on the appropriateness of using the different stock assessments for management purposes, after which the Council considers adoption of the stock assessments, use of the stock assessments for the development of rebuilding analyses, and the OFLs resulting from the base model runs of the stock assessments.

For individually managed species that did not have new stock assessments or update assessments prepared, the Council recommended OFLs derived from applying the FMSY harvest rate proxy to the estimated exploitable biomass from the most recent stock assessment or update, the results of rudimentary stock assessments, or the historical landings data approved by the Council for use in setting harvest specifications. These stocks include: Arrowtooth flounder, big skate, blackgill rockfish, cabezon (off California), cabezon (off Oregon), California scorpionfish, cowcod, Dover sole, lingcod north and south of 42° N. lat., longnose skate, Pacific cod, shortbelly rockfish, shortspine thornyhead, spiny dogfish, splitnose rockfish, and yellowtail rockfish. Proposed OFLs for these species can be found in Tables 1a and 2a to subpart C.

There are currently eight stock complexes used to manage groundfish stocks pursuant to the PCGFMP. These stock complexes are: (1) Minor Nearshore Rockfish north; (2) Minor Nearshore Rockfish south; (3) Minor Shelf Rockfish north; (4) Minor Shelf Rockfish south (5) Minor Slope Rockfish north; (6) Minor Slope Rockfish south; (7) Other Flatfish; and (8) Other Fish. Stock complexes are used to manage the harvest of many of the unassessed groundfish stocks.

The proposed OFLs for stock complexes are the sum of the OFL contributions for the component stocks, when known. For the 2017-2018 biennial specification process—similar to 2011-2012, 2013-2014, and 2015-2016—Depletion-Corrected Average Catch (DCAC), Depletion-Based Stock Reduction Analysis (DB-SRA), or other SSC-endorsed methodologies were used to determine the OFL contributions made by category three species (data limited species). In general, OFL contribution estimates should not vary from year to year for the category three stocks; the OFL contributions for unassessed component stocks that remain in the eight stock complexes are the same in 2017-2018 as in 2015-2016 and 2013-2014.

The proposed OFLs for each complex can also be found in tables 1a and 2a of this proposed rule. In addition to OFL contributions derived by DCAC, DB-SRA, or other SSC approved estimates, OFL contributions for the following stocks were determined by applying the FMSY harvest rate proxy to the estimated exploitable biomass from the most recent stock assessment for chilipepper rockfish.

A summary table below describes the scientific basis for the proposed OFLs for stocks with new or updated stock assessments, Minor Slope Rockfish complex south of 40°10′ N. lat., and big skate. In addition, a detailed description of the scientific basis for all of the SSC-recommended OFLs proposed in this rule are included in the Stock Assessment and Fishery Evaluation (SAFE) document for 2016.

Table 1—Scientific Basis for Proposed OFLs for Stocks With New or Updated Stock Assessments, Minor Slope Rockfish Complex South of 40°10′ N. Lat. and Big Skate
Stock | 2017 OFL | 2018 OFL | Basis
BOCACCIO S. of 40°10′ N. lat | 2,139 | 2,013 | New/Updated Assessment | Projected using a 50% SPR from the 2015 full stock assessment with a 7.4% reduction to subtract the portion of the assessed stock north of 40° 10′ N. lat.
DARKBLOTCHED ROCKFISH | 671 | 683 | New/Updated Assessment | Projected using a 50% SPR from the 2015 full assessment.
Big skate | 541 | 541 | Reclassification from EC species | Trawl survey biomass * M calculated in 2014 for 2015 and beyond.
Black rockfish (CA) | 349 | 347 | New/Updated Assessment | Projected using a 50% SPR from the 2015 full assessment.
Black rockfish (OR) | 577 | 570 | New/Updated Assessment | Projected using a 50% SPR from the 2015 full assessment.
Black rockfish (WA) | 319 | 315 | New/Updated Assessment | Projected using a 50% SPR from the 2015 full assessment.
Canary rockfish | 1,793 | 1,596 | New/Updated Assessment | Projected using a 50% SPR from the 2015 full assessment.
Chilipepper S. of 40°10′ N. lat | 2,727 | 2,623 | New/Updated Assessment | Projected using a 50% SPR from the 2015 full assessment. The portion of the coastwide stock south of 40° 10′ N. lat. (93%) is based on average historical landings.
Petrale Sole | 3,280 | 3,152 | New/Updated Assessment | Projected using a 30% SPR from the 2015 full assessment.
Sablefish (coastwide) | 8,050 | 8,329 | New/Updated Assessment | Projected using a 45% SPR from the 2015 full assessment.
Widow rockfish | 14,130 | 13,237 | New/Updated Assessment | Projected using a 50% SPR from the 2015 full assessment.
Minor Shelf Rockfish complex north | 2,303 | 2,302 | No change | Sum of OFL contributions of component stocks in the complex.
Chilipepper N. of 40°10′ N. lat | 205 | 197 | New/Updated Assessment | Projected using a 50% SPR from the 2015 full assessment. The portio of the coastwide stock north of 40° 10′ N. lat. (7%) is based on average historical landings.
Minor Slope Rockfish complex south | 827 | 829 | No change | Sum of OFL contributions of component stocks in the complex.
Blackgill S. of 40°10′ N. lat ᵃ | 143 | 146 | No change | Projected using 50% SPR from the 2011 full assessment Contributes to the complex OFL in 2017 and 2018.
Other Fish | 537 | 501 | No change | Sum of OFL contributions of component stocks in the complex.
Kelp greenling (OR) ᵃ | 239 | 203 | New/Updated Assessment | Projected using a 45% SPR from the 2015 full assessment.
ᵃ Values for this stock contribute to the OFL of the complex and are not specified in regulation.

Pacific Ocean Perch (Sebastes alutus)

POP was last assessed in 2011. For this cycle, the 2011 rebuilding analysis was updated with actual catches for 2011-2014. The POP OFLs of 964 mt for 2017 and 984 mt for 2018 are based on the FMSY harvest rate proxy of F50% as applied to the estimated exploitable biomass from the 2011 stock assessment. The OFLs for POP were endorsed by the SSC after the June 2016 Council meeting, during a public webinar on August 2, 2016.

Big Skate (Raja binoculata)

Big skate was one of several species that NMFS and the Council designated as ecosystem component species beginning in 2015, as described in the proposed and final rules for the 2015-2016 biennial harvest specifications and management measures (80 FR 687, January 6, 2015, and 80 FR 12567, March 10, 2015). As described above in “Amendment 27 to the PCGFMP,” big skate is proposed to be classified as “in the fishery,” added to the list of species in the PCGFMP, and managed with species-specific harvest specifications. Big skate is proposed to have species-specific OFLs in 2017-2018 of 541 mt each year, based on an estimate of abundance from the recurring bottom trawl survey.

Blackgill Rockfish (Sebastes melanostomus) and Minor Slope Rockfish Complex (S. of 40°10′ N. Lat.)

The Minor Slope Rockfish south complex is comprised of: Aurora rockfish (Sebastes aurora), bank rockfish (S. rufus), blackgill rockfish (S. melanostomus), blackspotted rockfish (S. melanostictus), Pacific ocean perch (S. alutus), redbanded rockfish (S. babcocki), rougheye rockfish (S. aleutianus), sharpchin rockfish (S. zacentrus), shortraker rockfish (S. borealis), sunset rockfish (S. crocotulus) and yellowmouth rockfish (S. reedi). No changes are proposed to the species composition of the complexes, and there are no proposed changes to the calculation of the complex OFL.

Blackgill rockfish south was assessed in 2011. Blackgill rockfish contributes 143 mt in 2017 and 146 mt for 2018 to the Minor Slope Rockfish south OFL. The 2017 and 2018 OFL contributions are based on the FMSY harvest rate proxy of F50% as applied to the estimated exploitable biomass from the 2011 stock assessment.

B. Proposed ABCs for 2017 and 2018

Introduction The ABC is the stock or stock complex's OFL reduced by an amount associated with scientific uncertainty. The SSC-recommended P star-Sigma approach determines the amount by which the OFL is reduced to establish the ABC. Under this approach, the SSC recommends a sigma (σ) value. The σ value is generally based on the scientific uncertainty in the biomass estimates generated from stock assessments. After the SSC determines the appropriate σ value, the Council chooses a P star (P*) based on its chosen level of risk aversion considering the scientific uncertainties. As the P* value is reduced, the probability of the ABC being greater than the “true” OFL becomes lower. In combination, the P* and σ values determine the amount by which the OFL will be reduced to establish the SSC-endorsed ABC.

Since 2011, the SSC has quantified major sources of scientific uncertainty in the estimate of OFL and generally recommended a σ value of 0.36 for category one stocks, a σ value of 0.72 for category two stocks, and a σ value of 1.44 for category three stocks. For category two and three stocks, there is typically greater scientific uncertainty in the estimate of OFL because the stock assessments have less data to inform them. Therefore, the scientific uncertainty buffer is generally greater than that recommended for stocks with quantitative stock assessments. Assuming the same P* is applied, a larger σ value results in a larger reduction from the OFL. For 2017-2018, the Council continued the general policy of using the SSC-recommended σ values for each species category. However, an exception to the general σ values assigned to each category was made by the SSC for kelp greenling (off Oregon) and aurora rockfish as described below.

Two stocks in 2017-2018 have unique sigma values calculated because the proxy sigma values are not deemed the best available by the SSC. Kelp greenling was assessed in 2015. A unique sigma of 0.44 was calculated for kelp greenling (off Oregon) because the variance in estimated spawning biomass was greater than the 0.36 sigma used as a proxy for other category 1 stocks. For the same reason, a unique sigma value for aurora rockfish of 0.39 has been used to calculate the ABC since 2015 and will continue to be used in 2017-2018.

The PCGFMP specifies that the upper limit of P* will be 0.45. A P* of 0.5 equates to no additional reduction for scientific uncertainty beyond the sigma value reduction. A lower P* is more risk averse than a higher value, meaning that the probability of the ABC being greater than the “true” OFL is lower. For 2017-2018, the Council largely maintained the P* policies it established for the 2011-2012, 2013-2014, and 2015-2016 bienniums. The Council recommended using P* values of 0.45 for all individually managed category one species, except sablefish, as was done in 2015-2016. Combining the category one σ value of 0.36 with the P* value of 0.45 results in a reduction of 4.4 percent from the OFL when deriving the ABC. For category two and three stocks, the Council's general policy was to use a P* of 0.4, with a few exceptions. The Council recommended a P* of 0.45 for all of the stocks managed in the Minor Rockfish complexes and the Other Fish complex, as was done in 2015-2016. When combined with the σ values of 0.72 and 1.44 for category two and three stocks, a P* value of 0.40 corresponds to 16.7 percent and 30.6 percent reductions, respectively. The Council recommended using P* values of 0.40 for all individually managed category two and three species, except those described below. The Council recommended a P* of 0.45 for big skate, California scorpionfish south of 40°10′ N. lat., cowcod, English sole, and yellowtail rockfish south of 40°10′ N. lat., as was done in 2015-2016 because there was no new scientific information indicating a change in P* value was warranted. The Council also maintained the P* of 0.45 for the Minor Rockfish complexes and the Other Fish complex, that been used since 2011. For 2017-2018 the Council recommended a P* of 0.45 for big skate and black rockfish off Oregon. The P* recommendations for 2017-2018 that deviated from the Council's general policies are described here and are shown in the table below.

Additional information about the σ values used for different species categories as well as the P*- σ approach can be found in the proposed and final rules from the 2011-2012 biennium (75 FR 67810, November 3, 2010; 76 FR 27508, May 11, 2011) and the 2013-2014 biennium (77 FR 67974, November 14, 2012; 78 FR 580, January 3, 2013). Those rules also include a discussion of the P* values used in combination with the σ values. Tables 1a and 2a of this proposed rule present the harvest specifications for each stock and stock complex, including the proposed ABCs, while the footnotes to these tables describe how the proposed specifications were derived. Below is a summary table showing stocks for which the P*- σ approach deviated from the policies that the SSC and Council generally apply, as explained above.

Table 2—Description of the P*- σ Policies and ABCs for 2017-2018
Stock | Category | Sigma | P* | 2017 ABC | 2018 ABC
COWCOD S. of 40°10′ N. lat | 2&3 | Based on stock assessment category ᵃ | P* of 0.45 was maintained | 63 | 64
Big skate | 2 | Based on stock assessment category ᵃ | P* of 0.45 was maintained, as it had when it was managed in the Other Fish complex | 494 | 494
Black Rockfish (OR) | 2 | Based on stock assessment category ᵃ | The 2016 P* of 0.45 was maintained. The stock assessment moved from a category 1 to a category 2 | 527 | 520
California scorpionfish S. of 40°10′ N | 2 | Based on stock assessment category ᵃ | The 2016 P* of 0.45 was maintained; the stock assessment category was downgraded because of the age of the assessment | 264 | 254
English Sole | 2 | Based on stock assessment category ᵃ | P* of 0.45 was chosen because the stock is healthy and underutilized | 9,964 | 7,537
Sablefish (coastwide) | 1 | Based on stock assessment category ᵃ | More precautionary P* of 0.40 was chosen because the stock is in the precautionary zone, highly utilized, and of large economic importance | 7,350 | 7,604
Yellowtail rockfish N. of 40°10′ N. lat | 2 | Based on stock assessment category ᵃ | P* of 0.45 was chosen because the stock is healthy and underutilized | 6,196 | 6,002
Minor Nearshore Rockfish North | Mix | Based on stock assessment category ᵃ | P* of 0.45 was maintained | 105 | 105
Minor Shelf Rockfish North | Mix | Based on stock assessment category ᵃ |  | 2,049 | 2,048
Minor Slope Rockfish North | Mix | Based on stock assessment category ᵃ except for aurora rockfish |  | 1,755 | 1,754
Aurora rockfish b | 1 | Unique sigma = 0.39 |  | 17 | 17
Minor Nearshore Rockfish South | Mix | Based on stock assessment category ᵃ |  | 1,166 | 1,180
Minor Shelf Rockfish South | Mix | Based on stock assessment category ᵃ | P* of 0.45 was maintained | 1,624 | 1,625
Minor Slope Rockfish South | Mix | Based on stock assessment category ᵃ except for aurora rockfish |  | 718 | 719
Aurora rockfish b | 1 | Unique sigma = 0.39 |  | 71 | 71
Other Fish | Mix | Based on stock assessment category ᵃ except for kelp greenling off Oregon | P* of 0.45 was maintained | 474 | 441
Kelp greenling (OR) b | 1 | Unique sigma = 0.44 | 0.45 | 226 | 192
ᵃ Unless otherwise specified, category 1 stocks have a sigma value of 0.36; category 2 stocks have a sigma of 0.72; category 3 stocks have a sigma of 1.44.
ᵇ Values for this stock contribute to the ABC of the complex and are not specified in regulation.

C. Proposed ACLs for 2017 and 2018

Introduction

ACLs are specified for each stock and stock complex that is “in the fishery.” An ACL is a harvest specification set equal to or below the ABC to address conservation objectives, socioeconomic concerns, management uncertainty, or other factors necessary to meet management objectives. Under PCGFMP Amendment 24, the Council set up default harvest control rules, which established default policies that would be applied to the best available scientific information to set ACLs each biennial cycle, unless the Council has reasons to diverge from that harvest control rule. A complete description of the default harvest control rules for setting ACLs is described in the proposed and final rule for the 2015-2016 harvest specifications and management measures and PCGFMP Amendment 24 (80 FR 687, January 6, 2015; 80 FR 12567, March 10, 2015). That discussion includes a description of the harvest policies applied to stocks based on their depletion level (i.e., healthy, precautionary, overfished) and other factors. Under the PCGFMP, the Council may recommend setting the ACL at a different level than what the default harvest control rules specify as long as the ACL does not exceed the ABC and complies with the requirements of the MSA. For many of the species or stock complexes “in the fishery,” the Council chose to maintain the default harvest control rules from the previous biennial cycle. A summary table of the proposed ACL policies for 2017-2018 is presented below. The following sections discuss proposed ACLs where the Council's recommended ACLs were established based on something other than the default harvest control rule.

Many groundfish stocks are managed with species-specific harvest specifications. Often these species have been assessed and their stock status is known, or individual management of the stock is recommended to address conservation objectives, socioeconomic concerns, management uncertainty, or other factors necessary to meet management objectives. The default harvest control rule for stocks above MSY is to set the ACL equal to the ABC. The default harvest control rule for stocks below MSY but above the overfished threshold is to take a precautionary reduction to set the ACL below the ABC (also called 40-10 or 25-5 reductions), as described in the proposed and final rules for the 2015-2016 biennium (80 FR 687, January 6, 2015; 80 FR 12567, March 10, 2015).

Stocks may be grouped into complexes for various reasons, including: When stocks in a multispecies fishery cannot be targeted independent of one another and MSY cannot be defined on a stock-by-stock basis, when there is insufficient data to measure the stocks' status, or when it is not feasible for fishermen to distinguish individual stocks among their catch. Most groundfish species managed in a stock complex are data-poor stocks without full stock assessments. All of the ACLs for stock complexes are less than or equal to the summed ABC contributions of each component stock in each complex as described in the following paragraphs. Generally, default harvest control rules are based on stock status. According to the framework in the PCGFMP, when the species composition of a stock complex is revised, the default harvest control rule will still be based on status of the stocks that remain in the complex.

When a stock has been declared overfished, a rebuilding plan must be developed and the stock must be managed in accordance with the rebuilding plan (i.e., the default harvest control rule for overfished species is to set the ACL based on the rebuilding plan). The following overfished groundfish stocks would be managed under rebuilding plans in 2017 and beyond: bocaccio south of 40°10′ N. lat.; cowcod south of 40°10′ N. lat.; darkblotched rockfish; POP; and yelloweye rockfish. Changes to rebuilding plans for darkblotched rockfish and POP are proposed, as described below. The remaining overfished species have proposed ACLs based on their current rebuilding plans, described at § 660.40 and in Appendix F of the PCGFMP. The proposed rules for the 2011-2012 (75 FR 67810, November 3, 2010) and 2013-2014 (77 FR 67974, November 14, 2012) harvest specifications, and management measures contain extensive discussions on the management approach used for overfished species, which are not repeated here. Further, the SAFE document posted on the Council's Web site at http://www.pcouncil.org/groundfish/safe-documents/ contains a detailed description of each overfished species, its status and management, as well as how rebuilding analyses are conducted. Finally, Appendix F to the PCGFMP contains the most recent rebuilding plan parameters as well as a history of each overfished species and can be found at http://www.pcouncil.org/groundfish/fisherymanagement-plan/.

New for the 2017-2018 biennium, the Council proposed the creation of an emergency buffer. The buffer is specific amounts of yield that are deducted from the ACLs for canary rockfish, darkblotched rockfish, and POP, to account for unforeseen catch events. The buffer approach is described below in “Deductions from the ACLs.” This new management measure would set the fishery harvest guideline, the catch amount from which the allocations are based, on the amount after the buffer is subtracted from the ACL. The result is an amount of yield for these three species that is unallocated at the start of the year, but is held in reserve as a buffer, and can be distributed to fisheries in need after an unforeseen catch event occurs inseason.

Darkblotched Rockfish (S. crameri)

Darkblotched rockfish was declared overfished in 2000. From 2011 through 2016 the darkblotched rockfish rebuilding plan has been based on an annual SPR harvest rate of 64.9 percent with a target year to rebuild the stock to BMSY of 2025. Additional discussion regarding the establishment of this rebuilding plan can be found in the proposed and final rules for the 2011-2012 biennial period (75 FR 67810, November 3, 2010; 76 FR 27508, May 11, 2011) and is not repeated here. The 2013 assessment indicated that darkblotched rockfish was at 36 percent of its unfished biomass, and was projected to be rebuilt in 2015. The Council did not change the rebuilding plan at that time, and prioritized a new darkblotched rockfish assessment for 2015. The 2015 assessment indicated that darkblotched rockfish is at 39 percent of unfished biomass, and is projected to be rebuilt during 2015. Under any harvest level less than or equal to the OFL in 2015 and beyond, and under all of the harvest alternatives considered by the Council for 2017 and beyond, the stock is projected to be rebuilt by the start of 2016 and not fall below B40%in the next 10 years. All of the alternatives result in a TTARGET that is 10 years earlier than the current rebuilding plan.

The Council considered two alternative harvest control rules. The first was 406 mt and 409 mt in 2017-2018, which are the ACLs that result from applying the default harvest control rule of an SPR harvest rate of 64.9 percent. This is the same harvest control rule that was applied in 2016. The default harvest control rule results in an ACL higher than the 2016 ACL of 356 mt due to the more optimistic stock assessment results. Because the Pacific whiting fisheries have been constrained by the catch of darkblotched rockfish in recent years, the Pacific whiting sectors are expected to be constrained under this alternative. The at-sea Pacific whiting fleets have been managed with an allocation for darkblotched rockfish for several years, such that attainment of that allocation results in automatic closure of the fishery, and have taken extensive measures to keep incidental catch rates low. The shorebased Pacific whiting fleets have been managed with individual fishing quota (IFQ) for darkblotched rockfish for several years, and have also made efforts to keep incidental catch low. Despite this, unexpected darkblotched rockfish catch events, where several tons of darkblotched rockfish have been incidentally taken in single hauls, have continued to occur in the Pacific whiting fishery. As the darkblotched rockfish stock rebuilds, avoiding such events is increasingly more difficult. With 406-409 mt ACLs there is a higher likelihood that such an event would result in the closure of one or more of the at-sea fishery coops or a shorebased vessel reaching its vessel limit and be forced to cease fishing in the IFQ fishery.

The second ACL alternative was 641 mt and 653 mt in 2017 and 2018, respectively, and results from applying the default harvest control rule for healthy stocks (setting the ACL equal to the ABC) for calculating the 2017-2018 ACLs for darkblotched rockfish because the stock is anticipated to be rebuilt by 2016. This harvest control rule results in higher ACLs of 641 mt and 653 mt in 2017 and 2018, respectively. The higher ACL alternative may provide additional opportunities for some sectors of the fishery. It is less likely that Pacific whiting sectors would be closed before harvesting their Pacific whiting allocations under this alternative. Setting the ACL equal to the ABC, darkblotched rockfish is still projected to remain healthy (depletion above 40 percent) over the next ten years. The Council recommended applying the default harvest control rule for healthy stocks for calculating the 2017-2018 ACLs for darkblotched rockfish: setting the ACL equal to the ABC. Under this harvest control rule, setting the ACL equal to the ABC, darkblotched rockfish is projected to remain healthy (depletion above 40 percent) over the next ten years. As described above in the “Introduction” to this section, the Council also proposed to set an amount of darkblotched yield aside from the ACL as a buffer that will be available for distribution through routine inseason action, see “Deductions from the ACLs” below for details on the buffer approach.

Though the 2015 assessment indicates that the stock will be rebuilt by the start of 2016 regardless of the harvest control rule chosen for 2017-2018 and beyond, the Council chose not to modify the TTARGET of 2025 because of uncertainty in the assessment. There is uncertainty in the assessment because of the model's sensitivity to catch trends in the NMFS trawl survey, assumptions of steepness, and assumption of natural mortality. Sensitivity in the model means that projections in stock status can vary widely if the assumed steepness or natural mortality are revised. However, the SSC has endorsed the 2015 darkblotched rockfish assessment as the best available science and has recommended that the next darkblotched assessment be an update assessment, where model parameters like steepness and natural mortality are held constant from the full assessment. In the past, the SSC has also recommended against changing the TTARGET as stocks rebuild, because it can result in repeated changes to rebuilding plans that are driven primarily by model sensitivity and not by true changes in stock status. Therefore, the Council chose not to change the TTARGET in the rebuilding plan.

This harvest control rule meets the requirements to rebuild as quickly as possible, taking into account the needs of fishing communities and other relevant factors, as the stock is estimated to already be rebuilt. This is 10 years ahead of the TTARGET in the current rebuilding plan of 2025. The change in the harvest control rule is also anticipated to better meet the needs of fishing communities because a higher ACL and resulting trawl allocation (this species is predominately caught in trawl fisheries) could help mitigate negative impacts to communities if encounters with darkblotched rockfish continue to increase as the stock rebuilds. A higher darkblotched rockfish ACL may increase access to other co-occurring target stocks, increasing landings of groundfish, which would benefit coastal communities.

Pacific Ocean Perch (S. alutus)

POP was declared overfished in 1999. Since 2007, the Council has recommended ACLs for POP based on an SPR harvest rate of 86.4 percent. The rebuilding analysis for POP was last updated in the 2013-2014 biennial process based on the 2011 stock assessment and rebuilding analysis. The detailed description and rationale for the current rebuilding plan parameters, an SPR harvest rate of 86.4 percent and a TTARGET of 2051, is described in the 2013-2014 Harvest Specifications and Management Measures proposed rule (77 FR 67974, November 14, 2016). The SPR harvest rate of 86.4 percent and a TTARGET of 2051 is the default harvest control rule for POP.

The 2011 rebuilding analysis projected ACLs for 2017-2018 under the default harvest control rule. However, that rebuilding analysis assumed that mortality of POP from 2011 and beyond would be equal to the ACL each year. Harvest of POP has been well below the ACL in recent years. Therefore, the 2011 rebuilding analysis for POP was updated using 2011-2014 actual catches, resulting in updated projected ACLs for 2017-2018. The updated ACLs for 2017-2018 were slightly higher than the 2017-2018 ACLs in the original 2011 rebuilding plan because actual removals were lower than those assumed in the original 2011 rebuilding analysis.

The 2017-2018 ACLs, after applying the default harvest control rule (i.e., based on the SPR harvest rate of 86.4 percent, with a TTARGET of 2051), are 171 mt and 176 mt in 2017 and 2018, respectively. The updated 2011 rebuilding plan showed a small increase in the projected ACLs for 2017-2018 from those predicted in the original 2011 rebuilding plan (169 mt and 173 mt for 2017 and 2018, respectively). In addition to the ACLs described above, the Council considered two ACL alternatives for 2017-2018 that would temporarily modify the rebuilding plan, set higher ACLs in 2017, or both 2017 and 2018, and return to lower ACLs based on the SPR harvest rate of 86.4 percent, with a TTARGET of 2051 in 2019 and beyond. The alternative ACLs considered by the Council included: (1) 388 mt in 2017 and an ACL based on the default harvest control rule in 2018 (175 mt) and beyond; and (2) 281 mt constant catch amounts in 2017 and 2018 and an ACL based on the default harvest control rule in 2019 and beyond. All of the alternatives correspond to a median time to rebuild of 2051. The alternatives that modify the harvest control rule result in a less than one percent decrease in the probability of rebuilding by TTARGET.

The Council considered this range of POP ACL alternatives to examine the effects of varying POP mortality on the “needs of fishing communities” and the POP rebuilding trajectory. All of the alternatives would maintain the SPR harvest rate as the default harvest control rule in 2019 and beyond, and consider varying the level of harvest in 2017 and 2018 under different harvest control rules. Generally, larger POP ACL alternatives would allow targeting opportunities on midwater non-whiting trawl fisheries and harvest of available Pacific whiting. POP is a slow growing rockfish species that is primarily taken in the trawl fisheries. Generally, lower POP ACL alternatives would reduce flexibility of trawl vessels to fish deeper when targeting Pacific whiting and non-whiting species on slope fishing grounds north of 40°10′ N. lat. POP has been one of the limiting factors for harvest opportunities of Pacific whiting in recent years. At the June 2016 meeting, the Council considered updated fishery information regarding harvest of POP in at-sea Pacific whiting fisheries and requests from industry for higher amounts of POP to be made available to their sectors to allow continued harvest of available Pacific whiting. Low rebuilding ACLs, rigidity in the allocation scheme, and unpredictable and sudden large incidents of POP bycatch in the Pacific whiting fisheries have resulted in POP limiting access to Pacific whiting, whose harvest benefits coastal communities.

The Council recommended a temporary revision to the rebuilding strategy for POP, with a constant catch ACL of 281 mt in 2017 and 2018, returning to an SPR harvest rate of 86.4 percent in 2019 and beyond. This is an increase of 105-110 mt from the ACLs under the default harvest control rule. The TTARGET is maintained at 2051, which is the median time to rebuild and is eight years longer than TF=0. As described above in the “Introduction” to this section, the Council also proposed to set an amount of POP yield aside from the ACL as a buffer that will be available for distribution through routine inseason action, see “Deductions from the ACLs” below for details on the buffer approach. Total catch mortality of POP is projected to be considerably less than the Council-recommended 281 mt constant catch ACLs in 2017 and 2018. The constant catch ACLs of 281 mt, combined with the deduction from the ACL further described below in “Deductions from the ACLs,” will keep harvest to a level that is less than the annual ACL and continue to maintain the stocks rebuilding trajectory, while reducing the likelihood of inseason restrictions to fisheries that catch POP and while targeting co-occurring healthy stocks. The Council's new harvest control rule for POP will reduce the risk of earlier-than-anticipated closures of such fisheries due to unforeseen catch events. Those early closures would inhibit harvest of available Pacific whiting, whose revenue is important to coastal communities.

Big Skate

As described in the sections above regarding OFLs and ABCs, big skate is proposed to be considered “in the fishery,” and no longer considered an ecosystem component species. The stock will be managed with species-specific harvest specifications. The ACL is based on the default harvest control rule for healthy stocks.

Blackgill Rockfish ACL/HG and Future Changes to Allocations

Blackgill rockfish south is in the Minor Slope Rockfish South complex and contributes to the harvest specifications of that complex in 2017 and 2018. Blackgill rockfish will have a harvest guideline each year that is equal to its ACL contribution to the complex. No changes to the species composition of Minor Slope Rockfish South allocations are proposed at this time. The Council took final action on Amendment 26 to the PCGFMP which would make changes to management of blackgill rockfish. However, this amendment has not been implemented at this time and therefore this rule continues to manage blackgill as part of the Minor Slope South complex. If a future action considers changes to the species composition of the Minor Slope Rockfish South complex and allocations for blackgill rockfish, those changes would be implemented in that rule and are not discussed further here.

Table 3—Summary of ACL Policies
Stock | 2016: ACL (mt) | 2016: Policy | 2017: ACL (mt) | 2018: ACL (mt) | 2017-2018: Policy | 2017-2018: Summary of policy change
BOCACCIO S. of 40°10′ N. lat | 362 | SPR = 77.7% | 790 | 741 | SPR = 77.7% | New 2015 assessment. No change in policy.
COWCOD S. of 40°10′ N. lat | 10 | SPR = 82.7% (F = 0.007); ACT = 4 mt | 10 | 10 | SPR = 82.7% (F = 0.007); ACT = 4 mt | No change.
DARKBLOTCHED ROCKFISH | 346 | SPR = 64.9% | 641 | 653 | ACL = ABC (P* = 0.45) | New 2015 assessment. Stock is projected to be rebuilt by 2015 under any harvest level, therefore the default harvest control rule of ACL = ABC, with a P* = 0.45 was applied because it is projected to be a healthy, category 1 stock.
PACIFIC OCEAN PERCH | 164 | SPR = 86.4% | 281 | 281 | Constant catch stretegy for 2017-2018; SPR = 86.4% for 2019 and beyond | Two-year ACL increase to meet the needs of communities, while still rebuilding as quickly as possible, by the Target specified in the current rebuilding plan.
YELLOWEYE ROCKFISH | 19 | SPR = 76.0% | 20 | 20 | SPR = 76.0% | No charge.
Arrowtouch flounder | 5,328 | ACL = ABC (P* = 0.40) | 13,804 | 13,743 | ACL = ABC (P* = 0.40) | No charge.
Big skate | Ecosystem component species; no harbest specifications |  | 494 | 494 | ACL = ABC (P* = 0.45) | Species added to the FMP. Applied default harvest control rule of ACL = ABC, with a P* = 0.45 because it is a healthy stock.
Black rockfish (CA) |  |  | 334 | 332 | ACL = ABC (P* = 0.45) | New 2015 assessment. Applied default harvest control rule of ACL = ABC, with a P* = 0.45 because this is a healthy, category 1 stock.
Black rockfish (OR) | 1,000 | Constant catch strategy | 527 | 520 | ACL = ABC (P* = 0.45) | New 2015 assessment. Applied default harvest control rule of ACL = ABC, with a P* = 0.45 because this is a healthy, category 1 stock.
Black rockfish (WA) | 404 | ACL = ABC (P* = 0.45) | 305 | 301 | ACL = ABC (P* = 0.45) | New 2015 assessment. No change in policy.
Cabezon (CA) | 151 | ACL = ABC (P* = 0.45) | 150 | 149 | 40-10 rule applied (P* = 0.45) | No change.
Cabezon (OR) | 47 | ACL = ABC (P* = 0.45) | 47 | 47 | ACL = ABC (P* = 0.45) | No change.
California scorpionfish S. of 40°10′ N. lat | 111 | ACL = ABC (P* = 0.45) | 150 | 150 | ACL = ABC (P* = 0.45) | No change.
Canary rockfish | 125 | SPR = 88.7% | 1,714 | 1,526 | ACL = ABC (P* = 0.45) | New 2015 assessment. Applied default harvest control rule of ACL = ABC, with a P* = 0.45 because this is a healthy, category 1 stock.
Chilipepper S. of 40°10′ N. lat | 1,619 | ACL = ABC (P* = 0.45) | 2,607 | 2,507 | ACL = ABC (P* = 0.45) | New 2015 assessment. No change.
Dover sole | 50,000 | Constant catch strategy | 50,000 | 50,000 | Constant catch strategy | No change.
English sole | 7,204 | ACL = ABC (P* = 0.45) | 9,964 | 7,537 | ACL = ABC (P* = 0.45) | No change.
Lingcod N. of 40°10′ N. lat | 2,719 | ACL = ABC (P* = 0.45) | 3,333 | 3,110 | ACL = ABC (P* = 0.45) | No change.
Lingcod S. of 40°10′ N. lat | 946 | ACL = ABC (P* = 0.4) | 1,251 | 1,144 | ACL = ABC (P* = 0.4) | No change.
Longnose skate | 2,000 | Constant catch strategy | 2,000 | 2,000 | Constant catch strategy | No change.
Longspine thornyhead N. of 34°27′ N. lat | 3,015 | ACL = 76% of coastwide ABC (P* = 0.40) | 2,894 | 2,747 | ACL = 76% of coastwide ABC (P* = 0.40) | No change.
Pacific Cod | 1,600 | ACL = 50% of OFL | 1,600 | 1,600 | ACL = 50% of OFL | No change.
Petrale Sole | 2,910 | 25-5 rule applied to the ABC (P* = 0.45) | 3,136 | 3,013 | ACL = ABC (P* = 0.45) | New 2015 assessment. Applied default harvest control rule of ACL = ABC, with a P* = 0.45 because this is a healthy, category 1 stock.
Sablefish N. of 36° N. lat | 5,241 | 40-10 rule applied to 73.6% of coastwide ABC (P* = 0.40) | 6,041 | 6,299 | 40-10 rule applied to 84.9% of coastwide ABC (P* = 0.40) | New 2015 assessment and updated north/south apportionment. No change.
Sablefish S. of 36° N. lat | 1,880 | 40-10 rule applied to 26.4% of coastwide ABC (P* = 0.40) | 1,075 | 1,120 | 40-10 rule applied to 15.1% of coastwide ABC (P* = 0.40) | New 2015 assessment and updated north/south apportionment. No change.
Shortbelly rockfish | 500 | Constant catch strategy | 500 | 500 | Constant catch strategy | No change.
Shortspine thornyhead N. of 34°27′ N. lat | 1,726 | ACL = 65.4% of coastwide ABC (P* = 0.40) | 1,713 | 1,698 | ACL = 65.4% of coastwide ABC (P* = 0.40) | No change.
Shortspine thornyhead S. of 34°27′ N. lat | 913 | ACL = 34.6% of coastwide ABC (P* = 0.40) | 906 | 898 | ACL = 34.6% of coastwide ABC (P* = 0.40) | No change.
Spiny dogfish | 2,085 | ACL = ABC (P* = 0.40) | 2,094 | 2,083 | ACL = ABC (P* = 0.40) | No change.
Splitnose rockfish S. of 40°10′ N. lat | 1,746 | ACL = ABC (P* = 0.45) | 1,760 | 1,761 | ACL = ABC (P* = 0.45) | No change.
Starry flounder | 1,539 | ACL = ABC (P* = 0.40) | 1,282 | 1,282 | ACL = ABC (P* = 0.40) | No change.
Widow rockfish | 2,000 | Constant catch strategy | 13,508 | 12,655 | ACL = ABC (P* = 0.45) | New 2015 assessment. Applied default harvest control rule of ACL = ABC, with a P* = 0.45 because this is a healthy, category 1 stock.
Yellowtail N. of 40°10′ N. lat | 6,344 | ACL = ABC (P* = 0.45) | 6,196 | 6,002 | ACL = ABC (P* = 0.45) | No change.
Minor Nearshore Rockfish north | 69 | ACL = ABC (P* = 0.45); 40-10 adj. ACL contrib. for blue RF in CA and China RF | 105 | 105 | ACL = ABC (P* = 0.45); 40-10 adj. ACL contrib. for blue RF in CA | New 2015 China RF assessment. No change.
Minor Shelf Rockfish north | 1,952 | ACL = ABC (P* = 0.45); 40-10 adj. ACL contrib. for greenspotted RF in CA | 2,049 | 2,047 | ACL = ABC (P* = 0.45); 40-10 adj. ACL contrib. for greenspotted RF in CA | New 2015 chilipepper assessment. No change.
Minor Slope Rockfish north | 1,706 | ACL = ABC (P* = 0.45) | 1,755 | 1,754 | ACL = ABC (P* = 0.45) | No change.
Minor Nearshore Rockfish south | 1,006 | ACL = ABC (P* = 0.45); 40-10 adj. ACL contrib. for blue RF N of 34°27′ N. lat. | 1,163 | 1,179 | ACL = ABC (P* = 0.45); 40-10 adj. ACL contrib. for blue RF N of 34°27′ N. lat. and China RF | New 2015 China RF assessment. No change.
Minor Shelf Rockfish south | 1,625 | ACL = ABC (P* = 0.45); 40-10 adj. ACL contrib. for greenspotted RF in CA | 1,623 | 1,624 | ACL = ABC (P* = 0.45); 40-10 adj. ACL contrib. for greenspotted RF in CA | New 2015 chilipepper assessment. No change.
Minor Slope Rockfish south | 695 | ACL = ABC (P* = 0.45); 40-10 adj. ACL contrib. for blackgill RF | 707 | 709 | ACL = ABC (P* = 0.45); 40-10 adj. ACL contrib. for blackgill RF | No change.
Other Flatfish | 7,243 | ACL = ABC (P* = 0.4) | 8,510 | 7,281 | ACL = ABC (P* = 0.4) | No change.
Other Fish | 243 | ACLs = ABCs (ABC contribution from only selected stocks in the complex; for all those species P* = 0.45) | 474 | 441 | ACLs = ABCs (P* = 0.45) | New 2015 kelp greenling (off Oregon) assessment. All species in the complex contribute to the harvest specifications.

IV. Management Measures

New management measures being proposed for the 2017-2018 biennial cycle would work in combination with current management measures to control fishing. This management structure should ensure that the catch of overfished groundfish species does not exceed the rebuilding ACLs while allowing harvest of healthier groundfish stocks to occur to the extent possible. Routine management measures are used to modify fishing behavior during the fishing year. Routine management measures for the commercial fisheries include trip and cumulative landing limits, time/area closures, size limits, and gear restrictions. Routine management measures for the recreational fisheries include bag limits, size limits, gear restrictions, fish dressing requirements, and time/area closures. The groundfish fishery is managed with a variety of other regulatory requirements that are not routinely adjusted, many of which are not changed through this rulemaking, and are found at 50 CFR part 660, subparts C through G. The regulations at 50 CFR part 660, subparts C through G, include, but are not limited to, long-term harvest allocations, recordkeeping and reporting requirements, monitoring requirements, license limitation programs, and essential fish habitat (EFH) protection measures. The routine management measures, specified at 50 CFR 660.60(c), in combination with the entire collection of groundfish regulations, are used to manage the Pacific Coast groundfish fishery during the biennium to achieve harvest guidelines, quotas, or allocations, that result from the harvest specifications identified in this proposed rule, while protecting overfished and depleted stocks.

In addition to changes to routine management measures, this section describes biennial fishery allocations and set-asides, and new management measures proposed for 2017-2018 including: creation of a new off-the-top deduction for canary rockfish, POP, and darkblotched rockfish to address unforeseen catch events (the buffer), classification of big skate in the PCGFMP, flatfish retention during seasonal depth closures in Oregon, a new inseason process for California recreational and commercial fisheries, and petrale sole and starry flounder retention in the California recreational fishery.

The management measures being proposed reflect the Council's recommendations from its June 2016 meeting, as transmitted to NMFS. At its June 2016 meeting, the Council recommended the creation a buffer for canary rockfish, POP, and darkblotched rockfish, that would be included in the final rule for this action; therefore NMFS is specifically seeking public comment on that item.

This rule also proposes changes to recreational regulations in Washington and Oregon to allow flatfish retention during days open to Pacific halibut fishing. This would make groundfish regulations consistent with past modifications to the Council's Pacific Halibut Catch Sharing Plan.

A. Deductions From the ACLs

Before allocations are made to groundfish fisheries, deductions are made from ACLs to set aside fish for certain types of activities, also called “off-the-top deductions.” The deductions from the ACL have been associated with four distinct sources of groundfish mortality. The sources of groundfish mortality accounted for are: harvest in Pacific Coast treaty Indian tribal fisheries; harvest in scientific research activities; harvest in non-groundfish fisheries; and harvest that occurs under exempted fishing permits (EFPs). For 2017-2018, a new category of deductions from the ACL is proposed to account for unforeseen catch events for three species (canary rockfish, POP, and darkblotched rockfish), also called the buffer. All the deductions from the ACL, including the proposed amount for unforeseen catch events, are described at § 660.55(b) and specified in the footnotes to Tables 1a and 2a to subpart C. Under current regulations, modifications to these amounts is permitted through routine inseason action. In order to keep the public informed about these changes, any movement of fish from the deductions from the ACL to other fisheries will be announced in the Federal Register.

The Buffer

At its June 2016 meeting the Council recommended the addition of a new off-the-top deduction to account for unforeseen catch events in any sector, also known as a buffer, and specifically established buffer amounts for canary rockfish, POP, and darkblotched rockfish.

Currently, off-the-top deductions may be distributed to any sector through routine inseason after the Council has made the appropriate considerations. It is NMFS's interpretation that the Council intended to apply the current inseason distribution procedures and Council considerations to the buffer amounts (i.e., the Council did not intend to create new criteria for distributing the buffer). Also, NMFS interprets the Council's intent was not to apportion the buffer simply because allocations of bycatch species are lower or allocations of target species are higher than in previous years; rather, any distribution would be based on demonstrated need. Consistent with the Council's recommendation that the buffer be used to account for unforeseen catch events, this proposed rule provides that any buffer amounts could only be distributed due to an unforeseen catch event. Further, any distribution must go to a sector that has demonstrated a need for receiving such a distribution not for the sole purpose of extending a fishery before a need is demonstrated.

Therefore, this rule proposes that any buffer amounts would be available for distribution through routine inseason action and, when making any distribution decisions on the buffer through an inseason action, the Council would consider the existing allocation framework criteria and objectives to maintain or extend fishing and marketing opportunities as stated in the PCGFMP, while taking into account the best available fishery information on sector needs.

This means NMFS does not see a way to apportion the buffer prior to a fishery starting. It is anticipated that in that situation, sectors would use currently available inseason tools to prosecute their fishery.

Other Buffer Considerations

For each of these three species, the buffer approach and the choice of ACLs are linked because the ACLs recommended by the Council in June 2016 and proposed in this rule are higher than the ACLs the Council preliminarily recommended at their April meeting. The increased ACLs are proposed to accommodate the buffer amounts. For canary and darkblotched the Council recommended ACLs based the default harvest control rule for healthy stocks, and for POP the Council recommended a constant catch ACL of 281 mt in 2017 and 2018. For a more detailed discussion of the ACLs for POP and darkblotched rockfish, see the “Proposed ACLs for 2017 and 2018” section above.

Under the buffer approach, for darkblotched rockfish and POP all sectors would receive lower allocations than if the entire ACL were allocated. For canary rockfish, the nontrawl allocation is not reduced with the buffer because the nontrawl allocation was held constant. In other words, there is potential foregone yield by most sectors (either through targeting or increased access to bycatch) by establishing the buffer. The forgone yield by implementing the buffer could be considered the price for addressing uncertainty in the assessment and projected catches while achieving conservation goals and objectives and providing stability in management of the fishery, as envisioned in the PCGFMP and under MSA. Overall, however, the forgone yield is expected to be inconsequential since historic ACL attainment for these species has been low. From 2011-2014, on average 42 percent of the canary ACLs were attained, 41 percent of the darkblotched ACLs, and 35 percent of the POP ACLs.

Another consideration for the buffer is the accumulation limits in the IFQ fishery. Accumulation limits in the IFQ program limit the amount of quota share (QS) that a person, individually or collectively, may own or control (i.e. QS control limits), and set limits on the amount of quota pounds (QP) that a vessel may catch or hold in its vessel account during the year (i.e. annual vessel limits). Identical to the current off-the-top deductions, any buffer amount that is apportioned to the Shorebased IFQ Program would change allocations, and therefore would also affect the individual amounts associated with the QS and QP accumulation limits. Relative to QS, there would be no change in the percentage that applies for the QS accumulation limits; the existing percentage would be applying to a larger poundage that may result in a higher poundage at the individual level.

Relative to QP, in the Shorebased IFQ Program a limited amount of surplus QP in a vessel account may be carried over from one year to the next, and a deficit in a vessel account in one year may be covered with QP from a subsequent year, up to a carryover limit. QP made available to the Shorebased IFQ Program from the buffer amounts, will not count towards calculations for carryover, consistent with the current procedures of off-the-top deductions. The Pacific whiting final rule (77 FR 28497, May 15, 2012, comment 15) addressed this issue in the context of reapportionment of Pacific whiting to the Shorebased IFQ Program. Any release of additional QP resulting from deductions from the ACL is similar to reapportionment of Pacific whiting in that both may be added to the shorebased trawl allocation during the year but were not part of the annual allocation. Because reapportionment of Pacific whiting is not included in the calculation for the carryover limit in the Shorebased IFQ Program, and because release of additional QP is a similar provision, NMFS proposes that that release of additional QP resulting from redistribution of any buffer amounts would also not count toward the carryover limit. Current regulations at § 660.140(e)(5) state that these additional amounts do not count toward calculation of the carryover limit. No changes to the regulations at § 660.140(e)(5)(ii) regarding deficit carryover are proposed. Therefore, if a vessel has already opted out of the fishery, it would not have the option of covering its deficit with the additional QP that were released from the buffer. Also, current regulations at § 660.140(e)(5)(i) are not proposed to be changed, and state that surplus carryover QP or IBQ pounds are deposited straight into vessel accounts and do not change the shorebased trawl allocation.

B. Biennial Fishery Allocations

Two-year trawl and nontrawl allocations are decided during the biennial process for those species without long-term allocations or species where the long-term allocation is suspended because the species was declared overfished. For all species, except sablefish north of 36° N. lat., allocations for the trawl and nontrawl sectors are calculated from the fishery harvest guideline. The fishery harvest guideline is the tonnage that remains after subtracting from the ACL harvest in Tribal fisheries, scientific research activities, non-groundfish fisheries, some activities conducted under exempted fishing permits, and the yield to account for unforeseen catch events. The two-year allocations and recreational harvest guidelines are designed to accommodate anticipated mortality in each sector as well as to accommodate variability and uncertainty in those estimates of mortality. Allocations described below are specified in the harvest specification tables appended to 50 CFR part 660, subpart C.

Bocaccio

The following are the Council's recommended allocations for bocaccio in 2017: Limited entry trawl, 302.4 mt; limited entry and open access non-nearshore fixed gears, 144.3 mt; limited entry and open access nearshore fixed gear, 1.8 mt; and California recreational 326.1 mt. The following are the Council's recommended allocations for bocaccio in 2018: Limited entry trawl, 283.3 mt; limited entry and open access non-nearshore fixed gears, 135.1 mt; Limited entry and open access nearshore fixed gear, 1.7 mt; California recreational 305.5 mt. These allocations are anticipated to accommodate estimates of mortality of bocaccio, by sector, in 2017-2018 and maintain a similar allocation scheme as in 2016.

Canary Rockfish

Since the last biennium canary rockfish has been declared rebuilt and continues to be allocated biennially. The following are the Council's recommended allocations for canary rockfish in 2017: Shorebased IFQ Program, 1014.1 mt; at-sea sectors of the Pacific whiting fishery, 46 mt (catcher/processor (C/P), 16 mt; and mothership (MS), 30 mt); limited entry and open access non-nearshore fixed gears, 46.5 mt; limited entry and open access nearshore fixed gear, 100 mt; Washington recreational, 50 mt; Oregon recreational, 75 mt; and California recreational, 135 mt. The following are the Council's recommended allocations for canary rockfish in 2018: Shorebased IFQ Program, 1,014.1 mt; at-sea sectors of the Pacific whiting fishery, 46 mt (C/P, 16 mt; and MS, 30 mt); limited entry and open access non-nearshore fixed gears, 46.5 mt; limited entry and open access nearshore fixed gear, 100 mt; Washington recreational, 50 mt; Oregon recreational, 75 mt; and California recreational, 135 mt. These allocations are anticipated to accommodate estimates of mortality of canary rockfish, by sector, in 2017-2018 and address the newly rebuilt status.

Cowcod

For 2017-2018, the Council recommended setting a cowcod ACT at 4 mt, and having it function as a fishery harvest guideline similar to the 2015-2016 biennium; it is the amount that would be allocated across groundfish fisheries. The cowcod allocation is proposed to be 36 percent (1.4 mt) trawl and 64 percent (2.6 mt) nontrawl for 2017-2018. NMFS anticipates the proposed allocation structure will keep catch below the 2017-2018 cowcod ACTs without having to make changes to fishery management measures and maintains the same allocation scheme as in 2016.

Petrale Sole

Petrale sole was declared rebuilt since the last biennium and is an Amendment 21 allocated species. Therefore, this rule proposes allocations of 95 percent trawl and 5 percent nontrawl. For petrale sole, 2,745.3 mt is allocated to Shorebased IFQ Program and 144.8 mt is allocated to the nontrawl fishery in 2017. For 2018, 2,628.5 mt is allocated to the Shorebased IFQ Program and 138.6 mt is allocated to the nontrawl fishery.

Yelloweye Rockfish

The Council recommended that the fishery HG be divided into trawl and nontrawl allocations as follows: 1.10 mt to trawl and 13.1 mt to nontrawl in 2017; and 1.1 mt to trawl and 12.9 mt to nontrawl in 2018. The following are the Council's recommended HGs for yelloweye rockfish in 2017: Limited entry and open access non-nearshore fixed gears, 0.8; limited entry and open access nearshore fixed gear, 2.1; Washington recreational, 3.3; Oregon recreational 3 mt; and California recreational 3.9 mt. The following are the Council's recommended HGs for yelloweye rockfish in 2018: Limited entry trawl, 1.1 mt; limited entry and open access non-nearshore fixed gears, 0.7; limited entry and open access nearshore fixed gear, 2; Washington recreational, 3.3; Oregon recreational 3 mt; and California recreational 3.9 mt. These allocations are anticipated to accommodate estimates of mortality of yelloweye by sector in 2017-2018, and maintain the same allocation scheme that was in place for yelloweye rockfish in 2016.

Black Rockfish off Oregon and California

Washington, Oregon, and California will have state-specific HGs for black rockfish in 2017-2018. This is a change from 2015-2016 where the Oregon-California federal fishery HG was combined. For 2017, the harvest guidelines are: Washington 287 mt, Oregon 526.4, California 333 mt. For 2018, the harvest guidelines are as follows: Washington 283 mt, Oregon 519.4 mt, and California 331 mt.

Longnose Skate

The Council recommended a two-year trawl and nontrawl HG for longnose skate of 90 percent to the trawl fishery and 10 percent to the nontrawl fishery. The allocation percentages reflect historical catch of longnose skate between the two sectors. This maintains the same allocation scheme that was in place for longnose skate in 2016. Therefore the 2017-2018 trawl allocations are 1,667.7 mt and 185.3 mt nontrawl.

Minor Nearshore Rockfish

California will continue to have a state-specific harvest guideline for blue/deacon rockfish. Amendment 27 would add deacon rockfish to the PCGFMP and this rule proposes to apply current regulations for blue rockfish to blue/deacon as recent information indicates that catch histories of deacon and blue rockfish are conflated since they were not distinguished until recently. The blue rockfish harvest guideline for the area south of 42° N. latitude is the sum of three components: (1) The assessed stock's contribution to the Minor Nearshore Rockfish complex ABC (south of 40°10′ N. lat.), (2) the contribution for the unassessed portion south of Point Conception, and (3) the contribution to the Nearshore Rockfish complex ABC for the area between 40°10′ N. lat. and 42° N. lat. For 2017 and 2018, this results in a 305 and 311 mt HG, respectively, for blue/deacon rockfish south of 42° N. lat.

Harvest specifications for Minor Nearshore Rockfish north of 40°10' N. lat. are increased from the 69 mt in 2015-2016 to 103.2 mt in 2017-2018. The states intend to manage catch using state-specific harvest guidelines: 16.9 mt for Washington; 46.1 mt for Oregon, and 40.2 mt for California north of 40°10′ N. lat. However, instead of implementing state specific harvest guidelines in Federal regulations, the state Council representatives from Oregon and Washington committed to heightened inseason communication regarding catches of species managed in the complex relative to the harvest guidelines consistent with the current state coordinated management. California will have a Federal harvest guideline for this complex from 42° N. lat. to 40°10′ N. lat. to facilitate inseason action if needed, and has committed to increased catch reporting at Council meetings. In California, the HG of 40.2 mt would be specified in Federal regulation and apply only in the area between 40°10′ N. lat. and 42° N. lat. California, through the Council, could propose changes through Federal regulations. Under state management, landed component species within the Minor Nearshore Rockfish complex must be sorted to species. Because the states may also take inseason action independent of NMFS, the proposed action is not anticipated to result in exceeding the complex ACL in 2017-2018.

Although the Minor Nearshore Rockfish North ACL attainment has been high in recent years, reaching 100 percent in 2011, management measures have prevented the ACL from being exceeded. State nearshore management plans and policies mitigate the risk of overfishing. State HGs and a federal HG for Minor Nearshore Rockfish in the area between 40°10′ and 42° N. lat. under the proposed action will reduce the risk of exceeding the complex ACL.

Minor Shelf Rockfish

Allocations for Minor Shelf Rockfish are recommended by the Council each biennial cycle. For Minor Shelf Rockfish north of 40°10′ N. lat., 1,183.1 mt (60.2 percent of the fishery harvest guideline) is allocated to the trawl fishery and 782.1 mt (39.8 percent of the fishery harvest guideline) is allocated to the nontrawl fishery for 2017. For Minor Shelf Rockfish south of 40°10′ N. lat., 192.2 mt (12.2 percent of the fishery harvest guideline) is allocated to the trawl fishery and 1,383.6 mt (87.8 percent of the fishery harvest guideline) is allocated to the nontrawl fishery for 2017. For 2018, the same percentages are applied resulting in allocations of 1,181.8 mt to the trawl fishery and 781.4 mt to the nontrawl fishery north of 40°10′ N. lat., and 192.37 mt to the trawl fishery and 1,384.4 mt to the nontrawl fishery south of 40°10′ N. lat. This maintains the same allocation percentages as were in place for the Minor Shelf Rockfish complexes since 2011.

Minor Slope Rockfish

Minor Slope Rockfish were allocated between the trawl and nontrawl fisheries in PCGFMP Amendment 21. This action applies those Amendment 21 allocation percentages to the updated 2017-2018 fishery harvest guidelines. Blackgill rockfish in California was assessed in 2011 and has continued to be managed within the Minor Slope Rockfish complex, but with a species-specific HG south of 40°10′ N. lat. beginning in 2013. For 2017-2018 the Council recommended a blackgill rockfish harvest guideline equal to the ABC contribution for the portion of the stock south of 40°10′ N. lat., reduced by the 40-10 adjustment because the stock is in the precautionary zone. South of 40°10′ N. lat., the blackgill rockfish harvest guideline is 120.2 mt in 2017 and 122.4 mt in 2018.

C. Modifications to the Boundaries Defining Rockfish Conservation Areas (RCAs)

RCAs are large area closures intended to reduce the catch of a species or species complex by restricting fishing activity at specific depths. The boundaries for RCAs are defined by straight lines connecting a series of latitude and longitude coordinates that approximate depth contours. A set of coordinates define lines that approximate various depth contours. These sets of coordinates, or lines, in and of themselves, are not gear or fishery specific, but are used in combination to define an area. That area may then be described with fishing restrictions implemented for a specific gear and/or fishery.

For the 2017-2018 cycle, changes to refine selected coordinates are being proposed for: 30 fm, 40 fm, and 150 fm in California. The changes to the coordinates around Noon Day rock in California are proposed to address an area where the current RCA is not enforceable because it is too small. The other changes are proposed to more accurately define the depth contours.

D. Sorting Requirements Resulting From Big Skate Designation to “in the Fishery”

In the non-whiting groundfish fishery, catch is sorted to species or species group in order to account for catch against the various harvest specifications and management measures that are specific to those species or species groups. Except for vessels participating in the Pacific whiting fishery (see § 660.130(d)(2)(ii) and (d)(3)), groundfish regulations require that species or species groups with a trip limit, size limit, scientific sorting designation, quota, harvest guideline, ACT, or ACL, be sorted (see § 660.12(a)(8)). Therefore, this rule proposes to modify the trawl sorting requirements so that big skate is required to be sorted coastwide by all trawl fisheries.

E. New Inseason Process for Commercial and Recreational Fisheries in California

The new inseason process in California is described above in the “Amendment 27 to the PCGFMP” section.

F. Limited Entry Trawl

Limited Entry Trawl Fishery

The Council recommended several changes to trawl management measures for the 2017-2018 biennium. Generally, management measures in the trawl fishery apply to the portions of the limited entry trawl fishery described here. As stated above in the “Sorting Requirements Resulting from Big Skate Designation to “in the Fishery” ” section, sorting requirements are proposed. Other changes to management measures in the limited entry trawl fishery are described in the sections that follow.

Incidental Trip Limits for IFQ Vessels

For vessels fishing in the Shorebased IFQ Program, with either groundfish trawl gear or nontrawl gears, the following incidentally caught species are managed with trip limits: Minor nearshore rockfish north and south, black rockfish, cabezon (46°16′ to 40°10′ N. lat. and south of 40°10′ N. lat.), spiny dogfish, shortbelly rockfish, big skate, Pacific whiting, and the Other Fish complex. No changes to trip limits in the IFQ fishery are proposed for the start of the 2017-2018 biennium; however, changes to trip limits are considered a routine measure under § 660.60(c) and may be implemented or adjusted, if determined necessary, through inseason action. Proposed regulations clarify that midwater gear is allowed for vessels targeting non-whiting during the dates of the primary Pacific whiting fishery, and that midwater gear can be used in the RCA when targeting non-whiting.

RCA Configurations for Vessels Using Trawl Gear

Based on analysis of West Coast Groundfish Observer Data and vessel logbook data, the boundaries of the RCAs were developed to prohibit groundfish fishing within a range of depths where encounters with overfished species were most likely to occur. The lines that approximate depth contours are defined by latitude and longitude coordinates and may be used to define any of the depth-based area closures, primarily RCAs. The choice of which depth-based line(s) to use to define the RCA boundaries varies by season, latitude, and gear group. Boundaries for limited entry trawl vessels are different from those for the limited entry fixed-gear and open access gears. The trawl RCAs apply to vessels fishing with groundfish trawl gear. The nontrawl RCAs apply to the limited entry fixed-gear and open access gears other than non-groundfish trawl. The non-groundfish trawl RCAs are fishery-specific.

For 2017-2018, the Council recommended modifying the trawl RCA in the area north of Cape Alava (48°10′ N. lat.). Specifically, the trawl RCA seaward boundary is proposed to be changed from 150 fm and 200 fm modified to 150 fm and the shoreward boundary will be changed from shore to 100 fm. The proposed RCA configuration will be consistent with the RCA currently south of Cape Alava to 45°46′ N. lat.

G. Limited Entry Fixed Gear and Open Access Nontrawl Fishery

Management measures for the limited entry fixed gear (LEFG) and open access (OA) nontrawl fisheries tend to be similar because the majority of participants in both fisheries use hook-and-line gear. Management measures, including area restrictions and trip limits in these nontrawl fisheries, are generally designed to allow harvest of target species while keeping catch of overfished species low. For 2017-2018, changes to management measures include: Changes to sablefish trip limits based on changes to the sharing percentages between limited entry and open access, changes to trip limits for minor nearshore shelf, bocaccio, yellowtail rockfish, minor nearshore rockfish, canary rockfish, deeper nearshore rockfish, a change to the seaward boundary of the nontrawl RCA from 40°10′ N. lat. to 34°27′ N. lat., and a change to the shoreward boundary south of 34°27′ N. lat.

Nontrawl RCA

The nontrawl RCA applies to vessels that take, retain, possess, or land groundfish using nontrawl gears, unless they are incidental fisheries that are exempt from the nontrawl RCA (e.g., the pink shrimp non-groundfish trawl fishery). The seaward and shoreward boundaries of the nontrawl RCAs vary along the coast, and are divided at various commonly used geographic coordinates, defined in § 660.11, subpart C. In 2009, the shoreward boundary of the nontrawl RCA was established based on fishery information indicating that fishing in some areas in the nontrawl fishery have higher yelloweye rockfish bycatch than in others, and the RCA boundaries were adjusted to reduce mortality of yelloweye rockfish in these areas.

The nontrawl RCA boundaries proposed for 2017-2018 are the same as those in place for the nontrawl fisheries in 2015-2016, except for the seaward boundary from 40°10′ N. lat. to 34°27′ N. lat., which is proposed to be shifted from 150 fm to 125 fm, and the shoreward boundary south of 34°27′ N. lat., which is proposed to be shifted from 60 fm to 75 fm. This management measure would affect nearshore and shelf rockfish species in California south of 40°10′ N. lat. Modifications to the shoreward RCA boundary will allow access to deeper nearshore species (blue, brown, copper, olive rockfishes) and shelf rockfish species (chilipepper, greenblotched, Mexican, vermilion). Modifications to the seaward RCA will allow access to shelf rockfish species and sablefish. These changes are expected to increase catch of chilipepper and other healthy shelf rockfish species by allowing access to depths in which they are more prevalent. The nontrawl fisheries are currently managed with cumulative trip limits, and any increases in catch are expected to remain within allowable harvest limits.

Nontrawl Fishery Trip Limits

Trip limits proposed for the nontrawl fisheries in 2017-2018 are similar to those that applied to these fisheries since 2011. To help achieve, but not exceed, the allocations of sablefish in the limited entry fixed gear and open access fisheries, changes to trip limits are proposed. Changes are also proposed in the limited entry and open access fixed gear fisheries for yellowtail rockfish, Minor Shelf Rockfish between 40°10′ N. lat. and 34°27′ N. lat., canary rockfish, bocaccio south of 40°10′ N. lat., and Minor Nearshore Rockfish and black rockfish south of 40°10′ N. lat. Proposed 2015-2016 trip limits for these changes are specified in Table 2 (North), Table 2 (South) to subpart E and in Table 3 (North) and Table 3 (South) to subpart F.

Primary Sablefish Fishery Tier Limits

Some limited entry fixed gear permits are endorsed to receive annual sablefish quota, or “tier limits,” and vessels registered with one, two, or up to three of these permits may participate in the primary sablefish fishery, described at § 660.231. Tier limits proposed for the limited entry fixed gear primary sablefish fleet are higher in 2017-2018, reflecting the higher sablefish harvest specifications. The proposed tier limits are as follows: Tier 1 at 51,947 lb (23,562 kg), Tier 2 at 23,612 lb (10,710 kg), and Tier 3 at 13,493 lb (6,120 kg). In 2018, Tier 1 at 54,179 lb (24,575 kg), Tier 2 at 24,627 lb (11,170 kg), and Tier 3 at 14,072 lb (6,382 kg).

Yellowtail Rockfish North of 40°10′ N. Lat.

This rule proposes establishing stock-specific yellowtail rockfish trip limits in both limited entry and open access fixed gear fisheries north of 40°10′ N. lat. by removing yellowtail rockfish from the combined trip limits for Minor Shelf Rockfish, shortbelly rockfish, and widow rockfish. NMFS is soliciting comments on this interpretation because, while the Council's yellowtail rockfish trip limit recommendation was clear, the removal of yellowtail rockfish from the combined trip limit was not explicit in the Council's discussion. This change is proposed because of the increase in and rebuilt status of widow rockfish (which co-occurs with yellowtail rockfish) and would increase the yellowtail rockfish trip limit from a combined limit with several other species of 200 lb/month to 500 lb/month, just for yellowtail rockfish.

Minor Shelf Rockfish Between 40°10′ N. lat.-34°27′ N. Lat.

Specifications for the complex are established for the area south of 40°10′ N. lat., however the changes proposed in this rule are only for the area between 40°10′ N. lat. and 34°27′ N. lat. This increase is intended to provide greater access to a small number of commercial vessels in this area. This rule proposes increases to trip limits in the open access fixed gear fisheries due to the projected low attainment of the species managed in this complex. The 2016 nontrawl allocation of 1,383 mt is unchanged from 2015.

Canary Rockfish

This rule proposes to allow canary retention in both limited entry and open access fixed gear fisheries by establishing trip limits for the limited entry fishery at 300 lb/2 months and for the open access fishery at 150 lb/2 months. These trip limits are proposed because canary rockfish was declared rebuilt. The Council recommended these trip limits to allow retention of the majority of incidental catch.

Bocaccio South of 40°10′ N. Lat.

This rule proposes to remove bocaccio from the Minor Shelf Rockfish aggregate trip limits for limited entry and open access fixed gear between 40°10′ N. lat. and 34°27′ N. lat. and establish stock-specific trip limits for bocaccio to reduce discarding as the stock continues to rebuild and encounters increase.

Minor Nearshore Rockfish & Black Rockfish South of 40°10′ N. Lat.

This rule proposes modifications to the existing Minor Nearshore Rockfish and black rockfish trip limits for limited entry and open access fixed gear fisheries and modifications to the area split for deeper nearshore rockfish. For deeper nearshore rockfish, one trip limit is proposed for the entire area south of 40°10′ N. lat. These changes are proposed due to the rebuilt status of canary rockfish, which is caught in nearshore fishery, and the low attainment of the complex ACL, which has averaged 10 percent or less over the last decade.

H. Recreational Fisheries

This section describes the recreational fisheries management measures proposed for 2017-2018. Most of the changes to recreational management measures are modifications to existing measures. Changes to recreational management measures are discussed below for each state and include: (1) Modifications of recreational season structures, closed areas, and bag limits; (2) removal of the 1 canary rockfish sub-bag limit and 10 inch (25 cm) kelp greenling size restriction in Oregon; (3) creation of potential expansion areas for the Stonewall Bank YRCA in Oregon; (4) addition of a one canary rockfish sub-bag limit in Marine Areas 1 and 2 in Washington; (5) reduction of the lingcod closed area in Washington; (6) removal of prohibition on canary rockfish retention in California; and (7) changes to petrale sole and starry flounder management measures in California.

Recreational fisheries management measures are designed to limit catch of overfished species and provide fishing opportunity for anglers targeting nearshore groundfish species. Overfished species that are taken in recreational fisheries include bocaccio, cowcod, and yelloweye rockfish. Because sport fisheries are more concentrated in nearshore waters, the 2017-2018 recreational fishery management measures are intended to constrain catch of nearshore species such as Minor Nearshore Rockfish, black rockfish, blue rockfish, and cabezon. These protections are particularly important for fisheries off California, where the majority of West Coast recreational fishing occurs. Depth restrictions and groundfish conservation areas (GCAs) are the primary tools used to keep overfished species impacts under the prescribed harvest levels for the California recreational fishery.

Washington, Oregon, and California each proposed, and the Council recommended, different combinations of seasons, bag limits, area closures, and size limits, to best fit the requirements to rebuild overfished species found in their regions, and the needs and constraints of their particular recreational fisheries.

Recreational fisheries management measures for Washington, Oregon, and California in 2017-2018 are proposed to be similar to the recreational fishery management measures that were in place during 2015-2016. Recreational fisheries off Oregon, and Washington are limited by the need to reduce yelloweye rockfish impacts. Changes to recreational fishery management measures off Washington, Oregon, and California are in response to: Updated fishery and modeling information in a manner that allows increased harvest of underutilized healthy stocks while keeping impacts to overfished species within their rebuilding ACLs. The following sections describe the recreational management measures proposed in each state.

Washington

Off Washington, recreational fishing for groundfish and Pacific halibut, as proposed, will continue to be prohibited inside the North Coast Recreational YRCA, a C-shaped closed area off the northern Washington coast, the South Coast Recreational YRCA, and the Westport Offshore YRCA. Coordinates for YRCAs are defined at § 660.70. Similar to 2016, this proposed rule includes the Washington State lingcod recreational fishing closure area off Washington Marine Areas 1 and 2, a portion of which are closed to lingcod fishing, except on days that the Pacific halibut fishery is open. However, for 2017-2018, the southern boundary of this lingcod area closure would be shifted five miles north (from 46°28′ N. lat. to 46°33′ N. lat.) to allow additional access to deepwater lingcod areas without expected increases in yelloweye rockfish catches. The aggregate groundfish bag limits off Washington will continue to be 12 fish. The rockfish and lingcod sub-limits will be similar to 2015-2016 sub-limits. For rockfish, NMFS proposes a 10 rockfish sub-limit with no retention of canary or yelloweye rockfish except in Marine Areas 1 and 2 where there will be a one canary rockfish sub-limit (with a new option to expand and increase canary rockfish retention inseason). For lingcod, NMFS proposes a two lingcod sub-limit, with the lingcod minimum size of 22 inches (56 cm). NMFS proposes cabezon restrictions will remain as in 2016.

Changes to the Washington recreational fishery Marine Areas 1-4 for groundfish season dates are proposed for 2017-2018, shortening the season by five months. The recreational groundfish fishery would open the second Saturday in March, and close the third Saturday in October. This is not expected to result in significant changes because very little fishing effort occurs in Marine Areas 1-4 from October through February. The primary purpose of the change is to cap groundfish fishing effort at current levels, and minimize additional effort that could potentially develop in the future. Lingcod seasons are proposed to be the same dates as the recreational groundfish season described above for Marine Areas 1-3, and open April 15 through October 15 in Marine Area 4. The depth restrictions (i.e. recreational RCA) for recreational fishing off Washington is proposed to be the same as in 2016.

One change to the restrictions on groundfish retention during the Pacific halibut season is proposed for 2017-2018. This rule proposes to allow flatfish retention in the Columbia River area along with Pacific halibut when halibut are onboard. This change comes from a 2014 change to the Council's Pacific Halibut Catch Sharing Plan, and was inadvertently omitted from the 2015-2016 groundfish regulations. Starting in Washington Marine Area 1, when the nearshore incidental halibut fishery is open, taking, retaining, possessing or landing incidental Pacific halibut on groundfish trips are allowed only in the nearshore area on days not open to all-depth Pacific halibut fisheries in the area shoreward of the boundary line approximating the 30 fm (55 m) depth contour extending from Leadbetter Point, Washington, to the Washington-Oregon border, and from there, connecting to the boundary line approximating the 40 fm (73 m) depth contour in Oregon. The nearshore incidental Pacific halibut fishery will remain open Monday through Wednesday following the opening of the early season all-depth fishery, until the nearshore Pacific halibut allocation is taken.

Oregon

Oregon recreational fisheries in 2017-2018 would operate under the same season structures and GCAs as 2015-2016. This rule also proposes to define, but not implement, two options for expansion of the Stonewall Bank YRCA, available for inseason implementation. Aggregate bag limits and size limits in Oregon recreational fisheries remain the same as in 2015-2016: Three lingcod per day, with a minimum size of 22 inches (56 cm); 25 flatfish per day, excluding Pacific halibut; and a marine fish aggregate bag limit of 10 fish per day, where cabezon have a minimum size of 16 inches (41 cm). However, the marine fish bag limit is proposed to be modified for 2017-2018, removing the kelp greenling size restriction and the one fish sub-bag limit for canary rockfish. The seasonal one fish sub-bag limit for cabezon was removed in 2015-2016 to allow ODFW increased flexibility for initiating inseason changes. Cabezon is proposed to have no sub-bag limit throughout 2017-2018.

One change to groundfish retention during the Pacific halibut season is proposed for 2017-2018. This rule proposes to add “other flatfish species” to the list of incidental species allowed to be landed with Pacific halibut. Taking, retaining, possessing or landing incidental halibut on groundfish trips will be allowed only in the Columbia River nearshore area on days not open to all-depth Pacific halibut fisheries in the area shoreward of the boundary line approximating the 30 fm (55 m) depth contour extending from Leadbetter Point, Washington to the Washington-Oregon border, and from there, connecting to the boundary line approximating the 40 fm (73 m) depth contour in Oregon. The nearshore incidental Pacific halibut fishery will continue to be open Monday through Wednesday following the opening of the early season all-depth fishery, until the nearshore Pacific halibut allocation is taken.

California

For 2017-2018, recreational fisheries off California will continue to be managed as five separate areas, to reduce complexity while retaining flexibility in minimizing impacts on overfished stocks. Season and area closures differ between California regions to better prevent incidental catch of overfished species according to where those species occur and where fishing effort is greatest, while providing as much fishing opportunity as possible.

Compared to the 2016 season structure, the Northern and Mendocino Management Areas would be extended by two and a half months, through December 31. Allowable fishing depths would be increased in the Northern Management Area from 20 fm to 30 fm during May 1 through October 31. Due to high yelloweye rockfish encounters in the Mendocino Management Area, the depth restriction will remain at 20 fathoms from May 1 through October 31. However, from November through December, the depth restriction would be eliminated in both the Northern and Mendocino Management Areas; fishing would be permissible at all depths. Allowable fishing depths would also be increased in the San Francisco and Central Management Areas by 10 fathoms to 40 and 50 fathoms, respectively. Due to projected cowcod impacts, the season structure in the Southern Management Area would remain the same as in 2016. Similarly, the California scorpionfish season will remain the same as in 2016 (i.e. closed September through December), except for the opening date in the Mendocino area will be changed to May 1 instead of May 15.

Size, bag, and sub-bag limits would remain the same as 2016 except for black rockfish, bocaccio, canary rockfish, and lingcod. To keep within allowable limits, the black rockfish sub-bag limit would be reduced from five to three fish within the 10 fish aggregate RCG complex bag limit. For bocaccio, the sub-bag limit of three fish within the 10 fish aggregate RCG complex bag limit would be eliminated to reduce discarding; anglers would be able to retain up to 10 bocaccio. For canary rockfish, due to newly rebuilt status, retention would be allowed with a sub-bag limit of one fish within the 10 fish aggregate RCG complex bag limit. Finally, for lingcod, the bag limit would be reduced from three fish to two fish.

New Inseason Process

As described above in the “Amendment 27 to the PCGFMP” section, this rule proposes a new inseason process for fisheries that occur in the waters off California and for which there are California-specific federal harvest limits. This new system would allow NMFS to take inseason action for black, canary, and yelloweye rockfish, outside of a Council meeting. This would be similar to the current inseason process, except that it will allow for action to be taken during the summer months when the majority of catch accrues and absent Council action.

Exempt Petrale Sole and Starry Flounder From Season and Depth Restrictions

This rule proposes to remove petrale sole and starry flounder from the recreational season and depth restrictions; anglers could retain petrale sole and starry flounder year round, without depth constraint. Petrale sole and starry flounder are commonly encountered while anglers are pursuing other species which have different seasons and/or allowable depth (e.g., Pacific halibut) or open year round without depth constraint (e.g., Pacific sanddab). As a result, this management measure would reduce regulatory discarding.

I. Tribal Fisheries

Tribes implement management measures for Tribal fisheries both separately and cooperatively with those management measures that are described in the Federal regulations. The Tribes may adjust their Tribal fishery management measures, inseason, to stay within the overall harvest targets and estimated impacts to overfished species. Trip limits are the primary management measure that the Tribes specify in Federal regulations at § 660.50, subpart C. Continued from previous cycles, the Tribes proposed trip limit management in Tribal fisheries during 2017-2018 for several species, including several rockfish species and species groups. For rockfish species, Tribal regulations will continue to require full retention of all overfished rockfish species and marketable non-overfished rockfish species. No changes to trip limits are proposed for the Tribal fisheries from those that were in place in 2016. Proposed sablefish Tribal set-asides would be set at 10 percent of the Monterey through Vancouver area ACL minus 1.5 percent (reduced from 1.6 percent in 2016) to account for estimated discard mortality. The percentage reduction is based on a sablefish discard model output that can vary with changes in size of discarded fish. Widow rockfish are proposed to be managed by Tribal regulation to stay within the annual 440,000 lb (200 mt) Tribal catch limit. Trip limits for Dover sole, English sole, and other flatfish and arrowtooth flounder will be established through Tribal regulation only. Trip limits are proposed to be adjusted inseason to stay within the overall harvest targets and overfished species limits. This proposal would be a change from the 2016 limits of 110,000 lbs per two months for Dover sole, English sole and other flatfish, and 150,000 lbs per two months for arrowtooth flounder. The Tribes will continue to develop management measures, including depth, area, and time restrictions, in the directed Tribal Pacific halibut fishery in order to minimize incidental catch of yelloweye rockfish. Tribal fishing regulations, as recommended by the Tribes and the Council, and adopted as proposed by NMFS, are in Federal regulations at § 660.50, subpart C.

V. Classification

Pursuant to section 304 (b)(1)(A) of the Magnuson-Stevens Act, the NMFS Assistant Administrator has determined that this proposed rule and Amendment 27 to the PCGFMP are consistent with the Pacific Coast Groundfish Fishery Management Plan, other provisions of the Magnuson-Stevens Act, and other applicable law, subject to further consideration after public comment. In making its final determination, NMFS will take into account the complete record, including the data, views, and comments received during the comment period.

NMFS prepared an EA for this action and Amendment 27 that discusses the impact on the environment as a result of some of the components of this rule. The full suite of alternatives analyzed by the Council can be found on the Council's Web site at www.pcouncil.org. This EA does not contain all the alternatives because an EIS was prepared for the 2015-2016 biennial harvest specifications and management measures and is available from NMFS (see ADDRESSES). This EIS examined the harvest specifications and management measures for 2015-2016 and ten year projections for routinely adjusted harvest specifications and management measures. The ten year projections were produced to evaluate the impacts of the ongoing implementation of harvest specifications and management measures and to evaluate the impacts of the routine adjustments that are the main component of each biennial cycle. Therefore, the EA for the 2017-2018 cycle tiers from the 2015-2016 EIS and focuses on the harvest specifications and management measures that were not within the scope of the ten year projections in the 2015-2016 EIS. A copy of the EA is available from NMFS (see ADDRESSES). This action also announces a public comment period on the EA.

An initial regulatory flexibility analysis (IRFA) was prepared, as required by section 603 of the Regulatory Flexibility Act (RFA) (5 U.S.C. 603). The IRFA describes the economic impact this proposed rule, if adopted, would have on small entities. A description of the action, why it is being considered, and the legal basis for this action is contained in the SUMMARY section and at the beginning of the SUPPLEMENTARY INFORMATION section of the preamble. A summary of the analysis follows. A copy of this analysis is available from NMFS (see ADDRESSES).

The RFA (5 U.S.C. 601 et seq.) requires government agencies to assess the effects that regulatory alternatives would have on small entities, defined as any business/organization independently owned and operated, not dominant in its field of operation (including its affiliates). A small harvesting business has combined annual receipts of $11 million ¹ or less for all affiliated operations worldwide.

¹ On December 29, 2015, the National Marine Fisheries Service (NMFS) issued a final rule establishing a small business size standard of $11 million in annual gross receipts for all businesses primarily engaged in the commercial fishing industry (NAICS 11411) for Regulatory Flexibility Act (RFA) compliance purposes only (80 FR 81194, December 29, 2015). The $11 million standard became effective on July 1, 2016, and after that date it is to be used in all NMFS rules subject to the RFA. Id. at 81194. This NMFS rule is to be used in place of the U.S. Small Business Administration's (SBA) current standards of $20.5 million, $5.5 million, and $7.5 million for the finfish (NAICS 114111), shellfish (NAICS 114112), and other marine fishing (NAICS 114119) sectors of the U.S. commercial fishing industry, respectively.

A small fish-processing business is one that employs 750 or fewer persons for all affiliated operations worldwide. NMFS is applying this standard to catcher/processors for the purposes of this rulemaking, because these vessels earn the majority of their revenue from selling processed fish.

For marinas and charter/party boats, a small business is one that has annual receipts not in excess of $7.5 million. A wholesale business servicing the fishing industry is a small business if it employs 100 or fewer persons on a full-time, part-time, temporary, or other basis, at all its affiliated operations worldwide.

For the purposes of this rulemaking, a nonprofit organization is determined to be “not dominant in its field of operation” if it is considered small under one of the following SBA size standards: environmental, conservation, or professional organizations are considered small if they have combined annual receipts of $15 million or less, and other organizations are considered small if they have combined annual receipts of $7.5 million or less. The RFA defines small governmental jurisdictions as governments of cities, counties, towns, townships, villages, school districts, or special districts with populations of less than 50,000.

When an agency proposes regulations, the RFA requires the agency to prepare and make available for public comment an IRFA that describes the impact on small businesses, non-profit enterprises, local governments, and other small entities. The IRFA is to aid the agency in considering all reasonable regulatory alternatives that would minimize the economic impact on affected small entities.

Description and Estimate of the Number of Small Entities to Which the Rule Applies, and Estimate of Economic Impacts by Entity Size and Industry

This proposed rule will regulate businesses that participate in the groundfish fishery. This rule directly affects limited entry fixed gear permit holders, trawl quota share (QS) holders and Pacific whiting catch history endorsed permit holders (which include shorebased whiting processors), tribal vessels, charterboat vessels, and open access vessels. QS holders are directly affected as their QS are affected by the ACLs. Vessels that fish under the trawl rationalization program receive their quota pounds from the QS holders, and thus are indirectly affected. Similarly, MS processors are indirectly affected as they receive the fish they process from limited entry permits that are endorsed with Pacific whiting catch history assignments.

To determine the number of small entities potentially affected by this rule, NMFS reviewed analyses of fish ticket data and limited entry permit data, information on charterboat, tribal, and open access fleets, available cost-earnings data developed by NWFSC, and responses associated with the permitting process for the Trawl Rationalization Program where applicants were asked if they considered themselves a small business based on SBA definitions. This rule will regulate businesses that harvest groundfish.

Charter Operations

There were 355 active Commercial Passenger Fishing Vessels (charter) engaged in groundfish fishing in California in 2014. In 2014, an estimated 189 charter boats targeted groundfish in Oregon and Washington. All 544 of these vessels and associated small businesses are likely to be impacted by changes in recreational harvest levels for groundfish.

Commercial Vessels and Shorebased Buyers

With limited access to data for all the affiliated business operations for vessels and buyers, particularly in the open access and fixed gear fisheries, NMFS estimates the type of impacted vessels and buyer entities based solely on West Coast ex-vessel revenue. This may be an underestimate of the number of large-entities in the fishery, as many vessels and buyers may be affiliated, and may have income from non-West Coast sources (particularly Alaska).

Open access vessels are not federally permitted so counts based on landings can provide an estimate of the affected. The DEIS Analysis for the 2013-14 Pacific Groundfish Harvest Specifications and Management Measures contained the following assessment, which is deemed as containing reasonable estimates for this rule, as these fisheries have not changed significantly in recent years. In 2011, 682 directed open access vessels fished while 284 incidental open access vessels fished for a total of 966 vessels. Over the 2005-2010 period, 1,583 different directed open access vessels fished, and 837 different incidental open access vessels fished, for a total of 2,420 different vessels. The four tribal fleets sum to a total of 54 longline vessels, 5 Pacific whiting trawlers, and 5 non-whiting trawlers, for an overall total of 64 vessels. Available information on average revenue per vessel suggests that all the entities in these groups can be considered small.

It is expected that a total of 873 catcher vessels (CVs), 227 buyer, 9 C/P and 6 MS entities will be impacted by this rule, for a total of 1,115, if commercial groundfish participation in 2017-2018 follows similar patterns to the last full year data are available for (2015), and counting only those vessels and buyers who had at least $1,000 worth of groundfish sales or purchases in 2015.

Groundfish Ex-Vessel Revenues by Fishery
|  | N | West coast total groundfish revenue ($) | Average groundfish revenue
LE Trawl | C/P | 9 | $99,180,000 (2014 wholesale) | $11,020,000 (2014 wholesale).
| MS | 5 | $46,385,000 (2014 wholesale) | $9,277,000 (2014 wholesale).
| CV | 83 | $30,832,277 (2015 ex-vessel) | $371,473 (2015 ex-vessel).
| MS/CV | 19 | $17,300,000 (2014 ex-vessel) | $910,536.31 (2014 ex-vessel).
| Buyers | 16 | $137,600,000 (2014 wholesale) | $8,600,000 (2014 wholesale).
LE Fixed Gear | Primary | 89 | $8,357,122 (2015 ex-vessel) | $93,900 (2015 ex-vessel).
| DTL | 152 | $16,623,889 (2015 ex-vessel) | $109,368 (2015 ex-vessel).
| Buyers | 108 | N/A | N/A.
OA | CV | 831 | $7,281,894 (2015 ex-vessel) | $8,763 (2015 ex-vessel).
| Buyers | 307 | N/A | N/A.
Research | CV | 4 | $174,394 (2015 ex-vessel) | $43,599 (2015 ex-vessel).
Tribal | CV | 198 | $4,933,911 (2015 ex-vessel) | $24,918 (2015 ex-vessel).
| Buyers | 19 | N/A | N/A.

Revenues reported from 2015 obtained from the Pacific Fisheries Information Network (PacFIN); those from 2014 obtained from 2016 Economic Data Collection Reports.

Limited Entry Permit Owners

As part of the permitting process for the trawl rationalization program or for participating in nontrawl limited entry permit fisheries, applicants were asked if they considered themselves a small business. NMFS reviewed the ownership and affiliation relationships of QS permit holders, vessel account holders, catcher processor permits, MS processing, and first receiver/shore processor permits. As of August 1, 2016, Dock Street Brokers has West Coast limited entry trawl endorsed permits for sale for $60,000 for a 46.1' permit, and two 43' West Coast longline permits for $135,000-$140,000. QS may be valued anywhere from tens of thousands to millions of dollars, depending on the species and amount owned, although not enough sales have occurred yet to be able to confidently estimate their value.

Limited Entry Permit-Owner Entities by Small Business Self-Designation
| Permit type | Small business designation: Small | Small business designation: Large | Total
LE Trawl | C/P | 0 | 10 | 10
| MS | 4 | 2 | 6
| CV | 142 | 21 | 163
| FR | 36 | 8 | 44
| QS | N/A | N/A | 173
LE Fixed Gear | Primary | 159 | 3 | 162
| DTL | 52 | 8 | 60

If permit ownership in 2017-2018 follows similar patterns to the last full year (data are available for 2015), it is expected that a total of 312 permit owning entities will be impacted by this rule. An estimated 222 of these entities own both permits and vessels, and 16 of the first receiver permit holding companies actually received groundfish, and are thus included in the table above.

Accounting for joint vessel and permit ownership in the limited entry fisheries to the extent possible, an estimated 1,189 commercial entities and 544 charter entities will be impacted by this rule; 16 of these entities are considered large, and the remaining 1,717 are small. As some of these entities are likely owned by the same parent companies, this number is likely an overestimate of the true value.

There are no reporting and recordkeeping requirements associated with this action. There are no relevant Federal rules that may duplicate, overlap, or conflict with this action.

A Description of Any Significant Alternatives to the Proposed Rule That Accomplish the Stated Objectives of Applicable Statutes and That Minimize Any Significant Economic Impact of the Proposed Rule on Small Entities

There are no significant alternatives to the proposed rule that accomplish the stated objectives of applicable statutes and that minimize any of the significant economic impact of the proposed rule on small entities.

Considered but Rejected Measures

A summary of the three measures that were analyzed but were excluded from the preferred alternative, and rationale for excluding them in the preferred alternative, are summarized below.

Manage Starry Flounder in the Other Flatfish Complex

The most recent assessment of starry flounder does not contain an OFL or ABC projection beyond 2016. At the 2015 mop-up Stock Assessment Review (STAR) Panel, it was recommended that 2016 harvest specifications be carried forward for 2017 and 2018, and starry flounder be changed from a Category 2 to a Category 3 stock. The STAR panel questioned whether starry flounder should continue to be managed as a stand-alone stock or would be better included in the Other Flatfish complex.

The proposal to manage starry flounder in the Other Flatfish complex turned out to be more complicated than anticipated, due to a mismatch between the Amendment 21 allocations of starry flounder and the Other Flatfish complex. The Other Flatfish complex is allocated 90 percent to trawl and 10 percent to nontrawl, while starry flounder is allocated 50 percent to trawl and nontrawl.

Annual catches of starry flounder in 2012-2014 were 1-2 percent of the ACL, therefore there would be little risk that the mortality would exceed the stock-specific harvest specifications whether it is managed in a complex or with stock-specific harvest specifications. The Council rejected the proposal to manage starry flounder within the Other Flatfish complex since there were no conservation issues with status quo management. Further, initial scoping of the measure indicated there would be a high workload to reconfigure allocations and QS.

During discussions, California Department of Fish and Wildlife (CDFW) mentioned that some anglers would like the opportunity to retain starry flounder year-round, while current regulations do not provide for such an allowance. In 2016, starry flounder is restricted to the same months and depths as the groundfish season; however, species in the Other Flatfish complex are allowed to be targeted and retained year round. If starry flounder were included in the Other Flatfish complex, they would then be allowed to be targeted and retained year round in the California recreational fishery. In order to facilitate year round starry flounder fishing, the Council added starry flounder to the new management measure analysis for allowing petrale sole year round and all depths in the California recreational fishery.

Transfer of Shorebased Quota Pounds (QP) to the MS Sector

This management measure would allow limited transfer of canary rockfish, darkblotched rockfish, POP, and widow rockfish quota pounds from the shorebased IFQ sector to MS Coops. The measure is intended to reduce the risk of the mothership sector not attaining their whiting allocation, based on the incidental catch of these species. The Council excluded the measure from the preferred alternative based on the complexities of the analysis, implementation challenges, and other matters raised by NMFS. Additionally, the Council is considering a measure outside of the harvest specifications and management measures process that proposes to change the Amendment 21 allocations and management (from quota to set-asides) for darkblotched rockfish and POP for both the MS and C/P sectors (75 FR 78344, December 15, 2010).

Overfished Species Hotspot Closures in California

Nine new area closures in California were analyzed to mitigate increases in overfished species impacts, which may occur as a result of the proposed 2017-2018 California recreational season structures. The proposed season structures allow access to deeper depths than what has been allowed in nearly a decade. As such, there is uncertainty in angler behavior and the model projections for overfished species. If catch was tracking higher than anticipated, the overfished species hotspot closures could be implemented to reduce catch.

The Council excluded the overfished species hotspot closures from the preferred alternative based on changes in outreach, inseason tracking and management, current fishery performance, and other matters raised by CDFW. The Council decision to exclude this measure was also related to the management measure that would grant NMFS authority to change routine management measures in the recreational and commercial fisheries based upon attainment or projected attainment of a Federal harvest limit for black rockfish, canary rockfish, and yelloweye rockfish. That is, the ability to control catch inseason would increase with the ability to take action outside a Council meeting. As such, the hotspot closures may no longer be needed.

Regulatory Flexibility Act Determination of a Significant Impact

The Regulatory Flexibility Act (RFA) requires Federal agencies to conduct an analysis of the impact of the proposed rule on small entities. The IRFA that NMFS prepared (and noted above) estimates that 1,717 charter small entities are potentially impacted by this proposed rule and concludes that this action is not anticipated to have a substantial or significant economic impact on those small entities. We are requesting comments on this conclusion.

NMFS issued Biological Opinions under the Endangered Species Act (ESA) (16 U.S.C. 1531 et seq.) on August 10, 1990, November 26, 1991, August 28, 1992, September 27, 1993, May 14, 1996, and December 15, 1999, pertaining to the effects of the PCGFMP fisheries on Chinook salmon (Puget Sound, Snake River spring/summer, Snake River fall, upper Columbia River spring, lower Columbia River, upper Willamette River, Sacramento River winter, Central Valley spring, California coastal), coho salmon (Central California coastal, southern Oregon/northern California coastal), chum salmon (Hood Canal summer, Columbia River), sockeye salmon (Snake River, Ozette Lake), and steelhead (upper, middle and lower Columbia River, Snake River Basin, upper Willamette River, central California coast, California Central Valley, south/central California, northern California, southern California). These biological opinions have concluded that implementation of the PCGFMP is not expected to jeopardize the continued existence of any endangered or threatened species under the jurisdiction of NMFS, or result in the destruction or adverse modification of critical habitat.

NMFS issued a Supplemental Biological Opinion on March 11, 2006, concluding that neither the higher observed bycatch of Chinook salmon in the 2005 Pacific whiting fishery nor new data regarding salmon bycatch in the groundfish bottom trawl fishery required a reconsideration of its prior “no jeopardy” conclusion. NMFS also reaffirmed its prior determination that implementation of the PCGFMP is not likely to jeopardize the continued existence of any of the affected evolutionarily significant units. Lower Columbia River coho salmon (70 FR 37160, June 28, 2005) and Oregon Coastal coho salmon (73 FR 7816, February 11, 2008) were recently relisted as threatened under the ESA. The 1999 biological opinion concluded that the bycatch of salmonids in the Pacific whiting fishery were almost entirely Chinook salmon, with little or no bycatch of coho salmon, chum salmon, sockeye salmon, and steelhead.

NMFS has reinitiated section 7 consultation on the PCGFMP with respect to its effects on listed salmonids. In the event the consultation identifies either reasonable and prudent alternatives to address jeopardy concerns or reasonable and prudent measures to minimize incidental take, NMFS would exercise necessary authorities, in coordination to the extent possible with the Council, to put such additional alternatives or measures into place.

On December 7, 2012, NMFS completed a biological opinion concluding that the groundfish fishery is not likely to jeopardize non-salmonid marine species including listed eulachon, green sturgeon, humpback whales, Steller sea lions, and leatherback sea turtles. The opinion also concludes that the fishery is not likely to adversely modify critical habitat for green sturgeon and leatherback sea turtles. An analysis included in the same document as the opinion concludes that the fishery is not likely to adversely affect green sea turtles, olive ridley sea turtles, loggerhead sea turtles, sei whales, North Pacific right whales, blue whales, fin whales, sperm whales, Southern Resident killer whales, Guadalupe fur seals, or the critical habitat for Steller sea lions.

At the Council's June 2015 meeting, new estimates of eulachon take from fishing activity under the PCGFMP indicated that the incidental take statement in the 2012 biological opinion was exceeded in 2011 and 2013. The increased bycatch may be due to increased eulachon abundance. In light of the new fishery and abundance information, NMFS has reinitiated consultation on eulachon. In the event the consultation identifies either reasonable and prudent alternatives to address jeopardy concerns, or reasonable and prudent measures to minimize incidental take, NMFS would coordinate with the Council to put additional alternatives or measures into place, as required.

On November 21, 2012, the U.S. Fish and Wildlife Service (FWS) issued a biological opinion concluding that the groundfish fishery will not jeopardize the continued existence of the short-tailed albatross. The FWS also concurred that the fishery is not likely to adversely affect the marbled murrelet, California least tern, southern sea otter, bull trout, or bull trout critical habitat. NMFS reinitiated section 7 consultation on the Pacific Coast Groundfish FMP with respect to its effects on short-tailed albatross. In accordance with sections 7(a)(2) and 7(d) of the ESA, NMFS determines that this action will not jeopardize listed species, would not adversely modify any designated critical habitat, and will not result in any irreversible or irretrievable commitment of resources that would have the effect of foreclosing the formulation or implementation of any reasonable and prudent alternative measures.

This proposed rule would not alter the effects on marine mammals over what has already been considered for the fishery. West Coast pot fisheries for sablefish are considered Category II fisheries under the MMPA's List of Fisheries, indicating occasional interactions. All other West Coast groundfish fisheries, including the trawl fishery, are considered Category III fisheries under the MMPA, indicating a remote likelihood of or no known serious injuries or mortalities to marine mammals. On February 27, 2012, NMFS published notice that the incidental taking of Steller sea lions in the West Coast groundfish fisheries is addressed in NMFS' December 29, 2010 Negligible Impact Determination (NID), and this fishery has been added to the list of fisheries authorized to take Steller sea lions (77 FR 11493, February 27, 2012). NMFS is currently working on the process leading to any necessary authorization of incidental taking under MMPA section 101(a)(5)(E) (16 U.S.C. 1371(a)(5)(E)).

Pursuant to Executive Order 13175, this proposed rule was developed after meaningful consultation and collaboration with tribal officials from the area covered by the PCGFMP. Under the Magnuson-Stevens Act at 16 U.S.C. 1852(b)(5), one of the voting members of the Pacific Council must be a representative of an Indian tribe with federally recognized fishing rights from the area of the Council's jurisdiction. In addition, regulations implementing the PCGFMP establish a procedure by which the tribes with treaty fishing rights in the area covered by the PCGFMP request new allocations or regulations specific to the tribes, in writing, before the first of the two meetings at which the Council considers groundfish management measures. The regulations at 50 CFR 660.324(d) further state, “the Secretary will develop tribal allocations and regulations under this paragraph in consultation with the affected tribe(s) and, insofar as possible, with tribal consensus.” The tribal management measures in this proposed rule have been developed following these procedures. The tribal representative on the Council made a motion to adopt the non-whiting tribal management measures, which was passed by the Council. Those management measures, which were developed and proposed by the tribes, are included in this proposed rule.

This proposed rule has been determined to be not significant for purposes of Executive Order 12866.

List of Subjects in 50 CFR Part 660

Fisheries, Fishing, Reporting and recordkeeping requirements.

Dated: October 18, 2016.
Samuel D. Rauch III,
Deputy Assistant Administrator for Regulatory Programs, National Marine Fisheries Service.

For the reasons set out in the preamble, 50 CFR part 660 is proposed to be amended as follows:

PART 660—FISHERIES OFF WEST COAST STATES

1. The authority citation for part 660 continues to read as follows:

Authority: 16 U.S.C. 1801 et seq., 16 U.S.C. 773 et seq., and 16 U.S.C. 7001 et seq.

2. In § 660.11 in the definition of “Groundfish,” paragraphs (7)(i)(A) and (7)(i)(B)(2) are revised to read as follows:

§ 660.11 General definitions.

* * * * *

(7) * * *

(i) * * *

(A) North of 40°10′ N. lat.: Black and yellow rockfish, S. chrysomelas; blue rockfish, S. mystinus; brown rockfish, S. auriculatus; calico rockfish, S. dalli; China rockfish, S. nebulosus; copper rockfish, S. caurinus; deacon rockfish, S. diaconus, gopher rockfish, S. carnatus; grass rockfish, S. rastrelliger; kelp rockfish, S. atrovirens; olive rockfish, S. serranoides; quillback rockfish, S. maliger; treefish, S. serriceps.

(B) * * *

(2) Deeper nearshore rockfish consists of black rockfish, S. melanops; blue rockfish, S. mystinus; brown rockfish, S. auriculatus; calico rockfish, S. dalli; copper rockfish, S. caurinus; deacon rockfish, S. diaconus; olive rockfish, S. serranoides; quillback rockfish, S. maliger; treefish, S. serriceps.

* * * * *

3. Section 660.40 is revised to read as follows:

§ 660.40 Overfished species rebuilding plans.

For each overfished groundfish stock with an approved rebuilding plan, this section contains the standards to be used to establish annual or biennial ACLs, specifically the target date for rebuilding the stock to its MSY level and the harvest control rule to be used to rebuild the stock. The harvest control rule may be expressed as a “Spawning Potential Ratio” or “SPR” harvest rate.

(a) Bocaccio. Bocaccio south of 40°10′ N. latitude was declared overfished in 1999. The target year for rebuilding the bocaccio stock south of 40°10′ N. latitude to BMSY is 2022. The harvest control rule to be used to rebuild the southern bocaccio stock is an annual SPR harvest rate of 77.7 percent.

(b) Cowcod. Cowcod was declared overfished in 2000. The target year for rebuilding the cowcod stock south of 40°10′N. lat. to BMSY is 2020. The harvest control rule to be used to rebuild the cowcod stock is an annual SPR harvest rate of 82.7 percent.

(c) Darkblotched rockfish. Darkblotched rockfish was declared overfished in 2000. The target year for rebuilding the darkblotched rockfish stock to BMSY is 2025. The harvest control rule is ACL = ABC (P* = 0.45).

(d) Pacific ocean perch (POP). POP was declared overfished in 1999. The target year for rebuilding the POP stock to BMSY is 2051. The harvest control rule to be used to rebuild the POP stock in 2017 and 2018 is a constant catch ACL of 281 mt per year. In 2019 and thereafter the harvest control rule to be used to rebuild POP is an annual SPR harvest rate of 86.4 percent.

(e) Yelloweye rockfish. Yelloweye rockfish was declared overfished in 2002. The target year for rebuilding the yelloweye rockfish stock to BMSY is 2074. The harvest control rule to be used to rebuild the yelloweye rockfish stock is an annual SPR harvest rate of 76.0 percent.

4. In § 660.50, revise paragraphs (f)(2)(ii), (f)(3), add paragraph (f)(9), and revise paragraph (g) to read as follows:

§ 660.50 Pacific Coast treaty Indian fisheries.

* * * * *

(f) * * *

(2) * * *

(ii) The tribal allocation is 604 mt in 2017 and 630 mt in 2018 per year. This allocation is, for each year, 10 percent of the Monterey through Vancouver area (North of 36° N. lat.) ACL. The tribal allocation is reduced by 1.5 percent for estimated discard mortality.

(3) Lingcod. Lingcod taken in the treaty fisheries are subject to a harvest guideline of 250 mt.

* * * * *

(9) Widow rockfish. Widow rockfish taken in the directed tribal midwater trawl fisheries are subject to a catch limit of 200 mt for the entire fleet, per year.

(g) Pacific Coast treaty Indian fisheries management measures. Trip limits for certain species were recommended by the tribes and the Council and are specified here.

(1) Rockfish. The tribes will require full retention of all overfished rockfish species and all other marketable rockfish species during treaty fisheries.

(2) Yelloweye rockfish are subject to a 100-lb (45-kg) trip limit.

(3) Other rockfish—(i) Minor nearshore rockfish. Minor nearshore rockfish are subject to a 300-lb (136-kg) trip limit per species or species group, or to the non-tribal limited entry trip limit for those species if those limits are less restrictive than 300 lb (136 kg) per trip. Limited entry trip limits for waters off Washington are specified in Table 1 (North) to subpart D, and Table 2 (North) to subpart E of this part.

(ii) Minor shelf rockfish and minor slope rockfish. Redstripe rockfish are subject to an 800 lb (363 kg) trip limit. Minor shelf (excluding redstripe rockfish), and minor slope rockfish groups are subject to a 300 lb (136 kg) trip limit per species or species group, or to the non-tribal limited entry fixed gear trip limit for those species if those limits are less restrictive than 300 lb (136 kg) per trip. Limited entry fixed gear trip limits are specified in Table 2 (North) to subpart E of this part.

(iii) Other rockfish. All other rockfish, not listed specifically in paragraph (g) of this section, are subject to a 300 lb (136 kg) trip limit per species or species group, or to the non-tribal limited entry trip limit for those species if those limits are less restrictive than 300 lb (136 kg) per trip. Limited entry trip limits for waters off Washington are specified in Table 1 (North) to subpart D, and Table 2 (North) to subpart E of this part.

(4) Pacific whiting. Tribal whiting processed at-sea by non-tribal vessels, must be transferred within the tribal U&A from a member of a Pacific Coast treaty Indian tribe fishing under this section.

(5) Groundfish without a tribal allocation. Makah tribal members may use midwater trawl gear to take and retain groundfish for which there is no tribal allocation and will be subject to the trip landing and frequency and size limits applicable to the limited entry fishery.

(6) EFH. Measures implemented to minimize adverse impacts to groundfish EFH, as described in § 660.12 of this subpart, do not apply to tribal fisheries in their U&A fishing areas described at § 660.4, subpart A.

(7) Small footrope trawl gear. Makah tribal members fishing in the bottom trawl fishery may use only small footrope (less than or equal to 8 inches (20.3 cm)) bottom trawl gear.

5. In § 660.55, revise paragraph (b) introductory text to read as follows:

§ 660.55 Allocations.

* * * * *

(b) Fishery harvest guidelines and reductions made prior to fishery allocations. Prior to the setting of fishery allocations, the TAC, ACL, or ACT when specified, is reduced by the Pacific Coast treaty Indian Tribal harvest (allocations, set-asides, and estimated harvest under regulations at § 660.50); projected scientific research catch of all groundfish species, estimates of fishing mortality in non-groundfish fisheries; and, as necessary, deductions to account for unforeseen catch events and deductions for EFPs. Deductions are listed in the footnotes of Tables 1a and 2a of subpart C of this part. The remaining amount after these deductions is the fishery harvest guideline or quota. (Note: recreational estimates are not deducted here.)

* * * * *

6. In § 660.60, paragraphs (c)(1)(i) and (c)(3)(ii) are revised and paragraph (c)(4) is added to read as follows:

§ 660.60 Specifications and management measures.

* * * * *

(c) * * *

(1) * * *

(i) Trip landing and frequency limits, size limits, all gear. Trip landing and frequency limits have been designated as routine for the following species or species groups: Widow rockfish, canary rockfish, yellowtail rockfish, Pacific ocean perch, yelloweye rockfish, black rockfish, blue/deacon rockfish, splitnose rockfish, blackgill rockfish in the area south of 40°10′ N. lat., chilipepper, bocaccio, cowcod, Minor Nearshore Rockfish or shallow and deeper Minor Nearshore Rockfish, shelf or Minor Shelf Rockfish, and Minor Slope Rockfish; Dover sole, sablefish, shortspine thornyheads, and longspine thornyheads; petrale sole, rex sole, arrowtooth flounder, Pacific sanddabs, big skate, and the Other Flatfish complex, which is composed of those species plus any other flatfish species listed at § 660.11; Pacific whiting; lingcod; Pacific cod; spiny dogfish; longnose skate; cabezon in Oregon and California and “Other Fish” as defined at § 660.11. In addition to the species and species groups listed above, sub-limits or aggregate limits may be specified, specific to the Shorebased IFQ Program, for the following species: Big skate, California skate, California scorpionfish, leopard shark, soupfin shark, finescale codling, Pacific rattail (grenadier), ratfish, kelp greenling, shortbelly rockfish, and cabezon in Washington. Size limits have been designated as routine for sablefish and lingcod. Trip landing and frequency limits and size limits for species with those limits designated as routine may be imposed or adjusted on a biennial or more frequent basis for the purpose of keeping landings within the harvest levels announced by NMFS, and for the other purposes given in paragraphs (c)(1)(i)(A) and (B) of this section.

* * * * *

(3) * * *

(ii) Non-tribal deductions from the ACL. Changes to the non-tribal amounts deducted from the TAC, ACLs, or ACT when specified, described at § 660.55(b)(2) through (4) and specified in the footnotes to Tables 1a through 1c, and 2a through 2c, to subpart C, have been designated as routine to make fish that would otherwise go unharvested available to other fisheries during the fishing year. Adjustments may be made to provide additional harvest opportunities in groundfish fisheries when catch in scientific research activities, non-groundfish fisheries, and EFPs are lower than the amounts that were initially deducted off the TAC, ACL, or ACT when specified, during the biennial specifications or to allocate yield from the deduction to account for unforeseen catch events to groundfish fisheries. When recommending adjustments to the non-tribal deductions, the Council shall consider the allocation framework criteria outlined in the PCGFMP and the objectives to maintain or extend fishing and marketing opportunities taking into account the best available fishery information on sector needs.

(4) Inseason action for canary rockfish, yelloweye rockfish, and black rockfish in California State-Specific Federal Harvest Limits outside of a Council meeting. The Regional Administrator, NMFS West Coast Region, after consultation with the Chairman of the Pacific Fishery Management Council and the Fishery Director of the California Department of Fish and Wildlife, or their designees, is authorized to modify the following designated routine management measures for canary rockfish, yelloweye rockfish, and black rockfish off the coast of California. For black rockfish in commercial fisheries trip landing and frequency limits; and depth based management measures. For black, canary, and yelloweye rockfish in recreational fisheries bag limits; time/area closures; depth based management. Any modifications may be made only after NMFS has determined that a California state-specific federal harvest limit for canary rockfish, yelloweye rockfish, or black rockfish, is attained or projected to be attained prior to the first day of the next Council meeting. Any modifications may only be used to restrict catch of canary rockfish, yelloweye rockfish, or black rockfish off the coast of California.

* * * * *

7. In § 660.70, paragraphs (g) through (p) are redesignated as (i) through (r), and new paragraphs (g) and (h) are added to read as follows:

§ 660.70 Groundfish conservation areas.

* * * * *

(g) Stonewall Bank Yelloweye Rockfish Conservation Area, Expansion 1. The Stonewall Bank Yelloweye Rockfish Conservation Area (YRCA) Expansion 1 is an area off central Oregon, near Stonewall Bank, intended to protect yelloweye rockfish. The Stonewall Bank YRCA Expansion 1 is defined by straight lines connecting the following specific latitude and longitude coordinates in the order listed:

(1) 44°41.76′ N. lat.; 124°30.02′ W. long.;

(2) 44°41.73′ N. lat.; 124°21.60′ W. long.;

(3) 44°25.25′ N. lat.; 124°16.94′ W. long.;

(4) 44°25.29′ N. lat.; 124°30.14′ W. long.;

(5) 44°41.76′ N. lat.; 124°30.02′ W. long.; and connecting back to 44°41.76′ N. lat.; 124°30.02′ W. long.

(h) Stonewall Bank Yelloweye Rockfish Conservation Area, Expansion 2. The Stonewall Bank Yelloweye Rockfish Conservation Area (YRCA) Expansion 2 is an area off central Oregon, near Stonewall Bank, intended to protect yelloweye rockfish. The Stonewall Bank YRCA Expansion 2 is defined by straight lines connecting the following specific latitude and longitude coordinates in the order listed:

(1) 44°38.54′ N. lat.; 124°27.41′ W. long.;

(2) 44°38.54′ N. lat.; 124°23.86′ W. long.;

(3) 44°27.13′ N. lat.; 124°21.50′ W. long.;

(4) 44°27.13′ N. lat.; 124°26.89′ W. long.;

(5) 44°31.30′ N. lat.; 124°28.35′ W. long.; and connecting back to 44°38.54′ N. lat.; 124°27.41′ W. long.

* * * * *

8. Amend § 660.71 as follows:

a. Redesignate paragraphs (e)(143) through (332) as paragraphs (e)(147) through (336), respectively and redesignate paragraphs (e)(140) through (142) as paragraphs (e)(141) through (143), respectively;

b. Add new paragraphs (e)(140) and (e)(144) through (146);

c. Redesignate paragraphs (k)(128) through (214) as paragraphs (k)(130) through (216), respectively and redesignate paragraphs (k)(120) through (127) as paragraphs (k)(121) through (128), respectively;

d. Add new paragraphs (k)(120) and (129);

e. Revise newly redesignated paragraphs (e)(168) and (k)(128) to read as follows:

§ 660.71 Latitude/longitude coordinates defining the 10-fm (18-m) through 40-fm (73-m) depth contours.

* * * * *

(e) * * *

(140) 39°37.50′ N. lat., 123°49.20′ W. long.;

* * * * *

(144) 39°13.00′ N. lat., 123°47.65′ W. long.;

(145) 39°11.06′ N. lat., 123°47.16′ W. long.;

(146) 39°10.35′ N. lat., 123°46.75′ W. long.;

* * * * *

(168) 37°39.85.′ N. lat., 122°49.90′ W. long.;

* * * * *

(k) * * *

(120) 38°30.57′ N. lat., 123°18.60′ W. long.;

* * * * *

(128) 37°48.22′ N. lat., 123°10.62′ W. long.;

(129) 37°47.53′ N. lat., 123°11.54′ W. long.;

* * * * *

9. In § 660.72, paragraph (a)(107) is revised to read as follows:

§ 660.72 Latitude/longitude coordinates defining the 50 fm (91 m) through 75 fm (137 m) depth contours.

* * * * *

(a) * * *

(107) 37°45.57′ N. lat., 123°9.46′ W. long.;

* * * * *

10. In § 660.73, redesignate paragraphs (h)(248) through (309) as (h)(252) through (313), respectively, and add new paragraphs (h)(248) through (251); to read as follows:

§ 660.73 Latitude/longitude coordinates defining the 100 fm (183 m) through 150 fm (274 m) depth contours.

* * * * *

(h) * * *

(248) 36°47.60′ N. lat., 121°58.88′ W. long.;

(249) 36°48.24′ N. lat., 121°51.40′ W. long.;

(250) 36°45.84′ N. lat., 121°57.21′ W. long.;

(251) 36°45.77′ N. lat., 121°57.61′ W. long.;

* * * * *

11a. Tables 1a through 1d to part 660, subpart C, are revised to read as follows:

Table 1a to Part 660, Subpart C—2017, Specifications of OFL, ABC, ACL, ACT and Fishery Harvest Guidelines
[Weights in metric tons]
Species | Area | OFL | ABC | ACL ᵃ | Fishery HG ᵇ
BOCACCIO ᶜ | S. of 40°10′ N. lat | 2,139 | 2,044 | 790 | 775
COWCOD ᵈ | S. of 40°10′ N. lat | 70 | 63 | 10 | 8
DARKBLOTCHED ROCKFISH ᵉ | Coastwide | 671 | 641 | 641 | 564
PACIFIC OCEAN PERCH ᶠ | N. of 40°10′ N. lat | 964 | 922 | 281 | 232
YELLOWEYE ROCKFISH ᵍ | Coastwide | 57 | 47 | 20 | 15
Arrowtooth flounder ʰ | Coastwide | 16,571 | 13,804 | 13,804 | 11,706
Big skate ⁱ | Coastwide | 541 | 494 | 494 | 437
Black rockfish ʲ | California (South of 42° N. lat.) | 349 | 334 | 334 | 333
Black rockfish ᵏ | Oregon (Between 46°16′ N. lat. and 42° N. lat.) | 577 | 527 | 527 | 526
Black rockfish ˡ | Washington (N. of 46°16′ N. lat.) | 319 | 305 | 305 | 287
Blackgill rockfish ᵐ | S. of 40°10′ N. lat | NA | NA | NA | NA
Cabezon ⁿ | California (South of 42° N. lat.) | 157 | 150 | 150 | 150
Cabezon ᵒ | Oregon (Between 46°16′ N. lat. and 42° N. lat.) | 49 | 47 | 47 | 47
California scorpionfish ᵖ | S. of 34°27′ N. lat | 289 | 264 | 150 | 148
Canary rockfish q | Coastwide | 1,793 | 1,714 | 1,714 | 1,467
Chilipepper ʳ | S. of 40°10′ N. lat | 2,727 | 2,607 | 2,607 | 2,561
Dover sole ˢ | Coastwide | 89,702 | 85,755 | 50,000 | 48,406
English sole ᵗ | Coastwide | 10,914 | 9,964 | 9,964 | 9,751
Lingcod ᵘ | N. of 40°10′ N. lat | 3,549 | 3,333 | 3,333 | 3,055
Lingcod ᵛ | S. of 40°10′ N. lat | 1,502 | 1,251 | 1,251 | 1,242
Longnose skate ʷ | Coastwide | 2,556 | 2,444 | 2,000 | 1,853
Longspine thornyhead ˣ | Coastwide | 4,571 | 3,808 | NA | NA
Longspine thornyhead | N. of 34°27′ N. lat | NA | NA | 2,894 | 2,847
Longspine thornyhead | S. of 34°27′ N. lat | NA | NA | 914 | 911
Pacific cod ʸ | Coastwide | 3,200 | 2,221 | 1,600 | 1,091
Pacific whiting ᶻ | Coastwide | (ᶻ) | (ᶻ) | (ᶻ) | (ᶻ)
Petrale sole ᵃᵃ | Coastwide | 3,280 | 3,136 | 3,136 | 2,895
Sablefish | Coastwide | 8,050 | 7,350 | NA | NA
Sablefish ᵇᵇ | N. of 36° N. lat | NA | NA | 6,041 | See Table 1c
Sablefish ᶜᶜ | S. of 36° N. lat | NA | NA | 1,075 | 1,070
Shortbelly rockfish ᵈᵈ | Coastwide | 6,950 | 5,789 | 500 | 489
Shortspine thornyhead ᵉᵉ | Coastwide | 3,144 | 2,619 | NA | NA
Shortspine thornyhead | N. of 34°27′ N. lat | NA | NA | 1,713 | 1,654
Shortspine thornyhead | S. of 34°27′ N. lat | NA | NA | 906 | 864
Spiny dogfish ᶠᶠ | Coastwide | 2,514 | 2,094 | 2,094 | 1,756
Splitnose rockfish ᵍᵍ | S. of 40°10′ N. lat | 1,841 | 1,760 | 1,760 | 1,749
Starry flounder ʰʰ | Coastwide | 1,847 | 1,282 | 1,282 | 1,272
Widow rockfish ⁱⁱ | Coastwide | 14,130 | 13,508 | 13,508 | 13,290
Yellowtail rockfish ʲʲ | N. of 40°10′ N. lat | 6,786 | 6,196 | 6,196 | 5,166
Minor Nearshore Rockfish ᵏᵏ | N. of 40°10′ N. lat | 118 | 105 | 105 | 103
Minor Shelf Rockfish ˡˡ | N. of 40°10′ N. lat | 2,303 | 2,049 | 2,049 | 1,965
Minor Slope Rockfish ᵐᵐ | N. of 40°10′ N. lat | 1,897 | 1,755 | 1,755 | 1,690
Minor Nearshore Rockfish ⁿⁿ | S. of 40°10′ N. lat | 1,329 | 1,166 | 1,163 | 1,159
Minor Shelf Rockfish ᵒᵒ | S. of 40°10′ N. lat | 1,917 | 1,624 | 1,623 | 1,576
Minor Slope Rockfish ᵖᵖ | S. of 40°10′ N. lat | 827 | 718 | 707 | 687
Other Flatfish qq | Coastwide | 11,165 | 8,510 | 8,510 | 8,306
Other Fish ʳʳ | Coastwide | 537 | 474 | 474 | 474
ᵃ Annual catch limits (ACLs), annual catch targets (ACTs) and harvest guidelines (HGs) are specified as total catch values.
ᵇ Fishery harvest guidelines means the harvest guideline or quota after subtracting Pacific Coast treaty Indian tribes allocations and projected catch, projected research catch, deductions for fishing mortality in non-groundfish fisheries, and deductions for EFPs from the ACL or ACT.
ᶜ Bocaccio. A stock assessment was conducted in 2015 for the bocaccio stock between the U.S.-Mexico border and Cape Blanco. The stock is managed with stock-specific harvest specifications south of 40°10′ N. lat. and within the Minor Shelf Rockfish complex north of 40°10′ N. lat. A historical catch distribution of approximately 7.4 percent was used to apportion the assessed stock to the area north of 40°10′ N. lat. The bocaccio stock was estimated to be at 36.8 percent of its unfished biomass in 2015. The OFL of 2,139 mt is projected in the 2015 stock assessment using an FMSY proxy of F50%. The ABC of 2,044 mt is a 4.4 percent reduction from the OFL (σ = 0.36/P* = 0.45) because it is a category 1 stock. The 790 mt ACL is based on the current rebuilding plan with a target year to rebuild of 2022 and an SPR harvest rate of 77.7 percent. 15.4 mt is deducted from the ACL to accommodate the incidental open access fishery (0.8 mt), EFP catch (10 mt) and research catch (4.6 mt), resulting in a fishery HG of 774.6 mt. The California recreational fishery has an HG of 326.1 mt.
ᵈ Cowcod. A stock assessment for the Conception Area was conducted in 2013 and the stock was estimated to be at 33.9 percent of its unfished biomass in 2013. The Conception Area OFL of 58 mt is projected in the 2013 rebuilding analysis using an FMSY proxy of F50%. The OFL contribution of 12 mt for the unassessed portion of the stock in the Monterey area is based on depletion-based stock reduction analysis. The OFLs for the Monterey and Conception areas were summed to derive the south of 40°10′ N. lat. OFL of 70 mt. The ABC for the area south of 40°10′ N. lat. is 63 mt. The assessed portion of the stock in the Conception Area is considered category 2, with a Conception area contribution to the ABC of 53 mt, which is an 8.7 percent reduction from the Conception area OFL (σ = 0.72/P* = 0.45). The unassessed portion of the stock in the Monterey area is considered a category 3 stock, with a contribution to the ABC of 10 mt, which is a 16.6 percent reduction from the Monterey area OFL (σ = 1.44/P* = 0.45). A single ACL of 10 mt is being set for both areas combined. The ACL of 10 mt is based on the rebuilding plan with a target year to rebuild of 2020 and an SPR harvest rate of 82.7 percent, which is equivalent to an exploitation rate (catch over age 11+ biomass) of 0.007. 2 mt is deducted from the ACL to accommodate the incidental open access fishery (less than 0.1 mt), EFP fishing (less than 0.1 mt) and research activity (2 mt), resulting in a fishery HG of 8 mt. Any additional mortality in research activities will be deducted from the ACL. A single ACT of 4 mt is being set for both areas combined.
ᵉ Darkblotched rockfish. A 2015 stock assessment estimated the stock to be at 39 percent of its unfished biomass in 2015. The OFL of 671 mt is projected in the 2015 stock assessment using an FMSY proxy of F50%. The ABC of 641 mt is a 4.4 percent reduction from the OFL (σ = 0.36/P* = 0.45) because it is a category 1 stock. The ACL is set equal to the ABC, as the stock is projected to be above its target biomass of B40% in 2017. 77.3 mt is deducted from the ACL to accommodate the Tribal fishery (0.2 mt), the incidental open access fishery (24.5 mt), EFP catch (0.1 mt), research catch (2.5 mt) and an additional deduction for unforeseen catch events (50 mt), resulting in a fishery HG of 563.8 mt.
ᶠ Pacific ocean perch. A stock assessment was conducted in 2011 and the stock was estimated to be at 19.1 percent of its unfished biomass in 2011. The OFL of 964 mt for the area north of 40°10′ N. lat. is based on an updated catch-only projection of the 2011 rebuilding analysis using an F50% FMSY proxy. The ABC of 922 mt is a 4.4 percent reduction from the OFL (σ = 0.36/P* = 0.45) because it is a category 1 stock. The ACL is based on the current rebuilding plan with a target year to rebuild of 2051 and a constant catch amount of 281 mt in 2017 and 2018, followed in 2019 and beyond by ACLs based on an SPR harvest rate of 86.4 percent. 49.4 mt is deducted from the ACL to accommodate the Tribal fishery (9.2 mt), the incidental open access fishery (10 mt), research catch (5.2 mt) and an additional deduction for unforeseen catch events (25 mt), resulting in a fishery HG of 231.6 mt.
ᵍ Yelloweye rockfish. A stock assessment update was conducted in 2011. The stock was estimated to be at 21.4 percent of its unfished biomass in 2011. The 57 mt coastwide OFL is based on a catch-only update of the 2011 stock assessment, assuming actual catches since 2011 and using an FMSY proxy of F50%. The ABC of 47 mt is a 16.7 percent reduction from the OFL (σ = 0.72/P* = 0.40) because it is a category 2 stock. The 20 mt ACL is based on the current rebuilding plan with a target year to rebuild of 2074 and an SPR harvest rate of 76.0 percent. 5.4 mt is deducted from the ACL to accommodate the Tribal fishery (2.3 mt), the incidental open access fishery (0.4 mt), EFP catch (less than 0.1 mt) and research catch (2.7 mt), resulting in a fishery HG of 14.6 mt. Recreational HGs are: 3.3 mt (Washington); 3 mt (Oregon); and 3.9 mt (California).
ʰ Arrowtooth flounder. The arrowtooth flounder stock was last assessed in 2007 and was estimated to be at 79 percent of its unfished biomass in 2007. The OFL of 16,571 mt is derived from a catch-only update of the 2007 stock assessment assuming actual catches since 2007 and using an F30% FMSY proxy. The ABC of 13,804 mt is a 16.7 percent reduction from the OFL (σ = 0.72/P* = 0.40) because it is a category 2 stock. The ACL is set equal to the ABC because the stock is above its target biomass of B25%. 2,098.1 mt is deducted from the ACL to accommodate the Tribal fishery (2,041 mt), the incidental open access fishery (40.8 mt), and research catch (16.4 mt), resulting in a fishery HG of 11,705.9 mt.
ⁱ Big skate. The OFL of 541 mt is based on an estimate of trawl survey biomass and natural mortality. The ABC of 494 mt is an 8.7 percent reduction from the OFL (σ = 0.72/P* = 0.45) as it is a category 2 stock. The ACL is set equal to the ABC. 57.4 mt is deducted from the ACL to accommodate the Tribal fishery (15 mt), the incidental open access fishery (38.4 mt), and research catch (4 mt), resulting in a fishery HG of 436.6 mt.
ʲ Black rockfish (California). A 2015 stock assessment estimated the stock to be at 33 percent of its unfished biomass in 2015. The OFL of 349 mt is projected in the 2015 stock assessment using an FMSY proxy of F50%. The ABC of 334 mt is a 4.4 percent reduction from the OFL (σ = 0.36/P* = 0.45) because it is a category 1 stock. The ACL is set equal to the ABC because the stock is projected to be above its target biomass of B40% in 2017. 1 mt is deducted from the ACL to accommodate EFP catch (1 mt), resulting in a fishery HG of 333 mt.
ᵏ Black rockfish (Oregon). A 2015 stock assessment estimated the stock to be at 60 percent of its unfished biomass in 2015. The OFL of 577 mt is projected in the 2015 stock assessment using an FMSY proxy of F50%. The ABC of 527 mt is an 8.7 percent reduction from the OFL (σ = 0.72/P* = 0.45) because it is a category 2 stock. The ACL is set equal to the ABC because the stock is above its target biomass of B40%. 0.6 mt is deducted from the ACL to accommodate the incidental open access fishery (0.6 mt), resulting in a fishery HG of 526.4 mt.
ˡ Black rockfish (Washington). A 2015 stock assessment estimated the stock to be at 43 percent of its unfished biomass in 2015. The OFL of 319 mt is projected in the 2015 stock assessment using an FMSY proxy of F50%. The ABC of 305 mt is a 4.4 percent reduction from the OFL (σ = 0.36/P* = 0.45) because it is a category 1 stock. The ACL is set equal to the ABC because the stock is above its target biomass of B40%. 18 mt is deducted from the ACL to accommodate the Tribal fishery, resulting in a fishery HG of 287 mt.
ᵐ Blackgill rockfish. Blackgill rockfish contributes to the harvest specifications for the Minor Slope Rockfish South complex. See footnote/pp.
ⁿ Cabezon (California). A cabezon stock assessment was conducted in 2009. The cabezon spawning biomass in waters off California was estimated to be at 48.3 percent of its unfished biomass in 2009. The OFL of 157 mt is calculated using an FMSY proxy of F45%. The ABC of 150 mt is based on a 4.4 percent reduction from the OFL (σ = 0.36/P* = 0.45) because it is a category 1 stock. The ACL is set equal to the ABC because the stock is above its target biomass of B40%. 0.3 mt is deducted from the ACL to accommodate the incidental open access fishery, resulting in a fishery HG of 149.7 mt.
ᵒ Cabezon (Oregon). A cabezon stock assessment was conducted in 2009. The cabezon spawning biomass in waters off Oregon was estimated to be at 52 percent of its unfished biomass in 2009. The OFL of 49 mt is calculated using an FMSY proxy of F45%. The ABC of 47 mt is based on a 4.4 percent reduction from the OFL (σ = 0.36/P* = 0.45) because it is a category 1 species. The ACL is set equal to the ABC because the stock is above its target biomass of B40%. There are no deductions from the ACL so the fishery HG is also equal to the ACL of 47 mt.
ᵖ California scorpionfish. A California scorpionfish assessment was conducted in 2005 and was estimated to be at 79.8 percent of its unfished biomass in 2005. The OFL of 289 mt is based on projections from a catch-only update of the 2005 assessment assuming actual catches since 2005 and using an FMSY harvest rate proxy of F50%. The ABC of 264 mt is an 8.7 percent reduction from the OFL (σ = 0.72/P* = 0.45) because it is a category 2 stock. The ACL is set at a constant catch amount of 150 mt. 2.2 mt is deducted from the ACL to accommodate the incidental open access fishery (2 mt) and research catch (0.2 mt), resulting in a fishery HG of 147.8 mt. An ACT of 111 mt is established.
q Canary rockfish. A stock assessment was conducted in 2015 and the stock was estimated to be at 55.5 percent of its unfished biomass coastwide in 2015. The coastwide OFL of 1,793 mt is projected in the 2015 assessment using an FMSY harvest rate proxy of F50%. The ABC of 1,714 mt is a 4.4 percent reduction from the OFL (σ = 0.36/P* = 0.45) because it is a category 1 stock. The ACL is set equal to the ABC because the stock is above its target biomass of B40%. 247 mt is deducted from the ACL to accommodate the Tribal fishery (50 mt), the incidental open access fishery (1.2 mt), EFP catch (1 mt), research catch (7.2 mt), and an additional deduction for unforeseen catch events (188 mt), resulting in a fishery HG of 1,466.6 mt. Recreational HGs are: 50 mt (Washington); 75 mt (Oregon); and 135 mt (California).
ʳ Chilipepper. A coastwide update assessment of the chilipepper stock was conducted in 2015 and estimated to be at 64 percent of its unfished biomass in 2015. Chilipepper are managed with stock-specific harvest specifications south of 40°10′ N. lat. and within the Minor Shelf Rockfish complex north of 40°10′ N. lat. Projected OFLs are stratified north and south of 40°10′ N. lat. based on the average historical assessed area catch, which is 93 percent for the area south of 40°10′ N. lat. and 7 percent for the area north of 40°10′ N. lat. The OFL of 2,727 mt for the area south of 40°10′ N. lat. is projected in the 2015 assessment using an FMSY proxy of F50%. The ABC of 2,607 mt is a 4.4 percent reduction from the OFL (σ = 0.36/P* = 0.45) because it is a category 1 stock. The ACL is set equal to the ABC because the stock is above its target biomass of B40%. 45.9 mt is deducted from the ACL to accommodate the incidental open access fishery (5 mt), EFP fishing (30 mt), and research catch (10.9 mt), resulting in a fishery HG of 2,561.1 mt.
ˢ Dover sole. A 2011 Dover sole assessment estimated the stock to be at 83.7 percent of its unfished biomass in 2011. The OFL of 89,702 mt is based on an updated catch-only projection from the 2011 stock assessment assuming actual catches since 2011 and using an FMSY proxy of F30%. The ABC of 85,755 mt is a 4.4 percent reduction from the OFL (σ = 0.36/P* = 0.45) because it is a category 1 stock. The ACL could be set equal to the ABC because the stock is above its target biomass of B25%. However, the ACL of 50,000 mt is set at a level below the ABC and higher than the maximum historical landed catch. 1,593.7 mt is deducted from the ACL to accommodate the Tribal fishery (1,497 mt), the incidental open access fishery (54.8 mt), and research catch (41.9 mt), resulting in a fishery HG of 48,406.3 mt.
ᵗ English sole. A 2013 stock assessment was conducted, which estimated the stock to be at 88 percent of its unfished biomass in 2013. The OFL of 10,914 mt is projected in the 2013 assessment using an FMSY proxy of F30%. The ABC of 9,964 mt is an 8.7 percent reduction from the OFL (σ = 0.72/P* = 0.45) because it is a category 2 stock. The ACL is set equal to the ABC because the stock is above its target biomass of B25%. 212.8 mt is deducted from the ACL to accommodate the Tribal fishery (200 mt), the incidental open access fishery (7.0 mt) and research catch (5.8 mt), resulting in a fishery HG of 9,751.2 mt.
ᵘ Lingcod north. The 2009 lingcod assessment modeled two populations north and south of the California-Oregon border (42° N. lat.). Both populations were healthy with stock depletion estimated at 62 and 74 percent for the north and south, respectively in 2009. The OFL is based on an updated catch-only projection from the 2009 assessment assuming actual catches since 2009 and using an FMSY proxy of F45%. The OFL is apportioned north of 40°10′ N. lat. by adding 48% of the OFL from California, resulting in an OFL of 3,549 mt for the area north of 40°10′ N. lat. The ABC of 3,333 mt is based on a 4.4 percent reduction (σ = 0.36/P* = 0.45) from the OFL contribution for the area north of 42° N. lat. because it is a category 1 stock, and an 8.7 percent reduction (σ = 0.72/P* = 0.45) from the OFL contribution for the area between 42° N. lat. and 40°10′ N. lat. because it is a category 2 stock. The ACL is set equal to the ABC because the stock is above its target biomass of B40%. 278.2 mt is deducted from the ACL for the Tribal fishery (250 mt), the incidental open access fishery (16 mt), EFP catch (0.5 mt) and research catch (11.7 mt), resulting in a fishery HG of 3,054.8 mt.
ᵛ Lingcod south. The 2009 lingcod assessment modeled two populations north and south of the California-Oregon border (42° N. lat.). Both populations were healthy with stock depletion estimated at 62 and 74 percent for the north and south, respectively in 2009.The OFL is based on an updated catch-only projection of the 2009 stock assessment assuming actual catches since 2009 using an FMSY proxy of F45%. The OFL is apportioned by subtracting 48% of the California OFL, resulting in an OFL of 1,502 mt for the area south of 40°10′ N. lat. The ABC of 1,251 mt is based on a 16.7 percent reduction from the OFL (σ = 0.72/P* = 0.40) because it is a category 2 stock. The ACL is set equal to the ABC because the stock is above its target biomass of B40%. 9 mt is deducted from the ACL to accommodate the incidental open access fishery (6.9 mt), EFP fishing (1 mt), and research catch (1.1 mt), resulting in a fishery HG of 1,242 mt.
ʷ Longnose skate. A stock assessment was conducted in 2007 and the stock was estimated to be at 66 percent of its unfished biomass. The OFL of 2,556 mt is derived from the 2007 stock assessment using an FMSY proxy of F50%. The ABC of 2,444 mt is a 4.4 percent reduction from the OFL (σ = 0.36/P* = 0.45) because it is a category 1 stock. The ACL of 2,000 mt is a fixed harvest level that provides greater access to the stock and is less than the ABC. 147 mt is deducted from the ACL to accommodate the Tribal fishery (130 mt), incidental open access fishery (3.8 mt), and research catch (13.2 mt), resulting in a fishery HG of 1,853 mt.
ˣ Longspine thornyhead. A 2013 longspine thornyhead coastwide stock assessment estimated the stock to be at 75 percent of its unfished biomass in 2013. A coastwide OFL of 4,571 mt is projected in the 2013 stock assessment using an F50% FMSY proxy. The coastwide ABC of 3,808 mt is a 16.7 percent reduction from the OFL (σ = 0.72/P* = 0.40) because it is a category 2 stock. For the portion of the stock that is north of 34°27′ N. lat., the ACL is 2,894 mt, and is 76 percent of the coastwide ABC based on the average swept-area biomass estimates (2003-2012) from the NMFS NWFSC trawl survey. 46.8 mt is deducted from the ACL to accommodate the Tribal fishery (30 mt), the incidental open access fishery (3.3 mt), and research catch (13.5 mt), resulting in a fishery HG of 2,847.2 mt. For that portion of the stock south of 34°27′ N. lat. the ACL is 914 mt and is 24 percent of the coastwide ABC based on the average swept-area biomass estimates (2003-2012) from the NMFS NWFSC trawl survey. 3.2 mt is deducted from the ACL to accommodate the incidental open access fishery (1.8 mt), and research catch (1.4 mt), resulting in a fishery HG of 910.8 mt.
ʸ Pacific cod. The 3,200 mt OFL is based on the maximum level of historic landings. The ABC of 2,221 mt is a 30.6 percent reduction from the OFL (σ = 1.44/P* = 0.40) because it is a category 3 stock. The 1,600 mt ACL is the OFL reduced by 50 percent as a precautionary adjustment. 509 mt is deducted from the ACL to accommodate the Tribal fishery (500 mt), research catch (7 mt), and the incidental open access fishery (2 mt), resulting in a fishery HG of 1,091 mt.
ᶻ Pacific whiting. Pacific whiting. Pacific whiting are assessed annually. The final specifications will be determined consistent with the U.S.-Canada Pacific Whiting Agreement and will be announced after the Council's April 2017 meeting.
ᵃᵃ Petrale sole. A 2015 stock assessment update was conducted, which estimated the stock to be at 31 percent of its unfished biomass in 2015. The OFL of 3,280 mt is projected in the 2015 assessment using an FMSY proxy of F30%. The ABC of 3,136 mt is a 4.4 percent reduction from the OFL (σ = 0.36/P* = 0.45) because it is a category 1 stock. The ACL is set equal to the ABC because the stock is above its target biomass of B25%. 240.9 mt is deducted from the ACL to accommodate the Tribal fishery (220 mt), the incidental open access fishery (3.2 mt) and research catch (17.7 mt), resulting in a fishery HG of 2,895.1 mt.
ᵇᵇ Sablefish north. A coastwide sablefish stock assessment update was conducted in 2015. The coastwide sablefish biomass was estimated to be at 33 percent of its unfished biomass in 2015. The coastwide OFL of 8,050 mt is projected in the 2015 stock assessment using an FMSY proxy of F45%. The ABC of 7,350 mt is an 8.7 percent reduction from the OFL (σ = 0.36/P* = 0.40). The 40-10 adjustment is applied to the ABC to derive a coastwide ACL value because the stock is in the precautionary zone. This coastwide ACL value is not specified in regulations. The coastwide ACL value is apportioned north and south of 36° N. lat., using the 2003-2014 average estimated swept area biomass from the NMFS NWFSC trawl survey, with 84.9 percent apportioned north of 36° N. lat. and 15.1 percent apportioned south of 36° N. lat. The northern ACL is 6,041 mt and is reduced by 604 mt for the Tribal allocation (10 percent of the ACL north of 36° N. lat.). The 604 mt Tribal allocation is reduced by 1.5 percent to account for discard mortality. Detailed sablefish allocations are shown in Table 1c.
ᶜᶜ Sablefish south. The ACL for the area south of 36° N. lat. is 1,075 mt (15.1 percent of the calculated coastwide ACL value). 5 mt is deducted from the ACL to accommodate the incidental open access fishery (2 mt) and research catch (3 mt), resulting in a fishery HG of 1,070 mt.
ᵈᵈ Shortbelly rockfish. A non-quantitative shortbelly rockfish assessment was conducted in 2007. The spawning stock biomass of shortbelly rockfish was estimated to be 67 percent of its unfished biomass in 2005. The OFL of 6,950 mt is based on the estimated MSY in the 2007 stock assessment. The ABC of 5,789 mt is a 16.7 percent reduction of the OFL (σ = 0.72/P* = 0.40) because it is a category 2 stock. The 500 mt ACL is set to accommodate incidental catch when fishing for co-occurring healthy stocks and in recognition of the stock's importance as a forage species in the California Current ecosystem. 10.9 mt is deducted from the ACL to accommodate the incidental open access fishery (8.9 mt) and research catch (2 mt), resulting in a fishery HG of 489.1 mt.
ᵉᵉ Shortspine thornyhead. A 2013 coastwide shortspine thornyhead stock assessment estimated the stock to be at 74.2 percent of its unfished biomass in 2013. A coastwide OFL of 3,144 mt is projected in the 2013 stock assessment using an F50% FMSY proxy. The coastwide ABC of 2,619 mt is a 16.7 percent reduction from the OFL (σ = 0.72/P* = 0.40) because it is a category 2 stock. For the portion of the stock that is north of 34°27′ N. lat., the ACL is 1,713 mt. The northern ACL is 65.4 percent of the coastwide ABC based on the average swept-area biomass estimates (2003-2012) from the NMFS NWFSC trawl survey. 59 mt is deducted from the ACL to accommodate the Tribal fishery (50 mt), the incidental open access fishery (1.8 mt), and research catch (7.2 mt), resulting in a fishery HG of 1,654 mt for the area north of 34°27′ N. lat. For that portion of the stock south of 34°27′ N. lat. the ACL is 906 mt. The southern ACL is 34.6 percent of the coastwide ABC based on the average swept-area biomass estimates (2003-2012) from the NMFS NWFSC trawl survey. 42.3 mt is deducted from the ACL to accommodate the incidental open access fishery (41.3 mt) and research catch (1 mt), resulting in a fishery HG of 863.7 mt for the area south of 34°27′ N. lat.
ᶠᶠ Spiny dogfish. A coastwide spiny dogfish stock assessment was conducted in 2011. The coastwide spiny dogfish biomass was estimated to be at 63 percent of its unfished biomass in 2011. The coastwide OFL of 2,514 mt is derived from the 2011 assessment using an FMSY proxy of F50%. The coastwide ABC of 2,094 mt is a 16.7 percent reduction from the OFL (σ = 0.72/P* = 0.40) because it is a category 2 stock. The ACL is set equal to the ABC because the stock is above its target biomass of B40%. 338 mt is deducted from the ACL to accommodate the Tribal fishery (275 mt), the incidental open access fishery (49.5 mt), EFP catch (1 mt), and research catch (12.5 mt), resulting in a fishery HG of 1,756 mt.
ᵍᵍ Splitnose rockfish. A coastwide splitnose rockfish assessment was conducted in 2009 that estimated the stock to be at 66 percent of its unfished biomass in 2009. Splitnose rockfish in the north is managed in the Minor Slope Rockfish complex and with stock-specific harvest specifications south of 40°10′ N. lat. The coastwide OFL is projected in the 2009 assessment using an FMSY proxy of F50%. The coastwide OFL is apportioned north and south of 40°10′ N. lat. based on the average 1916-2008 assessed area catch, resulting in 64.2 percent of the coastwide OFL apportioned south of 40°10′ N. lat., and 35.8 percent apportioned for the contribution of splitnose rockfish to the northern Minor Slope Rockfish complex. The southern OFL of 1,841 mt results from the apportionment described above. The southern ABC of 1,760 mt is a 4.4 percent reduction from the southern OFL (σ = 0.36/P* = 0.45) because it is a category 1 stock. The ACL is set equal to the ABC because the stock is estimated to be above its target biomass of B40%. 10.7 mt is deducted from the ACL to accommodate the incidental open access fishery (0.2 mt), research catch (9 mt) and EFP catch (1.5 mt), resulting in a fishery HG of 1,749.3 mt.
ʰʰ Starry flounder. The stock was assessed in 2005 and was estimated to be above 40 percent of its unfished biomass in 2005 (44 percent in Washington and Oregon, and 62 percent in California). The coastwide OFL of 1,847 mt is set equal to the 2016 OFL, which was derived from the 2005 assessment using an FMSY proxy of F30%. The ABC of 1,282 mt is a 30.6 percent reduction from the OFL (σ = 1.44/P* = 0.40) because it is a category 3 stock. The ACL is set equal to the ABC because the stock was estimated to be above its target biomass of B25% in 2017. 10.3 mt is deducted from the ACL to accommodate the Tribal fishery (2 mt), and the incidental open access fishery (8.3 mt), resulting in a fishery HG of 1,271.7 mt.
ⁱⁱ Widow rockfish. The widow rockfish stock was assessed in 2015 and was estimated to be at 75 percent of its unfished biomass in 2015. The OFL of 14,130 mt is projected in the 2015 stock assessment using the F50% FMSY proxy. The ABC of 13,508 mt is a 4.4 percent reduction from the OFL (σ = 0.36/P* = 0.45) because it is a category 1 stock. The ACL is set equal to the ABC because the stock is above its target biomass of B40%. 217.7 mt is deducted from the ACL to accommodate the Tribal fishery (200 mt), the incidental open access fishery (0.5 mt), EFP catch (9 mt) and research catch (8.2 mt), resulting in a fishery HG of 13,290.3 mt.
ʲʲ Yellowtail rockfish. A 2013 yellowtail rockfish stock assessment was conducted for the portion of the population north of 40°10′ N. lat. The estimated stock depletion was 67 percent of its unfished biomass in 2013. The OFL of 6,786 mt is projected in the 2013 stock assessment using an FMSY proxy of F50%. The ABC of 6,196 mt is an 8.7 percent reduction from the OFL (σ = 0.72/P* = 0.45) because it is a category 2 stock. The ACL is set equal to the ABC because the stock is above its target biomass of B40%. 1,030 mt is deducted from the ACL to accommodate the Tribal fishery (1,000 mt), the incidental open access fishery (3.4 mt), EFP catch (10 mt) and research catch (16.6 mt), resulting in a fishery HG of 5,166.1 mt.
ᵏᵏ Minor Nearshore Rockfish north. The OFL for Minor Nearshore Rockfish north of 40°10′ N. lat. of 118 mt is the sum of the OFL contributions for the component species managed in the complex. The ABCs for the minor rockfish complexes are based on a sigma value of 0.72 for category 2 stocks (blue/deacon rockfish in California, brown rockfish, China rockfish, and copper rockfish) and a sigma value of 1.44 for category 3 stocks (all others) with a P* of 0.45. The resulting ABC of 105 mt is the summed contribution of the ABCs for the component species. The ACL of 105 mt is the sum of contributing ABCs of healthy assessed stocks and unassessed stocks, plus the ACL contributions for blue/deacon rockfish in California where the 40-10 adjustment was applied to the ABC contribution for this stock because it is in the precautionary zone. 1.8 mt is deducted from the ACL to accommodate the Tribal fishery (1.5 mt) and the incidental open access fishery (0.3 mt), resulting in a fishery HG of 103.2 mt. Between 40°10′ N. lat. and 42° N. lat. the Minor Nearshore Rockfish complex north has a harvest guideline of 40.2 mt. Blue/deacon rockfish south of 42° N. lat. has a stock-specific HG, described in footnote ⁿⁿ.
ˡˡ Minor Shelf Rockfish north. The OFL for Minor Shelf Rockfish north of 40°10′ N. lat. of 2,303 mt is the sum of the OFL contributions for the component species within the complex. The ABCs for the minor rockfish complexes are based on a sigma value of 0.36 for a category 1 stock (chilipepper), a sigma value of 0.72 for category 2 stocks (greenspotted rockfish between 40°10′ and 42° N. lat. and greenstriped rockfish), and a sigma value of 1.44 for category 3 stocks (all others) with a P* of 0.45. The resulting ABC of 2,049 mt is the summed contribution of the ABCs for the component species. The ACL of 2,049 mt is the sum of contributing ABCs of healthy assessed stocks and unassessed stocks, plus the ACL contribution of greenspotted rockfish in California where the 40-10 adjustment was applied to the ABC contribution for this stock because it is in the precautionary zone. 83.8 mt is deducted from the ACL to accommodate the Tribal fishery (30 mt), the incidental open access fishery (26 mt), EFP catch (3 mt), and research catch (24.8 mt), resulting in a fishery HG of 1,965.2 mt.
ᵐᵐ Minor Slope Rockfish north. The OFL for Minor Slope Rockfish north of 40°10′ N. lat. of 1,897 mt is the sum of the OFL contributions for the component species within the complex. The ABCs for the Minor Slope Rockfish complexes are based on a sigma value of 0.39 for aurora rockfish, a sigma value of 0.36 for the other category 1 stock (splitnose rockfish), a sigma value of 0.72 for category 2 stocks (rougheye rockfish, blackspotted rockfish, and sharpchin rockfish), and a sigma value of 1.44 for category 3 stocks (all others) with a P* of 0.45. A unique sigma of 0.39 was calculated for aurora rockfish because the variance in estimated spawning biomass was greater than the 0.36 used as a proxy for other category 1 stocks. The resulting ABC of 1,755 mt is the summed contribution of the ABCs for the component species. The ACL is set equal to the ABC because all the assessed component stocks (i.e., rougheye rockfish, blackspotted rockfish, sharpchin rockfish, and splitnose rockfish) are above the target biomass of B40%. 65.1 mt is deducted from the ACL to accommodate the Tribal fishery (36 mt), the incidental open access fishery (18.6 mt), EFP catch (1 mt), and research catch (9.5 mt), resulting in a fishery HG of 1,689.9 mt.
ⁿⁿ Minor Nearshore Rockfish south. The OFL for the Minor Nearshore Rockfish complex south of 40°10′ N. lat. of 1,329 mt is the sum of the OFL contributions for the component species within the complex. The ABC for the southern Minor Nearshore Rockfish complex is based on a sigma value of 0.72 for category 2 stocks (i.e., blue/deacon rockfish north of 34°27′ N. lat., brown rockfish, China rockfish, and copper rockfish) and a sigma value of 1.44 for category 3 stocks (all others) with a P* of 0.45. The resulting ABC of 1,166 mt is the summed contribution of the ABCs for the component species. The ACL of 1,163 mt is the sum of the contributing ABCs of healthy assessed stocks and unassessed stocks, plus the ACL contribution for blue/deacon rockfish north of 34°27′ N. lat. and China rockfish where the 40-10 adjustment was applied to the ABC contributions for these two stocks because they are in the precautionary zone. 4.1 mt is deducted from the ACL to accommodate the incidental open access fishery (1.4 mt) and research catch (2.7 mt), resulting in a fishery HG of 1,158.9 mt. Blue/deacon rockfish south of 42° N. lat. has a stock-specific HG set equal to the 40-10-adjusted ACL for the portion of the stock north of 34°27′ N lat. (243.7 mt) plus the ABC contribution for the unassessed portion of the stock south of 34°27′ N. lat. (60.8 mt). The California (i.e. south of 42° N. lat.) blue/deacon rockfish HG is 304.5 mt.
ᵒᵒ Minor Shelf Rockfish south. The OFL for the Minor Shelf Rockfish complex south of 40°10′ N. lat. of 1,917 mt is the sum of the OFL contributions for the component species within the complex. The ABC for the southern Minor Shelf Rockfish complex is based on a sigma value of 0.72 for category 2 stocks (greenspotted and greenstriped rockfish) and a sigma value of 1.44 for category 3 stocks (all others) with a P* of 0.45. The resulting ABC of 1,624 mt is the summed contribution of the ABCs for the component species. The ACL of 1,623 mt is the sum of contributing ABCs of healthy assessed stocks and unassessed stocks, plus the ACL contribution of greenspotted rockfish in California where the 40-10 adjustment was applied to the ABC contribution for this stock because it is in the precautionary zone. 47.2 mt is deducted from the ACL to accommodate the incidental open access fishery (8.6 mt), EFP catch (30 mt), and research catch (8.6 mt), resulting in a fishery HG of 1,575.8 mt.
ᵖᵖ Minor Slope Rockfish south. The OFL of 827 mt is the sum of the OFL contributions for the component species within the complex. The ABC for the southern Minor Slope Rockfish complex is based on a sigma value of 0.39 for aurora rockfish, a sigma value of 0.72 for category 2 stocks (blackgill rockfish, rougheye rockfish, blackspotted rockfish, and sharpchin rockfish) and a sigma value of 1.44 for category 3 stocks (all others) with a P* of 0.45. A unique sigma of 0.39 was calculated for aurora rockfish because the variance in estimated biomass was greater than the 0.36 used as a proxy for other category 1 stocks. The resulting ABC of 718 mt is the summed contribution of the ABCs for the component species. The ACL of 707 mt is the sum of the contributing ABCs of healthy assessed stocks and unassessed stocks, plus the ACL contribution of blackgill rockfish where the 40-10 adjustment was applied to the ABC contribution for this stock because it is in the precautionary zone. 20.2 mt is deducted from the ACL to accommodate the incidental open access fishery (17.2 mt), EFP catch (1 mt), and research catch (2 mt), resulting in a fishery HG of 686.8 mt. Blackgill rockfish has a stock-specific HG for the entire groundfish fishery south of 40°10′ N lat. set equal to the species' contribution to the 40-10-adjusted ACL. Harvest of blackgill rockfish in all groundfish fisheries counts against this HG of 120.2 mt. Nontrawl fisheries are subject to a blackgill rockfish HG of 44.5 mt.
qq Other Flatfish. The Other Flatfish complex is comprised of flatfish species managed in the PCGFMP that are not managed with stock-specific OFLs/ABCs/ACLs. Most of the species in the Other Flatfish complex are unassessed and include: Butter sole, curlfin sole, flathead sole, Pacific sanddab, rock sole, sand sole, and rex sole. The Other Flatfish OFL of 11,165 mt is based on the sum of the OFL contributions of the component stocks. The ABC of 8,510 mt is based on a sigma value of 0.72 for a category 2 stock (rex sole) and a sigma value of 1.44 for category 3 stocks (all others) with a P* of 0.40. The ACL is set equal to the ABC. The ACL is set equal to the ABC because all of the assessed stocks (i.e., Pacific sanddabs and rex sole) were above their target biomass of B25%. 204 mt is deducted from the ACL to accommodate the Tribal fishery (60 mt), the incidental open access fishery (125 mt), and research catch (19 mt), resulting in a fishery HG of 8,306 mt.
ʳʳ Other Fish. The Other Fish complex is comprised of kelp greenling coastwide, cabezon off Washington, and leopard shark coastwide. The 2015 assessment for the kelp greenling stock off of Oregon projected an estimated depletion of 80 percent in 2015. All other stocks are unassessed. The OFL of 537 mt is the sum of the OFL contributions for kelp greenling coastwide, cabezon off Washington, and leopard shark coastwide. The ABC for the Other Fish complex is based on a sigma value of 0.44 for kelp greenling off Oregon and a sigma value of 1.44 for category 3 stocks (all others) with a P* of 0.45. A unique sigma of 0.44 was calculated for kelp greenling off Oregon because the variance in estimated spawning biomass was greater than the 0.36 sigma used as a proxy for other category 1 stocks. The resulting ABC of 474 mt is the summed contribution of the ABCs for the component species. The ACL is set equal to the ABC because all of the assessed stocks (kelp greenling off Oregon) were above their target biomass of B40%. There are no deductions from the ACL so the fishery HG is equal to the ACL of 474 mt.

Table 1b to Part 660, Subpart C—2017, Allocations by Species or Species Group
[Weight in metric tons]
Species | Area | Fishery HG or ACT | Trawl: Percent | Trawl: Mt | Non-trawl: Percent | Non-trawl: Mt
BOCACCIO ᵃ | S. of 40°10′ N. lat | 774.6 | 39 | 302.4 | 61 | 472.2
COWCOD a b | S. of 40°10′ N. lat | 4.0 | 36 | 1.4 | 64 | 2.6
DARKBLOTCHED ROCKFISH ᶜ | Coastwide | 563.8 | 95 | 535.6 | 5 | 28.2
PACIFIC OCEAN PERCH ᵉ | N. of 40°10′ N. lat | 231.6 | 95 | 220.0 | 5 | 11.6
YELLOWEYE ROCKFISH ᵃ | Coastwide | 14.6 | NA | 1.1 | NA | 13.1
Arrowtooth flounder | Coastwide | 11,705.9 | 95 | 11,120.6 | 5 | 585.3
Big skate ᵃ | Coastwide | 436.6 | 95 | 414.8 | 5 | 21.8
Canary rockfish a d | Coastwide | 1,466.6 | NA | 1,060.1 | NA | 406.5
Chilipepper | S. of 40°10′ N. lat | 2,561.1 | 75 | 1,920.8 | 25 | 640.3
Dover sole | Coastwide | 48,406.3 | 95 | 45,986.0 | 5 | 2,420.3
English sole | Coastwide | 9,751.2 | 95 | 9,263.6 | 5 | 487.6
Lingcod | N. of 40°10′ N. lat | 3,054.8 | 45 | 1,374.7 | 55 | 1,680.2
Lingcod | S. of 40°10′ N. lat | 1,242.0 | 45 | 558.9 | 55 | 683.1
Longnose skate ᵃ | Coastwide | 1,853.0 | 90 | 1,667.7 | 10 | 185.3
Longspine thornyhead | N. of 34°27′ N. lat | 2,847.2 | 95 | 2,704.8 | 5 | 142.4
Pacific cod | Coastwide | 1,091.0 | 95 | 1,036.4 | 5 | 54.5
Pacific whiting | Coastwide | TBD | 100 | TBD | 0 | TBD
Petrale sole | Coastwide | 2,895.1 | 95 | 2,750.3 | 5 | 144.8
Sablefish | N. of 36° N. lat | NA | See Table 1c
Sablefish | S. of 36° N. lat | 1,070.0 | 42 | 449.4 | 58 | 620.6
Shortspine thornyhead | N. of 34°27′ N. lat | 1,654.0 | 95 | 1,571.3 | 5 | 82.7
Shortspine thornyhead | S. of 34°27′ N. lat | 863.7 | NA | 50.0 | NA | 813.7
Splitnose rockfish | S. of 40°10′ N. lat | 1,749.3 | 95 | 1,661.8 | 5 | 87.5
Starry flounder | Coastwide | 1,271.7 | 50 | 635.9 | 50 | 635.9
Widow rockfish ᶠ | Coastwide | 13,290.3 | 91 | 12,094.2 | 9 | 1,196.1
Yellowtail rockfish | N. of 40°10′ N. lat | 5,166.1 | 88 | 4,546.1 | 12 | 619.9
Minor Shelf Rockfish ᵃ | N. of 40°10′ N. lat | 1,965.2 | 60 | 1,183.1 | 40 | 782.1
Minor Slope Rockfish | N. of 40°10′ N. lat | 1,689.9 | 81 | 1,368.8 | 19 | 321.1
Minor Shelf Rockfish ᵃ | S. of 40°10′ N. lat | 1,575.8 | 12 | 192.2 | 88 | 1,383.6
Minor Slope Rockfish | S. of 40°10′ N. lat | 686.8 | 63 | 432.7 | 37 | 254.1
Other Flatfish | Coastwide | 8,306.0 | 90 | 7,475.4 | 10 | 830.6
ᵃ Allocations decided through the biennial specification process.
ᵇ The cowcod fishery harvest guideline is further reduced to an ACT of 4.0 mt.
ᶜ Consistent with regulations at § 660.55(c), 9 percent (48.2 mt) of the total trawl allocation for darkblotched rockfish is allocated to the Pacific whiting fishery, as follows: 20.2 mt for the Shorebased IFQ Program, 11.6 mt for the MS sector, and 16.4 mt for the C/P sector. The tonnage calculated here for the Pacific whiting IFQ fishery contributes to the total shorebased trawl allocation, which is found at § 660.140(d)(1)(ii)(D).
ᵈ Canary rockfish is allocated approximately 72 percent to trawl and 28 percent to non-trawl. 46 mt of the total trawl allocation of canary rockfish is allocated to the MS and C/P sectors, as follows: 30 mt for the MS sector, and 16 mt for the C/P sector.
ᵉ Consistent with regulations at § 660.55(c), 17 percent (37.4 mt) of the total trawl allocation for POP is allocated to the Pacific whiting fishery, as follows: 15.7 mt for the Shorebased IFQ Program, 9.0 mt for the MS sector, and 12.7 mt for the C/P sector. The tonnage calculated here for the Pacific whiting IFQ fishery contributes to the total shorebased trawl allocation, which is found at § 660.140(d)(1)(ii)(D).
ᶠ Consistent with regulations at § 660.55(c), 10 percent (1,209.4 mt) of the total trawl allocation for widow rockfish is allocated to the whiting fisheries, as follows: 508.0 mt for the shorebased IFQ fishery, 290.3 mt for the mothership fishery, and 411.2 mt for the catcher/processor fishery. The tonnage calculated here for the whiting portion of the shorebased IFQ fishery contributes to the total shorebased trawl allocation, which is found at § 660.140(d)(1)(ii)(D).

Table 1c. to Part 660, Subpart C—Sablefish North of 36° N. Lat. Allocations, 2017
Year | ACL | Set-asides: Tribal ᵃ | Set-asides: Research | Recreational estimate | EFP | Commercial HG | Limited entry HG: Percent | Limited entry HG: mt | Open access HG: Percent | Open access HG: mt ᵇ
2017 | 6,041 | 604 | 26 | 6.1 | 1 | 5,404 | 90.6 | 4,896 | 9.4 | 508
|  | Limited entry trawl ᶜ |  |  |  | Limited entry fixed gear ᵈ
Year | LE All | All trawl | At-sea whiting | Shorebased IFQ |  | All FG | Primary |  | DTL
2017 | 4,896 | 2,840 | 50 | 2,790 |  | 2,056 | 1,748 |  | 308
ᵃ The tribal allocation is further reduced by 1.5 percent for discard mortality resulting in 595 mt in 2017.
ᵇ The open access HG is taken by the incidental OA fishery and the directed OA fishery.
ᶜ The trawl allocation is 58 percent of the limited entry HG.
ᵈ The limited entry fixed gear allocation is 42 percent of the limited entry HG.

Table 1d. to Part 660, Subpart C—At-Sea Whiting Fishery Annual Set-Asides, 2017
Species or species complex | Area | Set aside (mt)
BOCACCIO | S. of 40°10′ N. lat | NA.
COWCOD | S. of 40°10′ N. lat | NA.
DARKBLOTCHED ROCKFISH ᵃ | Coastwide | Allocation.
PACIFIC OCEAN PERCH ᵃ | N. of 40°10′ N. lat | Allocation.
YELLOWEYE ROCKFISH | Coastwide | 0.
Arrowtooth flounder | Coastwide | 70.
Canary rockfish ᵃ | Coastwide | Allocation.
Chilipepper | S. of 40°10′ N. lat | NA.
Dover sole | Coastwide | 5.
English sole | Coastwide | 5.
Lingcod | N. of 40°10′ N. lat | 15.
Lingcod | S. of 40°10′ N. lat | NA.
Longnose skate | Coastwide | 5.
Longspine thornyhead | N. of 34°27′ N. lat | 5.
Longspine thornyhead | S. of 34°27′ N. lat | NA.
Minor Nearshore Rockfish | N. of 40°10′ N. lat | NA.
Minor Nearshore Rockfish | S. of 40°10′ N. lat | NA.
Minor Shelf Rockfish | N. of 40°10′ N. lat | 35.
Minor Shelf Rockfish | S. of 40°10′ N. lat | NA.
Minor Slope Rockfish | N. of 40°10′ N. lat | 100.
Minor Slope Rockfish | S. of 40°10′ N. lat | NA.
Other Fish | Coastwide | NA.
Other Flatfish | Coastwide | 20.
Pacific cod | Coastwide | 5.
Pacific Halibut ᵇ | Coastwide | 10.
Pacific Whiting | Coastwide | Allocation.
Petrale sole | Coastwide | 5.
Sablefish | N. of 36° N. lat | 50.
Sablefish | S. of 36° N. lat | NA.
Shortspine thornyhead | N. of 34°27′ N. lat | 20.
Shortspine thornyhead | S. of 34°27′ N. lat | NA.
Starry flounder | Coastwide | 5.
Widow Rockfish ᵃ | Coastwide | Allocation.
Yellowtail rockfish | N. of 40°10′ N. lat | 300.
ᵃ See Table 1.b., to Subpart C, for the at-sea whiting allocations for these species.
ᵇ As stated in § 660.55 (m), the Pacific halibut set-aside is 10 mt, to accommodate bycatch in the at-sea Pacific whiting fisheries and in the shorebased trawl sector south of 40°10′ N. lat. (estimated to be approximately 5 mt each).

* * * * *

11b. Tables 2a through 2d to part 660, subpart C, are revised to read as follows:

Table 2a to Part 660, Subpart C—2018, and Beyond, Specifications of OFL, ABC, ACL, ACT and Fishery Harvest Guidelines
[Weights in metric tons]
Species | Area | OFL | ABC | ACL ᵃ | Fishery HG ᵇ
BOCACCIO ᶜ | S. of 40°10′ N. lat | 2,013 | 1,924 | 741 | 726
COWCOD ᵈ | S. of 40°10′ N. lat | 71 | 64 | 10 | 8
DARKBLOTCHED ROCKFISH ᵉ | Coastwide | 683 | 653 | 653 | 576
PACIFIC OCEAN PERCH ᶠ | N. of 40°10′ N. lat | 984 | 941 | 281 | 232
YELLOWEYE ROCKFISH ᵍ | Coastwide | 58 | 48 | 20 | 14
Arrowtooth flounder ʰ | Coastwide | 16,498 | 13,743 | 13,743 | 11,645
Big skate ⁱ | Coastwide | 541 | 494 | 494 | 437
Black rockfish ʲ | California (South of 42° N. lat.) | 347 | 332 | 332 | 331
Black rockfish ᵏ | Oregon (Between 46°16′ N. lat. and 42° N. lat.) | 570 | 520 | 520 | 519
Black rockfish ˡ | Washington (N. of 46°16′ N. lat.) | 315 | 301 | 301 | 283
Blackgill rockfish ᵐ | S. of 40°10′ N. lat | NA | NA | NA | NA
Cabezon ⁿ | California (South of 42° N. lat.) | 156 | 149 | 149 | 149
Cabezon ᵒ | Oregon (Between 46°16′ N. lat. and 42° N. lat.) | 49 | 47 | 47 | 47
California scorpionfish ᵖ | S. of 34°27′ N. lat | 278 | 254 | 150 | 148
Canary rockfish q | Coastwide | 1,596 | 1,526 | 1,526 | 1,467
Chilipepper ʳ | S. of 40°10′ N. lat | 2,623 | 2,507 | 2,507 | 2,461
Dover sole ˢ | Coastwide | 90,282 | 86,310 | 50,000 | 48,406
English sole ᵗ | Coastwide | 8,255 | 7,537 | 7,537 | 7,324
Lingcod ᵘ | N. of 40°10′ N. lat | 3,310 | 3,110 | 3,110 | 2,832
Lingcod ᵛ | S. of 40°10′ N. lat | 1,373 | 1,144 | 1,144 | 1,135
Longnose skate ʷ | Coastwide | 2,526 | 2,415 | 2,000 | 1,853
Longspine thornyhead ˣ | Coastwide | 4,339 | 3,614 | NA | NA
Longspine thornyhead | N. of 34°27′ N. lat | NA | NA | 2,747 | 2,700
Longspine thornyhead | S. of 34°27′ N. lat | NA | NA | 867 | 864
Pacific cod ʸ | Coastwide | 3,200 | 2,221 | 1,600 | 1,091
Pacific whiting ᶻ | Coastwide | (ᶻ) | (ᶻ) | (ᶻ) | (ᶻ)
Petrale sole ᵃᵃ | Coastwide | 3,152 | 3,013 | 3,013 | 2,772
Sablefish | Coastwide | 8,329 | 7,604 | NA | NA
Sablefish ᵇᵇ | N. of 36° N. lat | NA | NA | 6,299 | See Table 1c
Sablefish ᶜᶜ | S. of 36° N. lat | NA | NA | 1,120 | 1,115
Shortbelly rockfish ᵈᵈ | Coastwide | 6,950 | 5,789 | 500 | 489
Shortspine thornyhead ᵉᵉ | Coastwide | 3,116 | 2,596 | NA | NA
Shortspine thornyhead | N. of 34°27′ N. lat | NA | NA | 1,698 | 1,639
Shortspine thornyhead | S. of 34°27′ N. lat | NA | NA | 898 | 856
Spiny dogfish ᶠᶠ | Coastwide | 2,500 | 2,083 | 2,083 | 1,745
Splitnose rockfish ᵍᵍ | S. of 40°10′ N. lat | 1,842 | 1,761 | 1,761 | 1,750
Starry flounder ʰʰ | Coastwide | 1,847 | 1,282 | 1,282 | 1,272
Widow rockfish ⁱⁱ | Coastwide | 13,237 | 12,655 | 12,655 | 12,437
Yellowtail rockfish ʲʲ | N. of 40°10′ N. lat | 6,574 | 6,002 | 6,002 | 4,972
Minor Nearshore Rockfish ᵏᵏ | N. of 40°10′ N. lat | 119 | 105 | 105 | 103
Minor Shelf Rockfish ˡˡ | N. of 40°10′ N. lat | 2,302 | 2,048 | 2,047 | 1,963
Minor Slope Rockfish ᵐᵐ | N. of 40°10′ N. lat | 1,896 | 1,754 | 1,754 | 1,689
Minor Nearshore Rockfish ⁿⁿ | S. of 40°10′ N. lat | 1,344 | 1,180 | 1,179 | 1,175
Minor Shelf Rockfish ᵒᵒ | S. of 40°10′ N. lat | 1,918 | 1,625 | 1,624 | 1,577
Minor Slope Rockfish ᵖᵖ | S. of 40°10′ N. lat | 829 | 719 | 709 | 689
Other Flatfish qq | Coastwide | 9,690 | 7,281 | 7,281 | 7,077
Other Fish ʳʳ | Coastwide | 501 | 441 | 441 | 441
ᵃ Annual catch limits (ACLs), annual catch targets (ACTs) and harvest guidelines (HGs) are specified as total catch values.
ᵇ Fishery harvest guidelines means the harvest guideline or quota after subtracting Pacific Coast treaty Indian tribes allocations and projected catch, projected research catch, deductions for fishing mortality in non-groundfish fisheries, and deductions for EFPs from the ACL or ACT.
ᶜ Bocaccio. A stock assessment was conducted in 2015 for the bocaccio stock between the U.S.-Mexico border and Cape Blanco. The stock is managed with stock-specific harvest specifications south of 40°10′ N. lat. and within the Minor Shelf Rockfish complex north of 40°10′ N. lat. A historical catch distribution of approximately 7.4 percent was used to apportion the assessed stock to the area north of 40°10′ N. lat. The bocaccio stock was estimated to be at 36.8 percent of its unfished biomass in 2015. The OFL of 2,013 mt is projected in the 2015 stock assessment using an FMSY proxy of F50%. The ABC of 1,924 mt is a 4.4 percent reduction from the OFL (σ = 0.36/P* = 0.45) because it is a category 1 stock. The 741 mt ACL is based on the current rebuilding plan with a target year to rebuild of 2022 and an SPR harvest rate of 77.7 percent. 15.4 mt is deducted from the ACL to accommodate the incidental open access fishery (0.8 mt), EFP catch (10 mt) and research catch (4.6 mt), resulting in a fishery HG of 725.6 mt. The California recreational fishery has an HG of 305.5 mt.
ᵈ Cowcod. A stock assessment for the Conception Area was conducted in 2013 and the stock was estimated to be at 33.9 percent of its unfished biomass in 2013. The Conception Area OFL of 59 mt is projected in the 2013 rebuilding analysis using an FMSY proxy of F50%. The OFL contribution of 12 mt for the unassessed portion of the stock in the Monterey area is based on depletion-based stock reduction analysis. The OFLs for the Monterey and Conception areas were summed to derive the south of 40°10′ N. lat. OFL of 71 mt. The ABC for the area south of 40°10′ N. lat. is 64 mt. The assessed portion of the stock in the Conception Area is considered category 2, with a Conception area contribution to the ABC of 54 mt, which is an 8.7 percent reduction from the Conception area OFL (σ = 0.72/P* = 0.45). The unassessed portion of the stock in the Monterey area is considered a category 3 stock, with a contribution to the ABC of 10 mt, which is a 16.6 percent reduction from the Monterey area OFL (σ = 1.44/P* = 0.45). A single ACL of 10 mt is being set for both areas combined. The ACL of 10 mt is based on the rebuilding plan with a target year to rebuild of 2020 and an SPR harvest rate of 82.7 percent, which is equivalent to an exploitation rate (catch over age 11+ biomass) of 0.007. 2 mt is deducted from the ACL to accommodate the incidental open access fishery (less than 0.1 mt), EFP fishing (less than 0.1 mt) and research activity (2 mt), resulting in a fishery HG of 8 mt. Any additional mortality in research activities will be deducted from the ACL. A single ACT of 4 mt is being set for both areas combined.
ᵉ Darkblotched rockfish. A 2015 stock assessment estimated the stock to be at 39 percent of its unfished biomass in 2015. The OFL of 683 mt is projected in the 2015 stock assessment using an FMSY proxy of F50%. The ABC of 653 mt is a 4.4 percent reduction from the OFL (σ = 0.36/P* = 0.45) because it is a category 1 stock. The ACL is set equal to the ABC, as the stock is projected to be above its target biomass of B40% in 2017. 77.3 mt is deducted from the ACL to accommodate the Tribal fishery (0.2 mt), the incidental open access fishery (24.5 mt), EFP catch (0.1 mt), research catch (2.5 mt) and an additional deduction for unforeseen catch events (50 mt), resulting in a fishery HG of 575.8 mt.
ᶠ Pacific ocean perch. A stock assessment was conducted in 2011 and the stock was estimated to be at 19.1 percent of its unfished biomass in 2011. The OFL of 984 mt for the area north of 40°10′ N. lat. is based on an updated catch-only projection of the 2011 rebuilding analysis using an F50% FMSY proxy. The ABC of 941 mt is a 4.4 percent reduction from the OFL (σ = 0.36/P* = 0.45) as it is a category 1 stock. The ACL is based on the current rebuilding plan with a target year to rebuild of 2051 and a constant catch amount of 281 mt in 2017 and 2018, followed in 2019 and beyond by ACLs based on an SPR harvest rate of 86.4 percent. 49.4 mt is deducted from the ACL to accommodate the Tribal fishery (9.2 mt), the incidental open access fishery (10 mt), research catch (5.2 mt) and an additional deduction for unforeseen catch events (25 mt), resulting in a fishery HG of 231.6 mt.
ᵍ Yelloweye rockfish. A stock assessment update was conducted in 2011. The stock was estimated to be at 21.4 percent of its unfished biomass in 2011. The 58 mt coastwide OFL is based on a catch-only update of the 2011 stock assessment, assuming actual catches since 2011 and using an FMSY proxy of F50%. The ABC of 48 mt is a 16.7 percent reduction from the OFL (σ = 0.72/P* = 0.40) as it is a category 2 stock. The 20 mt ACL is based on the current rebuilding plan with a target year to rebuild of 2074 and an SPR harvest rate of 76.0 percent. 6 mt is deducted from the ACL to accommodate the Tribal fishery (2.3 mt), the incidental open access fishery (0.4 mt), EFP catch (less than 0.1 mt) and research catch (3.27 mt) resulting in a fishery HG of 14 mt. Recreational HGs are: 3.3 mt (Washington); 3 mt (Oregon); and 3.9 mt (California).
ʰ Arrowtooth flounder. The arrowtooth flounder stock was last assessed in 2007 and was estimated to be at 79 percent of its unfished biomass in 2007. The OFL of 16,498 mt is derived from a catch-only update of the 2007 assessment assuming actual catches since 2007 and using an F30% FMSY proxy. The ABC of 13,743 mt is a 16.7 percent reduction from the OFL (σ = 0.72/P* = 0.40) as it is a category 2 stock. The ACL is set equal to the ABC because the stock is above its target biomass of B25%. 2,098.1 mt is deducted from the ACL to accommodate the Tribal fishery (2,041 mt), the incidental open access fishery (40.8 mt), and research catch (16.4 mt), resulting in a fishery HG of 11,644.9 mt.
ⁱ Big skate. The OFL of 541 mt is based on an estimate of trawl survey biomass and natural mortality. The ABC of 494 mt is a 8.7 percent reduction from the OFL (σ = 0.72/P* = 0.45) as it is a category 2 stock. The ACL is set equal to the ABC. 57.4 mt is deducted from the ACL to accommodate the Tribal fishery (15 mt), the incidental open access fishery (38.4 mt), and research catch (4 mt), resulting in a fishery HG of 436.6 mt.
ʲ Black rockfish (California). A 2015 stock assessment estimated the stock to be at 33 percent of its unfished biomass in 2015. The OFL of 347 mt is projected in the 2015 stock assessment using an FMSY proxy of F50%. The ABC of 332 mt is a 4.4 percent reduction from the OFL (σ = 0.36/P* = 0.45) because it is a category 1 stock. The ACL is set equal to the ABC because the stock is projected to be above its target biomass of B40% in 2018. 1 mt is deducted from the ACL for EFP catch, resulting in a fishery HG of 331 mt.
ᵏ Black rockfish (Oregon). A 2015 stock assessment estimated the stock to be at 60 percent of its unfished biomass in 2015. The OFL of 570 mt is projected in the 2015 stock assessment using an FMSY proxy of F50%. The ABC of 520 mt is an 8.7 percent reduction from the OFL (σ = 0.72/P* = 0.45) because it is a category 2 stock. The ACL is set equal to the ABC because the stock is above its target biomass of B40%. 0.6 mt is deducted from the ACL to accommodate the incidental open access fishery, resulting in a fishery HG of 519.4 mt.
ˡ Black rockfish (Washington). A 2015 stock assessment estimated the stock to be at 43 percent of its unfished biomass in 2015. The OFL of 315 mt is projected in the 2015 stock assessment using an FMSY proxy of F50%. The ABC of 301 mt is a 4.4 percent reduction from the OFL (σ = 0.36/P* = 0.45) because it is a category 1 stock. The ACL is set equal to the ABC because the stock is above its target biomass of B40%. 18 mt is deducted from the ACL to accommodate the Tribal fishery, resulting in a fishery HG of 283 mt.
ᵐ Blackgill rockfish. Blackgill rockfish contributes to the harvest specifications for the Minor Slope Rockfish South complex. See footnote pp.
ⁿ Cabezon (California). A cabezon stock assessment was conducted in 2009. The cabezon spawning biomass in waters off California was estimated to be at 48.3 percent of its unfished biomass in 2009. The OFL of 156 mt is calculated using an FMSY proxy of F50%. The ABC of 149 mt is based on a 4.4 percent reduction from the OFL (σ = 0.36/P* = 0.45) because it is a category 1 stock. The ACL is set equal to the ABC because the stock is above its target biomass of B40%. 0.3 mt is deducted from the ACL to accommodate the incidental open access fishery (0.3 mt), resulting in a fishery HG of 148.7 mt.
ᵒ Cabezon (Oregon). A cabezon stock assessment was conducted in 2009. The cabezon spawning biomass in waters off Oregon was estimated to be at 52 percent of its unfished biomass in 2009. The OFL of 49 mt is calculated using an FMSY proxy of F45%. The ABC of 47 mt is based on a 4.4 percent reduction from the OFL (σ = 0.36/P* = 0.45) because it is a category 1 species. The ACL is set equal to the ABC because the stock is above its target biomass of B40%. There are no deductions from the ACL so the fishery HG is also equal to the ACL of 47 mt.
ᵖ California scorpionfish. A California scorpionfish assessment was conducted in 2005 and was estimated to be at 79.8 percent of its unfished biomass in 2005. The OFL of 278 mt is based on projections from a catch-only update of the 2005 assessment assuming actual catches since 2005 and using an FMSY harvest rate proxy of F50%. The ABC of 254 mt is an 8.7 percent reduction from the OFL (σ = 0.72/P* = 0.45) because it is a category 2 stock. The ACL is set at a constant catch amount of 150 mt. 2.2 mt is deducted from the ACL to accommodate the incidental open access fishery (2 mt) and research catch (0.2 mt), resulting in a fishery HG of 147.8 mt. An ACT of 111 mt is established.
q Canary rockfish. A stock assessment was conducted in 2015 and the stock was estimated to be at 55.5 percent of its unfished biomass coastwide in 2015. The coastwide OFL of 1,596 mt is projected in the 2015 assessment using an FMSY harvest rate proxy of F50%. The ABC of 1,526 mt is a 4.4 percent reduction from the OFL (σ = 0.36/P* = 0.45) as it is a category 1 stock. The ACL is set equal to the ABC because the stock is above its target biomass of B40%. 59.4 mt is deducted from the ACL to accommodate the Tribal fishery (50 mt), the incidental open access fishery (1.2 mt), EFP catch (1 mt) and research catch (7.2 mt) resulting in a fishery HG of 1,466.6 mt. Recreational HGs are: 50 mt (Washington); 75 mt (Oregon); and 135 mt (California).
ʳ Chilipepper. A coastwide update assessment of the chilipepper stock was conducted in 2015 and estimated to be at 64 percent of its unfished biomass in 2015. Chilipepper are managed with stock-specific harvest specifications south of 40°10′ N. lat. and within the Minor Shelf Rockfish complex north of 40°10′ N. lat. Projected OFLs are stratified north and south of 40°10′ N. lat. based on the average historical assessed area catch, which is 93 percent for the area south of 40°10′ N. lat. and 7 percent for the area north of 40°10′ N. lat. The OFL of 2,623 mt for the area south of 40°10′ N. lat. is projected in the 2015 assessment using an FMSY proxy of F50%. The ABC of 2,507 mt is a 4.4 percent reduction from the OFL (σ = 0.36/P* = 0.45) because it is a category 1 stock. The ACL is set equal to the ABC because the stock is above its target biomass of B40%. 45.9 mt is deducted from the ACL to accommodate the incidental open access fishery (5 mt), EFP fishing (30 mt), and research catch (10.9 mt), resulting in a fishery HG of 2,461.1 mt.
ˢ Dover sole. A 2011 Dover sole assessment estimated the stock to be at 83.7 percent of its unfished biomass in 2011. The OFL of 90,282 mt is based on an updated catch-only projection from the 2011 stock assessment assuming actual catches since 2011 and using an FMSY proxy of F30%. The ABC of 86,310 mt is a 4.4 percent reduction from the OFL (σ = 0.36/P* = 0.45) because it is a category 1 stock. The ACL could be set equal to the ABC because the stock is above its target biomass of B25%. However, the ACL of 50,000 mt is set at a level below the ABC and higher than the maximum historical landed catch. 1,593.7 mt is deducted from the ACL to accommodate the Tribal fishery (1,497 mt), the incidental open access fishery (54.8 mt), and research catch (41.9 mt), resulting in a fishery HG of 48,406.3 mt.
ᵗ English sole. A 2013 stock assessment was conducted, which estimated the stock to be at 88 percent of its unfished biomass in 2013. The OFL of 8,255 mt is projected in the 2013 assessment using an FMSY proxy of F30%. The ABC of 7,537 mt is an 8.7 percent reduction from the OFL (σ = 0.72/P* = 0.45) because it is a category 2 stock. The ACL is set equal to the ABC because the stock is above its target biomass of B25%. 212.8 mt is deducted from the ACL to accommodate the Tribal fishery (200 mt), the incidental open access fishery (7 mt) and research catch (5.8 mt), resulting in a fishery HG of 7,324.2 mt.
ᵘ Lingcod north. The 2009 lingcod assessment modeled two populations north and south of the California-Oregon border (42° N. lat.). Both populations were healthy with stock depletion estimated at 62 and 74 percent for the north and south, respectively in 2009.The OFL is based on an updated catch-only projection from the 2009 assessment assuming actual catches since 2009 and using an FMSY proxy of F45%. The OFL is apportioned by adding 48% of the OFL from California, resulting in an OFL of 3,310 mt for the area north of 40°10′ N. lat. The ABC of 3,110 mt is based on a 4.4 percent reduction (σ = 0.36/P* = 0.45) from the OFL contribution for the area north of 42° N. lat. because it is a category 1 stock, and an 8.7 percent reduction (σ = 0.72/P* = 0.45) from the OFL contribution for the area between 42° N. lat. and 40°10′ N. lat. because it is a category 2 stock. The ACL is set equal to the ABC because the stock is above its target biomass of B40%. 278.2 mt is deducted from the ACL for the Tribal fishery (250 mt), the incidental open access fishery (16 mt), EFP catch (0.5 mt) and research catch (11.7 mt), resulting in a fishery HG of 2,831.8 mt.
ᵛ Lingcod south. The 2009 lingcod assessment modeled two populations north and south of the California-Oregon border (42° N. lat.). Both populations were healthy with stock depletion estimated at 62 and 74 percent for the north and south, respectively in 2009. The OFL is based on an updated catch-only projection of the 2009 stock assessment assuming actual catches since 2009 and using an FMSY proxy of F45%. The OFL is apportioned by subtracting 48% of the California OFL, resulting in an OFL of 1,373 mt for the area south of 40°10′ N. lat. The ABC of 1,144 mt is based on a 16.7 percent reduction from the OFL (σ = 0.72/P* = 0.40) because it is a category 2 stock. The ACL is set equal to the ABC because the stock is above its target biomass of B40%. 9 mt is deducted from the ACL to accommodate the incidental open access fishery (6.9 mt), EFP fishing (1 mt), and research catch (1.1 mt), resulting in a fishery HG of 1,135 mt.
ʷ Longnose skate. A stock assessment was conducted in 2007 and the stock was estimated to be at 66 percent of its unfished biomass. The OFL of 2,526 mt is derived from the 2007 stock assessment using an FMSY proxy of F50%. The ABC of 2,415 mt is a 4.4 percent reduction from the OFL (σ = 0.36/P* = 0.45) because it is a category 1 stock. The ACL of 2,000 mt is a fixed harvest level that provides greater access to the stock and is less than the ABC. 147 mt is deducted from the ACL to accommodate the Tribal fishery (130 mt), incidental open access fishery (3.8 mt), and research catch (13.2 mt), resulting in a fishery HG of 1,853 mt.
ˣ Longspine thornyhead. A 2013 longspine thornyhead coastwide stock assessment estimated the stock to be at 75 percent of its unfished biomass in 2013. A coastwide OFL of 4,339 mt is projected in the 2013 stock assessment using an F50% FMSY proxy. The coastwide ABC of 3,614 mt is a 16.7 percent reduction from the OFL (σ = 0.72/P* = 0.40) because it is a category 2 stock. For the portion of the stock that is north of 34°27′ N. lat., the ACL is 2,747 mt, and is 76 percent of the coastwide ABC based on the average swept-area biomass estimates (2003-2012) from the NMFS NWFSC trawl survey. 46.8 mt is deducted from the ACL to accommodate the Tribal fishery (30 mt), the incidental open access fishery (3.3 mt), and research catch (13.5 mt), resulting in a fishery HG of 2,700.2 mt. For that portion of the stock south of 34°27′ N. lat. the ACL is 867 mt and is 24 percent of the coastwide ABC based on the average swept-area biomass estimates (2003-2012) from the NMFS NWFSC trawl survey. 3.2 mt is deducted from the ACL to accommodate the incidental open access fishery (1.8 mt), and research catch (1.4 mt), resulting in a fishery HG of 863.8 mt.
ʸ Pacific cod. The 3,200 mt OFL is based on the maximum level of historic landings. The ABC of 2,221 mt is a 30.6 percent reduction from the OFL (σ = 1.44/P* = 0.40) as it is a category 3 stock. The 1,600 mt ACL is the OFL reduced by 50 percent as a precautionary adjustment. 509 mt is deducted from the ACL to accommodate the Tribal fishery (500 mt), research catch (7 mt), and the incidental open access fishery (2 mt), resulting in a fishery HG of 1,091 mt.
ᶻ Pacific whiting. Pacific whiting. Pacific whiting are assessed annually. The final specifications will be determined consistent with the U.S.-Canada Pacific Whiting Agreement and will be announced after the Council's April 2018 meeting.
ᵃᵃ Petrale sole. A 2015 stock assessment update was conducted, which estimated the stock to be at 31 percent of its unfished biomass in 2015. The OFL of 3,152 mt is projected in the 2015 assessment using an FMSY proxy of F30%. The ABC of 3,013 mt is a 4.4 percent reduction from the OFL (σ = 0.36/P* = 0.45) because it is a category 1 stock. The ACL is set equal to the ABC because the stock is above its target biomass of B25%. 240.9 mt is deducted from the ACL to accommodate the Tribal fishery (220 mt), the incidental open access fishery (3.2 mt) and research catch (17.7 mt), resulting in a fishery HG of 2,772.1 mt.
ᵇᵇ Sablefish north. A coastwide sablefish stock assessment update was conducted in 2015. The coastwide sablefish biomass was estimated to be at 33 percent of its unfished biomass in 2015. The coastwide OFL of 8,329 mt is projected in the 2015 stock assessment using an FMSY proxy of F45%. The ABC of 7,604 mt is an 8.7 percent reduction from the OFL (σ = 0.36/P* = 0.40). The 40-10 adjustment is applied to the ABC to derive a coastwide ACL value because the stock is in the precautionary zone. This coastwide ACL value is not specified in regulations. The coastwide ACL value is apportioned north and south of 36° N. lat., using the 2003-2014 average estimated swept area biomass from the NMFS NWFSC trawl survey, with 84.9 percent apportioned north of 36° N. lat. and 15.1 percent apportioned south of 36° N. lat. The northern ACL is 6,299 mt and is reduced by 630 mt for the Tribal allocation (10 percent of the ACL north of 36° N. lat.). The 630 mt Tribal allocation is reduced by 1.5 percent to account for discard mortality. Detailed sablefish allocations are shown in Table 1c.
ᶜᶜ Sablefish south. The ACL for the area south of 36° N. lat. is 1,120 mt (15.1 percent of the calculated coastwide ACL value). 5 mt is deducted from the ACL to accommodate the incidental open access fishery (2 mt) and research catch (3 mt), resulting in a fishery HG of 1,115 mt.
ᵈᵈ Shortbelly rockfish. A non-quantitative shortbelly rockfish assessment was conducted in 2007. The spawning stock biomass of shortbelly rockfish was estimated to be 67 percent of its unfished biomass in 2005. The OFL of 6,950 mt is based on the estimated MSY in the 2007 stock assessment. The ABC of 5,789 mt is a 16.7 percent reduction of the OFL (σ = 0.72/P* = 0.40) because it is a category 2 stock. The 500 mt ACL is set to accommodate incidental catch when fishing for co-occurring healthy stocks and in recognition of the stock's importance as a forage species in the California Current ecosystem. 10.9 mt is deducted from the ACL to accommodate the incidental open access fishery (8.9 mt) and research catch (2 mt), resulting in a fishery HG of 489.1 mt.
ᵉᵉ Shortspine thornyhead. A 2013 coastwide shortspine thornyhead stock assessment estimated the stock to be at 74.2 percent of its unfished biomass in 2013. A coastwide OFL of 3,116 mt is projected in the 2013 stock assessment using an F50% FMSY proxy. The coastwide ABC of 2,596 mt is a 16.7 percent reduction from the OFL (σ = 0.72/P* = 0.40) because it is a category 2 stock. For the portion of the stock that is north of 34°27′ N. lat., the ACL is 1,698 mt. The northern ACL is 65.4 percent of the coastwide ABC based on the average swept-area biomass estimates (2003-2012) from the NMFS NWFSC trawl survey. 59 mt is deducted from the ACL to accommodate the Tribal fishery (50 mt), the incidental open access fishery (1.8 mt), and research catch (7.2 mt), resulting in a fishery HG of 1,639 mt for the area north of 34°27′ N. lat. For that portion of the stock south of 34°27′ N. lat. the ACL is 898 mt. The southern ACL is 34.6 percent of the coastwide ABC based on the average swept-area biomass estimates (2003-2012) from the NMFS NWFSC trawl survey. 42.3 mt is deducted from the ACL to accommodate the incidental open access fishery (41.3 mt) and research catch (1 mt), resulting in a fishery HG of 855.7 mt for the area south of 34°27′ N. lat.
ᶠᶠ Spiny dogfish. A coastwide spiny dogfish stock assessment was conducted in 2011. The coastwide spiny dogfish biomass was estimated to be at 63 percent of its unfished biomass in 2011. The coastwide OFL of 2,500 mt is derived from the 2011 assessment using an FMSY proxy of F50%. The coastwide ABC of 2,083 mt is a 16.7 percent reduction from the OFL (σ = 0.72/P* = 0.40) because it is a category 2 stock. The ACL is set equal to the ABC because the stock is above its target biomass of B40%. 338 mt is deducted from the ACL to accommodate the Tribal fishery (275 mt), the incidental open access fishery (49.5 mt), EFP catch (1 mt), and research catch (12.5 mt), resulting in a fishery HG of 1,745 mt.
ᵍᵍ Splitnose rockfish. A coastwide splitnose rockfish assessment was conducted in 2009 that estimated the stock to be at 66 percent of its unfished biomass in 2009. Splitnose rockfish in the north is managed in the Minor Slope Rockfish complex and with stock-specific harvest specifications south of 40°10′ N. lat. The coastwide OFL is projected in the 2009 assessment using an FMSY proxy of F50%. The coastwide OFL is apportioned north and south of 40°10′ N. lat. based on the average 1916-2008 assessed area catch resulting in 64.2 percent of the coastwide OFL apportioned south of 40°10′ N. lat., and 35.8 percent apportioned for the contribution of splitnose rockfish to the northern Minor Slope Rockfish complex. The southern OFL of 1,842 mt results from the apportionment described above. The southern ABC of 1,761 mt is a 4.4 percent reduction from the southern OFL (σ = 0.36/P* = 0.45) because it is a category 1 stock. The ACL is set equal to the ABC because the stock is estimated to be above its target biomass of B40%. 10.7 mt is deducted from the ACL to accommodate the incidental open access fishery (0.2 mt), research catch (9 mt) and EFP catch (1.5 mt), resulting in a fishery HG of 1,750.3 mt.
ʰʰ Starry flounder. The stock was assessed in 2005 and was estimated to be above 40 percent of its unfished biomass in 2005 (44 percent in Washington and Oregon, and 62 percent in California). The coastwide OFL of 1,847 mt is set equal to the 2016 OFL, which was derived from the 2005 assessment using an FMSY proxy of F30%. The ABC of 1,282 mt is a 30.6 percent reduction from the OFL (σ = 1.44/P* = 0.40) because it is a category 3 stock. The ACL is set equal to the ABC because the stock was estimated to be above its target biomass of B25% in 2018. 10.3 mt is deducted from the ACL to accommodate the Tribal fishery (2 mt), and the incidental open access fishery (8.3 mt), resulting in a fishery HG of 1,271.7 mt.
ⁱⁱ Widow rockfish. The widow rockfish stock was assessed in 2015 and was estimated to be at 75 percent of its unfished biomass in 2015. The OFL of 13,237 mt is projected in the 2015 stock assessment using the F50% FMSY proxy. The ABC of 12,655 mt is a 4.4 percent reduction from the OFL (σ = 0.36/P* = 0.45) because it is a category 1 stock. The ACL is set equal to the ABC because the stock is above its target biomass of B40%. 217.7 mt is deducted from the ACL to accommodate the Tribal fishery (200 mt), the incidental open access fishery (0.5 mt), EFP catch (9 mt) and research catch (8.2 mt), resulting in a fishery HG of 12,437.3 mt.
ʲʲ Yellowtail rockfish. A 2013 yellowtail rockfish stock assessment was conducted for the portion of the population north of 40°10′ N. lat. The estimated stock depletion is 67 percent of its unfished biomass in 2013. The OFL of 6,574 mt is projected in the 2013 stock assessment using an FMSY proxy of F50%. The ABC of 6,002 mt is an 8.7 percent reduction from the OFL (σ = 0.72/P* = 0.45) because it is a category 2 stock. The ACL is set equal to the ABC because the stock is above its target biomass of B40%. 1,030 mt is deducted from the ACL to accommodate the Tribal fishery (1,000 mt), the incidental open access fishery (3.4 mt), EFP catch (10 mt) and research catch (16.6 mt), resulting in a fishery HG of 4,972.1 mt.
ᵏᵏ Minor Nearshore Rockfish north. The OFL for Minor Nearshore Rockfish north of 40°10′ N. lat. of 119 mt is the sum of the OFL contributions for the component species managed in the complex. The ABCs for the minor rockfish complexes are based on a sigma value of 0.72 for category 2 stocks (blue/deacon rockfish in California, brown rockfish, China rockfish, and copper rockfish) and a sigma value of 1.44 for category 3 stocks (all others) with a P* of 0.45. The resulting ABC of 105 mt is the summed contribution of the ABCs for the component species. The ACL of 105 mt is the sum of contributing ABCs. 1.8 mt is deducted from the ACL to accommodate the Tribal fishery (1.5 mt), and the incidental open access fishery (0.3 mt), resulting in a fishery HG of 103.2 mt. Between 40°10′ N. lat. and 42° N. lat. the Minor Nearshore Rockfish complex north has a harvest guideline of 40.2 mt. Blue/deacon rockfish south of 42° N. lat. has a species-specific HG, described in footnote pp.
ˡˡ Minor Shelf Rockfish north. The OFL for Minor Shelf Rockfish north of 40°10′ N. lat. of 2,302 mt is the sum of the OFL contributions for the component species within the complex. The ABCs for the minor rockfish complexes are based on a sigma value of 0.36 for a category 1 stock (chilipepper), a sigma value of 0.72 for category 2 stocks (greenspotted rockfish between 40°10′ and 42° N. lat. and greenstriped rockfish) and a sigma value of 1.44 for category 3 stocks (all others) with a P* of 0.45. The resulting ABC of 2,048 mt is the summed contribution of the ABCs for the component species. The ACL of 2,047 mt is the sum of contributing ABCs of healthy assessed stocks and unassessed stocks, plus the ACL contribution of greenspotted rockfish in California where the 40-10 adjustment was applied to the ABC contribution for this stock because it is in the precautionary zone. 83.8 mt is deducted from the ACL to accommodate the Tribal fishery (30 mt), the incidental open access fishery (26 mt), EFP catch (3 mt), and research catch (24.8 mt), resulting in a fishery HG of 1,963.2 mt.
ᵐᵐ Minor Slope Rockfish north. The OFL for Minor Slope Rockfish north of 40°10′ N. lat. of 1,896 mt is the sum of the OFL contributions for the component species within the complex. The ABCs for the Minor Slope Rockfish complexes are based on a sigma value of 0.39 for aurora rockfish, a sigma value of 0.36 for the other category 1 stock (splitnose rockfish), a sigma value of 0.72 for category 2 stocks (rougheye rockfish, blackspotted rockfish, and sharpchin rockfish), and a sigma value of 1.44 for category 3 stocks (all others) with a P* of 0.45. A unique sigma of 0.39 was calculated for aurora rockfish because the variance in estimated spawning biomass was greater than the 0.36 used as a proxy for other category 1 stocks. The resulting ABC of 1,754 mt is the summed contribution of the ABCs for the component species. The ACL is set equal to the ABC because all the assessed component stocks (rougheye rockfish, blackspotted rockfish, sharpchin rockfish, and splitnose rockfish) are above the target biomass of B40%. 65.1 mt is deducted from the ACL to accommodate the Tribal fishery (36 mt), the incidental open access fishery (18.6 mt), EFP catch (1 mt), and research catch (9.5 mt), resulting in a fishery HG of 1,688.9 mt.
ⁿⁿ Minor Nearshore Rockfish south. The OFL for the Minor Nearshore Rockfish complex south of 40°10′ N. lat. of 1,344 mt is the sum of the OFL contributions for the component species within the complex. The ABC for the southern Minor Nearshore Rockfish complex is based on a sigma value of 0.72 for category 2 stocks (blue/deacon rockfish north of 34°27′ N. lat., brown rockfish, China rockfish, and copper rockfish) and a sigma value of 1.44 for category 3 stocks (all others) with a P* of 0.45. The resulting ABC of 1,180 mt is the summed contribution of the ABCs for the component species. The ACL of 1,179 mt is the sum of the contributing ABCs of healthy assessed stocks and unassessed stocks, plus the ACL contribution for China rockfish where the 40-10 adjustment was applied to the ABC contribution for this stock because it is in the precautionary zone. 4.1 mt is deducted from the ACL to accommodate the incidental open access fishery (1.4 mt) and research catch (2.7 mt), resulting in a fishery HG of 1,174.9 mt. Blue/deacon rockfish south of 42° N. lat. has a species-specific HG set equal to the 40-10-adjusted ACL for the portion of the stock north of 34°27′ N. lat. (250.3 mt) plus the ABC contribution for the unassessed portion of the stock south of 34°27′ N. lat. (60.8 mt). The California (i.e., south of 42° N. lat.) blue/deacon rockfish HG is 311.1 mt.
ᵒᵒ Minor Shelf Rockfish south. The OFL for the Minor Shelf Rockfish complex south of 40°10′ N. lat. of 1,918 mt is the sum of the OFL contributions for the component species within the complex. The ABC for the southern Minor Shelf Rockfish complex is based on a sigma value of 0.72 for category 2 stocks (i.e., greenspotted and greenstriped rockfish) and a sigma value of 1.44 for category 3 stocks (all others) with a P* of 0.45. The resulting ABC of 1,625 mt is the summed contribution of the ABCs for the component species. The ACL of 1,624 mt is the sum of contributing ABCs of healthy assessed stocks and unassessed stocks, plus the ACL contribution of greenspotted rockfish in California where the 40-10 adjustment was applied to the ABC contribution for this stock because it is in the precautionary zone. 47.2 mt is deducted from the ACL to accommodate the incidental open access fishery (8.6 mt), EFP catch (30 mt), and research catch (8.6 mt), resulting in a fishery HG of 1,576.8 mt.
ᵖᵖ Minor Slope Rockfish south. The OFL of 829 mt is the sum of the OFL contributions for the component species within the complex. The ABC for the southern Minor Slope Rockfish complex is based on a sigma value of 0.39 for aurora rockfish, a sigma value of 0.72 for category 2 stocks (blackgill rockfish, rougheye rockfish, blackspotted rockfish, and sharpchin rockfish) and a sigma value of 1.44 for category 3 stocks (all others) with a P* of 0.45. A unique sigma of 0.39 was calculated for aurora rockfish because the variance in estimated biomass was greater than the 0.36 used as a proxy for other category 1 stocks. The resulting ABC of 719 mt is the summed contribution of the ABCs for the component species. The ACL of 709 mt is the sum of the contributing ABCs of healthy assessed stocks and unassessed stocks, plus the ACL contribution of blackgill rockfish where the 40-10 adjustment was applied to the ABC contribution for this stock because it is in the precautionary zone. 20.2 mt is deducted from the ACL to accommodate the incidental open access fishery (17.2 mt), EFP catch (1 mt), and research catch (2 mt), resulting in a fishery HG of 688.8 mt. Blackgill rockfish has a stock-specific HG for the entire groundfish fishery south of 40°10′ N lat. set equal to the species' contribution to the 40-10-adjusted ACL. Harvest of blackgill rockfish in all groundfish fisheries counts against this HG of 122.4 mt. Nontrawl fisheries are subject to a blackgill rockfish HG of 45.3 mt.
qq Other Flatfish. The Other Flatfish complex is comprised of flatfish species managed in the PCGFMP that are not managed with species-specific OFLs/ABCs/ACLs. Most of the species in the Other Flatfish complex are unassessed and include: Butter sole, curlfin sole, flathead sole, Pacific sanddab, rock sole, sand sole, and rex sole. The Other Flatfish OFL of 9,690 mt is based on the sum of the OFL contributions of the component stocks. The ABC of 7,281 mt is based on a sigma value of 0.72 for a category 2 stock (rex sole) and a sigma value of 1.44 for category 3 stocks (all others) with a P* of 0.40. The ACL is set equal to the ABC. The ACL is set equal to the ABC because all of the assessed stocks (i.e., Pacific sanddabs and rex sole) were above their target biomass of B25%. 204 mt is deducted from the ACL to accommodate the Tribal fishery (60 mt), the incidental open access fishery 125 mt), and research catch (19 mt), resulting in a fishery HG of 7,077 mt.
ʳʳ Other Fish. The Other Fish complex is comprised of kelp greenling coastwide, cabezon off Washington, and leopard shark coastwide. The 2015 assessment for the kelp greenling stock off of Oregon projected an estimated depletion of 80 percent. All other stocks are unassessed. The OFL of 501 mt is the sum of the OFL contributions for kelp greenling coastwide, cabezon off Washington, and leopard shark coastwide. The ABC for the Other Fish complex is based on a sigma value of 0.44 for kelp greenling off Oregon and a sigma value of 1.44 for category 3 stocks (all others) with a P* of 0.45. A unique sigma of 0.44 was calculated for kelp greenling off Oregon because the variance in estimated spawning biomass was greater than the 0.36 sigma used as a proxy for other category 1 stocks. The resulting ABC of 441 mt is the summed contribution of the ABCs for the component species. The ACL is set equal to the ABC because all of the assessed stocks (kelp greenling off Oregon) were above their target biomass of B40%. There are no deductions from the ACL so the fishery HG is equal to the ACL of 441 mt.

Table 2b to Part 660, Subpart C—2018, and Beyond, Allocations by Species or Species Group
[Weight in metric tons]
Species | Area | Fishery HG or ACT | Trawl: Percent | Trawl: Mt | Non-trawl: Percent | Non-trawl: Mt
BOCACCIO ᵃ | S. of 40°10′ N. lat | 725.6 | 39 | 283.3 | 61 | 442.3
COWCOD a b | S. of 40°10′ N. lat | 4.0 | 36 | 1.4 | 64 | 2.6
DARKBLOTCHED ROCKFISH ᶜ | Coastwide | 575.8 | 95 | 547.0 | 5 | 28.8
PACIFIC OCEAN PERCH ᵈ | N. of 40°10′ N. lat | 231.6 | 95 | 220.0 | 5 | 11.6
YELLOWEYE ROCKFISH ᵃ | Coastwide | 14.0 | NA | 1.1 | NA | 12.9
Arrowtooth flounder | Coastwide | 11,644.9 | 95 | 11,062.6 | 5 | 582.2
Big skate ᵃ | Coastwide | 436.6 | 95 | 414.8 | 5 | 21.8
Canary rockfish a e | Coastwide | 1,466.6 | NA | 1,060.1 | NA | 406.5
Chilipepper | S. of 40°10′ N. lat | 2,461.1 | 75 | 1,845.8 | 25 | 615.3
Dover sole | Coastwide | 48,406.3 | 95 | 45,986.0 | 5 | 2,420.3
English sole | Coastwide | 7,324.3 | 95 | 6,958.0 | 5 | 366.2
Lingcod | N. of 40°10′ N. lat | 2,831.8 | 45 | 1,274.3 | 55 | 1,557.5
Lingcod | S. of 40°10′ N. lat | 1,135.0 | 45 | 510.8 | 55 | 624.3
Longnose skate ᵃ | Coastwide | 1,853.0 | 90 | 1,667.7 | 10 | 185.3
Longspine thornyhead | N. of 34°27′ N. lat | 2,700.2 | 95 | 2,565.2 | 5 | 135.0
Pacific cod | Coastwide | 1,091.0 | 95 | 1,036.4 | 5 | 54.5
Pacific whiting | Coastwide | TBD | 100 | TBD | 0 | TBD
Petrale sole | Coastwide | 2,772.1 | 95 | 2,633.5 | 5 | 138.6
Sablefish | N. of 36° N. lat | NA | See Table 2c
Sablefish | S. of 36° N. lat | 1,115.0 | 42 | 468.3 | 58 | 646.7
Shortspine thornyhead | N. of 34°27′ N. lat | 1,639.0 | 95 | 1,557.0 | 5 | 81.9
Shortspine thornyhead | S. of 34°27′ N. lat | 855.7 | NA | 50.0 | NA | 805.7
Splitnose rockfish | S. of 40°10′ N. lat | 1,750.3 | 95 | 1,662.8 | 5 | 87.5
Starry flounder | Coastwide | 1,271.7 | 50 | 635.9 | 50 | 635.9
Widow rockfish ᶠ | Coastwide | 12,437.3 | 91 | 11,317.9 | 9 | 1,119.4
Yellowtail rockfish | N. of 40°10′ N. lat | 4,972.1 | 88 | 4,375.4 | 12 | 596.6
Minor Shelf Rockfish ᵃ | N. of 40°10′ N. lat | 1,963.2 | 60 | 1,181.8 | 40 | 781.4
Minor Slope Rockfish | N. of 40°10′ N. lat | 1,688.9 | 81 | 1,368.0 | 19 | 320.9
Minor Shelf Rockfish ᵃ | S. of 40°10′ N. lat | 1,576.8 | 12 | 192.37 | 88 | 1,384.4
Minor Slope Rockfish | S. of 40°10′ N. lat | 688.8 | 63 | 433.9 | 37 | 254.9
Other Flatfish | Coastwide | 7,077.0 | 90 | 6,369.3 | 10 | 707.7
ᵃ Allocations decided through the biennial specification process.
ᵇ The cowcod fishery harvest guideline is further reduced to an ACT of 4.0 mt.
ᶜ Consistent with regulations at § 660.55(c), 9 percent (49.2 mt) of the total trawl allocation for darkblotched rockfish is allocated to the Pacific whiting fishery, as follows: 20.7 mt for the Shorebased IFQ Program, 11.8 mt for the MS sector, and 16.7 mt for the C/P sector. The tonnage calculated here for the Pacific whiting IFQ fishery contributes to the total shorebased trawl allocation, which is found at § 660.140(d)(1)(ii)(D).
ᵈ Consistent with regulations at § 660.55(c), 17 percent (37.4 mt) of the total trawl allocation for POP is allocated to the Pacific whiting fishery, as follows: 15.7 mt for the Shorebased IFQ Program, 9.0 mt for the MS sector, and 12.7 mt for the C/P sector. The tonnage calculated here for the Pacific whiting IFQ fishery contributes to the total shorebased trawl allocation, which is found at § 660.140(d)(1)(ii)(D).
ᵉ Canary rockfish is allocated approximately 72 percent to trawl and 28 percent to non-trawl. 46 mt of the total trawl allocation of canary rockfish is allocated to the MS and C/P sectors, as follows: 30 mt for the MS sector, and 16 mt for the C/P sector.
ᶠ Consistent with regulations at § 660.55(c), 10 percent (1,131.8 mt) of the total trawl allocation for widow rockfish is allocated to the Pacific whiting fishery, as follows: 475.4 mt for the Shorebased IFQ Program, 271.6 mt for the MS sector, and 348.8 mt for the C/P sector. The tonnage calculated here for the Pacific whiting IFQ fishery contributes to the total shorebased trawl allocation, which is found at § 660.140(d)(1)(ii)(D).

Table 2c to Part 660, Subpart C—Sablefish North of 36° N. Lat. Allocations, 2018 and Beyond
Year | ACL | Set-asides: Tribal ᵃ | Set-asides: Research | Recreational estimate | EFP | Commercial HG | Limited entry HG: Percent | Limited entry HG: mt | Open access HG: Percent | Open access HG: mt ᵇ
2018 | 6,299 | 630 | 26 | 6.1 | 1 | 5,636 | 90.6 | 5,106 | 9.4 | 530
|  | Limited entry trawl ᶜ |  |  |  | Limited entry fixed gear ᵈ
Year | LE All | All trawl | At-sea whiting | Shorebased IFQ |  | All FG | Primary |  | DTL
2018 | 5,106 | 2,961 | 50 | 2,911 |  | 2,145 | 1,823 |  | 322
ᵃ The tribal allocation is further reduced by 1.5 percent for discard mortality resulting in 620 mt in 2018.
ᵇ The open access HG is taken by the incidental OA fishery and the directed OA fishery.
ᶜ The trawl allocation is 58 percent of the limited entry HG.
ᵈ The limited entry fixed gear allocation is 42 percent of the limited entry HG.

Table 2d. to Part 660, Subpart C—At-Sea Whiting Fishery Annual Set-Asides, 2018 and Beyond
Species or species complex | Area | Set aside (mt)
BOCACCIO | S. of 40°10 N. lat | NA
COWCOD | S. of 40°10 N. lat | NA
DARK BLOTCHED ROCKFISH ᵃ | Coastwide | Allocation.
PACIFIC OCEAN PERCH ᵃ | N. of 40°10 N. lat | Allocation.
YELLOWEYE ROCKFISH | Coastwide | 0
Arrowtooth flounder | Coastwide | 70
Canary rockfish ᵃ | Coastwide | Allocation.
Chilipepper | S. of 40°10 N. lat | NA
Dover sole | Coastwide | 5
English sole | Coastwide | 5
Lingcod | N. of 40°10 N. lat | 15
Lingcod | S. of 40°10 N. lat | NA
Longnose skate | Coastwide | 5
Longspine thornyhead | N. of 34°27 N. lat | 5
Longspine thornyhead | S. of 34°27 N. lat | NA
Minor Nearshore Rockfish | N. of 40°10 N. lat | NA
Minor Nearshore Rockfish | S. of 40°10 N. lat | NA
Minor Shelf Rockfish | N. of 40°10 N. lat | 35
Minor Shelf Rockfish | S. of 40°10 N. lat | NA
Minor Slope Rockfish | N. of 40°10 N. lat | 100
Minor Slope Rockfish | S. of 40°10 N. lat | NA
Other Fish | Coastwide | NA
Other Flatfish | Coastwide | 20
Pacific cod | Coastwide | 5
Pacific Halibut ᵇ | Coastwide | 10
Pacific Whiting | Coastwide | Allocation.
Petrale sole | Coastwide | 5
Sablefish | N. of 36°10 N. lat | 50
Sablefish | S. of 36°10 N. lat | NA
Shortspine thornyhead | N. of 34°27 N. lat | 20
Shortspine thornyhead | S. of 34°27 N. lat | NA
Starry flounder | Coastwide | 5
Widow Rockfish ᵃ | Coastwide | Allocation.
Yellowtail rockfish | N. of 40°10 N. lat | 300
ᵃ See Table 1.b., to subpart C, for the at-sea whiting allocations for these species.
ᵇ As stated in § 660.55(m), the Pacific halibut set-aside is 10 mt, to accommodate bycatch in the at-sea Pacific whiting fisheries and in the shorebased trawl sector south of 40°10 N. lat. (estimated to be approximately 5 mt each).

* * * * *

12. In § 660.130, paragraph (d)(1)(i) is revised to read as follows:

§ 660.130 Trawl fishery-management measures.

* * * * *

(d) * * *

(1) * * *

(i) Coastwide. Widow rockfish, canary rockfish, darkblotched rockfish, yelloweye rockfish, shortbelly rockfish, black rockfish, blue/deacon rockfish, minor nearshore rockfish, minor shelf rockfish, minor slope rockfish, shortraker rockfish, rougheye/blackspotted rockfish, shortspine and longspine thornyhead, Dover sole, arrowtooth flounder, petrale sole, starry flounder, English sole, other flatfish, lingcod, sablefish, Pacific cod, spiny dogfish, other fish, longnose skate, Pacific whiting, and big skate.

* * * * *

13. In § 660.140, paragraphs (d)(1)(ii)(D) and (e)(4)(i) are revised to read as follows:

§ 660.140 Shorebased IFQ Program.

* * * * *

(d) * * *

(1) * * *

(ii) * * *

(D) For the trawl fishery, NMFS will issue QP based on the following shorebased trawl allocations:

IFQ species | Area | 2017 Shorebased trawl allocation (mt) | 2018 Shorebased trawl allocation (mt)
Arrowtooth flounder | Coastwide | 11,050.6 | 10,992.6
BOCACCIO | South of 40°10′ N. lat | 302.4 | 283.3
Canary rockfish | Coastwide | 1,014.1 | 1,014.1
Chilipepper | South of 40°10′ N. lat | 1,920.8 | 1,845.8
COWCOD | South of 40°10′ N. lat | 1.40 | 1.40
DARKBLOTCHED ROCKFISH | Coastwide | 507.6 | 518.4
Dover sole | Coastwide | 45,981.0 | 45,981.0
English sole | Coastwide | 9,258.6 | 6,953.0
Lingcod | North of 40°10′ N. lat | 1,359.7 | 1,259.32
Lingcod | South of 40°10′ N. lat | 558.9 | 510.75
Longspine thornyhead | North of 34°27′ N. lat | 2,699.8 | 2,560.2
Minor Shelf Rockfish complex | North of 40°10′ N. lat | 1,148.1 | 1,146.8
Minor Shelf Rockfish complex | South of 40°10′ N. lat | 192.2 | 192.4
Minor Slope Rockfish complex | North of 40°10′ N. lat | 1,268.8 | 1,268.0
Minor Slope Rockfish complex | South of 40°10′ N. lat | 432.7 | 433.9
Other Flatfish complex | Coastwide | 7,455.4 | 6,349.3
Pacific cod | Coastwide | 1,031.4 | 1,031.4
PACIFIC OCEAN PERCH | North of 40°10′ N. lat | 198.3 | 198.3
Pacific whiting | Coastwide |  |
Petrale sole | Coastwide | 2,745.3 | 2,628.5
Sablefish | North of 36° N. lat | 2,789.6 | 2,912.1
Sablefish | South of 36° N. lat | 449.4 | 468.3
Shortspine thornyhead | North of 34°27′ N. lat | 1551.3 | 1,537.0
Shortspine thornyhead | South of 34°27′ N. lat | 50.0 | 50.0
Splitnose rockfish | South of 40°10′ N. lat | 1661.8 | 1,662.8
Starry flounder | Coastwide | 630.9 | 630.9
Widow rockfish | Coastwide | 11,392.7 | 10,661.5
YELLOWEYE ROCKFISH | Coastwide | 1.10 | 1.10
Yellowtail rockfish | North of 40°10′ N. lat | 4,246.1 | 4,075.4

* * * * *

(e) * * *

(4) * * *

(i) Vessel limits. For each IFQ species or species group specified in this paragraph, vessel accounts may not have QP or IBQ pounds in excess of the QP vessel limit (annual limit) in any year, and, for species covered by unused QP vessel limits (daily limit), may not have QP or IBQ pounds in excess of the unused QP vessel limit at any time. The QP vessel limit (annual limit) is calculated as all QPs transferred in minus all QPs transferred out of the vessel account. The unused QP vessel limits (daily limit) is calculated as unused available QPs plus any pending outgoing transfer of QPs. Vessel limits are as follows:

Species category | QP vessel limit (annual limit) (in percent) | Unused QP vessel limit (daily limit) (in percent)
Arrowtooth flounder | 20 |
Bocaccio S. of 40°10′ N. lat | 15.4 | 13.2
Canary rockfish | 10 |
Chilipepper S. of 40°10′ N. lat | 15 |
Cowcod S. of 40°10′ N. lat | 17.7 | 17.7
Darkblotched rockfish | 6.8 | 4.5
Dover sole | 3.9 |
English sole | 7.5 |
Lingcod:
N. of 40°10′ N. lat | 5.3 |
S. of 40°10′ N. lat | 13.3 |
Longspine thornyhead:
N. of 34°27′ N. lat | 9 |
Minor Shelf Rockfish complex:
N. of 40°10′ N. lat | 7.5 |
S. of 40°10′ N. lat | 13.5 |
Minor Slope Rockfish complex:
N. of 40°10′ N. lat | 7.5 |
S. of 40°10′ N. lat | 9 |
Other flatfish complex | 15 |
Pacific cod | 20 |
Pacific halibut (IBQ) N. of 40°10′ N. lat | 14.4 | 5.4
Pacific ocean perch N. of 40°10′ N. lat | 6 | 4
Pacific whiting (shoreside) | 15 |
Petrale sole | 4.5 |
Sablefish:
N. of 36° N. lat. (Monterey north) | 4.5 |
S. of 36° N. lat. (Conception area) | 15 |
Shortspine thornyhead:
N. of 34°27′ N. lat | 9 |
S. of 34°27′ N. lat | 9 |
Splitnose rockfish S. of 40°10′ N. lat | 15 |
Starry flounder | 20 |
Widow rockfish | 8.5 | 5.1
Yelloweye rockfish | 11.4 | 5.7
Yellowtail rockfish N. of 40°10′ N. lat | 7.5 |
Non-whiting groundfish species | 3.2 |

* * * * *

14. Tables 1 (North) and 1 (South) to part 660, subpart D, are revised to read as follows:

Table 1 (North) to Part 660, Subpart D—Limited Entry Trawl Rockfish Conservation Areas and Landing Allowances for Non-IFQ Species and Pacific Whiting North of 40°10′ N. Lat.

Table 1 (South) to Part 660, Subpart D—Limited Entry Trawl Rockfish Conservation Areas and Landing Allowances for Non-IFQ Species and Pacific Whiting South of 40°10′ N. Lat.

15. In § 660.230, paragraph (c)(2)(i) is revised to read as follows:

§ 660.230 Fixed gear fishery-management measures.

* * * * *

(c) * * *

(2) * * *

(i) Coastwide—widow rockfish, canary rockfish, darkblotched rockfish, yelloweye rockfish, shortbelly rockfish, black rockfish, blue/deacon rockfish, minor nearshore rockfish, minor shelf rockfish, minor slope rockfish, shortraker rockfish, rougheye/blackspotted rockfish, shortspine and longspine thornyhead, Dover sole, arrowtooth flounder, petrale sole, starry flounder, English sole, other flatfish, lingcod, sablefish, Pacific cod, spiny dogfish, other fish, longnose skate, big skate, and Pacific whiting;

* * * * *

16. In § 660.231, paragraph (b)(3)(i) is revised to read as follows:

§ 660.231 Limited entry fixed gear sablefish primary fishery.

* * * * *

(b) * * * *

(3) * * *

(i) A vessel participating in the primary season will be constrained by the sablefish cumulative limit associated with each of the permits registered for use with that vessel. During the primary season, each vessel authorized to fish in that season under paragraph (a) of this section may take, retain, possess, and land sablefish, up to the cumulative limits for each of the permits registered for use with that vessel (i.e., stacked permits). If multiple limited entry permits with sablefish endorsements are registered for use with a single vessel, that vessel may land up to the total of all cumulative limits announced in this paragraph for the tiers for those permits, except as limited by paragraph (b)(3)(ii) of this section. Up to 3 permits may be registered for use with a single vessel during the primary season; thus, a single vessel may not take and retain, possess or land more than 3 primary season sablefish cumulative limits in any one year. A vessel registered for use with multiple limited entry permits is subject to per vessel limits for species other than sablefish, and to per vessel limits when participating in the daily trip limit fishery for sablefish under § 660.232. In 2017, the following annual limits are in effect: Tier 1 at 51,947 lb (23,562 kg), Tier 2 at 23,612 lb (10,710 kg), and Tier 3 at 13,493 lb (6,120 kg). In 2018 and beyond, the following annual limits are in effect: Tier 1 at 54,179 lb (24,575 kg), Tier 2 at 24,627 lb (11,170 kg), and Tier 3 at 14,072 lb (6,382 kg).

* * * * *

17. Tables 2 (North) and 2 (South) to part 660, subpart E, are revised to read as follows:

Table 2 (North) to Part 660, Subpart E—Non-Trawl Rockfish Conservation Areas and Trip Limits for Limited Entry Fixed Gear North of 40°10′ N. Lat.

18. In § 660.330, paragraph (c)(2)(i) is revised to read as follows:

§ 660.330 Open access fishery—management measures.

* * * * *

(c) * * *

(2) * * *

(i) Coastwide—widow rockfish, canary rockfish, darkblotched rockfish, yelloweye rockfish, shortbelly rockfish, black rockfish, blue/deacon rockfish, minor nearshore rockfish, minor shelf rockfish, minor slope rockfish, shortraker rockfish, rougheye/blackspotted rockfish, shortspine and longspine thornyhead, Dover sole, arrowtooth flounder, petrale sole, starry flounder, English sole, other flatfish, lingcod, sablefish, Pacific cod, spiny dogfish, longnose skate, other fish, Pacific whiting, big skate, and Pacific sanddabs;

* * * * *

19. Tables 3 (North) and 3 (South) to part 660, subpart F, are revised to read as follows:

Table 3 (North) to Part 660, Subpart F—Non-Trawl Rockfish Conservation Areas and Trip Limits for Open Access Gears North of 40°10′ N. Lat.

Table 3 (South) to Part 660, Subpart F—Non-Trawl Rockfish Conservation Areas and Trip Limits for Open Access Gears South of 40°10′ N. Lat.

20. In § 660.360, paragraphs (c)(1) introductory text, (c)(1)(i)(D)(3), (c)(1)(ii), (c)(1)(iv)(A) and (B), (c)(2)(i)(A) and (B), (c)(2)(iii)(A) and (D), (c)(3) introductory text, (c)(3)(i)(A), (c)(3)(ii)(A)(1) through (4), (c)(3)(ii)(B), (c)(3)(iii)(A)(1) through (5), (c)(3)(iii)(B), (c)(3)(iv), and (c)(3)(v)(A)(1) are revised to read as follows:

§ 660.360 Recreational fishery—management measures.

* * * * *

(c) * * *

(1) Washington. For each person engaged in recreational fishing off the coast of Washington, the groundfish bag limit is 12 groundfish per day, including rockfish, cabezon and lingcod. Within the groundfish bag limit, there are sub-limits for rockfish, lingcod, and cabezon outlined in paragraph (c)(1)(i)(D) of this section. The recreational groundfish fishery will open the second Saturday in March through the third Saturday in October for all species in all areas except lingcod in Marine Area 4 as described in paragraph (c)(1)(iv) of this section. In the Pacific halibut fisheries, retention of groundfish is governed in part by annual management measures for Pacific halibut fisheries, which are published in the Federal Register. The following seasons, closed areas, sub-limits and size limits apply:

(i) * * *

(D) * * *

(3) Between Leadbetter Point (46°38.17′ N. lat.) and the Columbia River (Marine Area 1), when Pacific halibut are onboard the vessel, no groundfish may be taken and retained, possessed or landed, except sablefish, flatfish species (except halibut), and Pacific cod from May 1 through September 30. Except that taking, retaining, possessing or landing incidental halibut with groundfish on board is allowed in the nearshore area on days not open to all-depth Pacific halibut fisheries in the area shoreward of the boundary line approximating the 30 fathom (55 m) depth contour extending from Leadbetter Point, WA (46°38.17′ N. lat., 124°15.88′ W. long.) to the Columbia River (46°16.00′ N. lat., 124°15.88′ W. long.) and from there, connecting to the boundary line approximating the 40 fathom (73 m) depth contour in Oregon. Nearshore season days are established in the annual management measures for Pacific halibut fisheries, which are published in the Federal Register and are announced on the NMFS halibut hotline, 1-800-662-9825. Between Leadbetter Point (46°38.17′ N. lat. 124°21.00′ W. long) and 46° 33.00′ N. Lat. 124°21.00′ W. Long., recreational fishing for lingcod is prohibited year round seaward of a straight line connecting all of the following points in the order stated: 46°38.17′ N. lat., 124°21.00′ W. long.; and 46° 33.00′ N. Lat., 124°21.00′ W. long.

(ii) Rockfish. In areas of the EEZ seaward of Washington that are open to recreational groundfish fishing, there is a 10 rockfish per day bag limit. In Marine Areas 1 and 2 there is a 1 fish sub-bag limit per day for canary rockfish. Taking and retaining canary rockfish is prohibited in Marine Areas 3 and 4. Taking and retaining yelloweye rockfish is prohibited in all Marine areas.

* * * * *

(iv) * * *

(A) Between the U.S./Canada border and 48°10′ N. lat. (Cape Alava) (Washington Marine Area 4), recreational fishing for lingcod is open, for 2017 and 2018, from April 16 through October 15. Lingcod may be no smaller than 22 inches (61 cm) total length.

(B) Between 48°10′ N. lat. (Cape Alava) and 46°16′ N. lat. (Columbia River) (Washington Marine Areas 1-3), recreational fishing for lingcod is open for 2017 from March 11 through October 21, and for 2018 from March 10 through October 20. Lingcod may be no smaller than 22 inches (56 cm) total length.

(2) * * *

(i) * * *

(A) Stonewall Bank yelloweye rockfish conservation area. Recreational fishing for groundfish and halibut is prohibited within the Stonewall Bank YRCA. It is unlawful for recreational fishing vessels to take and retain, possess, or land groundfish taken with recreational gear within the Stonewall Bank YRCA. A vessel fishing in the Stonewall Bank YRCA may not be in possession of any groundfish. Recreational vessels may transit through the Stonewall Bank YRCA with or without groundfish on board. The Stonewall Bank YRCA, and two possible expansions that are available through inseason adjustment, are defined by latitude and longitude coordinates specified at § 660.70, subpart C.

(B) Recreational rockfish conservation area. Fishing for groundfish with recreational gear is prohibited within the recreational RCA, a type of closed area or GCA. It is unlawful to take and retain, possess, or land groundfish taken with recreational gear within the recreational RCA. A vessel fishing in the recreational RCA may not be in possession of any groundfish. [For example, if a vessel fishes in the recreational salmon fishery within the RCA, the vessel cannot be in possession of groundfish while in the RCA. The vessel may, however, on the same trip fish for and retain groundfish shoreward of the RCA on the return trip to port.] Off Oregon, from April 1 through September 30, recreational fishing for groundfish is prohibited seaward of a recreational RCA boundary line approximating the 40 fm (73 m) depth contour, except that fishing for flatfish (other than Pacific halibut) is allowed seaward of the 40 fm (73 m) depth contour when recreational fishing for groundfish is permitted. Coordinates for the boundary line approximating the 40 fm (73 m) depth contour are listed at § 660.71.

* * * * *

(iii) * * *

(A) Marine fish. The bag limit is 10 marine fish per day, which includes rockfish, kelp greenling, cabezon and other groundfish species. The bag limit of marine fish excludes Pacific halibut, salmonids, tuna, perch species, sturgeon, sanddabs, flatfish, lingcod, striped bass, hybrid bass, offshore pelagic species and baitfish (herring, smelt, anchovies and sardines). The minimum size for cabezon retained in the Oregon recreational fishery is 16 in (41 cm) total length.

* * * * *

(D) In the Pacific halibut fisheries. Retention of groundfish is governed in part by annual management measures for Pacific halibut fisheries, which are published in the Federal Register. Between the Columbia River and Humbug Mountain, during days open to the “all-depth” sport halibut fisheries, when Pacific halibut are onboard the vessel, no groundfish may be taken and retained, possessed or landed, except sablefish, Pacific cod, and other species of flatfish (sole, flounder, sanddab). “All-depth” season days are established in the annual management measures for Pacific halibut fisheries, which are published in the Federal Register and are announced on the NMFS Pacific halibut hotline, 1-800-662-9825.

* * * * *

(3) California. Seaward of California, California law provides that, in times and areas when the recreational fishery is open, there is a 20 fish bag limit for all species of finfish, within which no more than 10 fish of any one species may be taken or possessed by any one person. [Note: There are some exceptions to this rule. The following groundfish species are not subject to a bag limit: Petrale sole, Pacific sanddab and starry flounder.] For groundfish species not specifically mentioned in this paragraph, fishers are subject to the overall 20-fish bag limit for all species of finfish and the depth restrictions at paragraph (c)(3)(i) of this section. Recreational spearfishing for all federally-managed groundfish, is exempt from closed areas and seasons, consistent with Title 14 of the California Code of Regulations. This exemption applies only to recreational vessels and divers provided no other fishing gear, except spearfishing gear, is on board the vessel. California state law may provide regulations similar to Federal regulations for the following state-managed species: Ocean whitefish, California sheephead, and all greenlings of the genus Hexagrammos. Kelp greenling is the only federally-managed greenling. Retention of cowcod, yelloweye rockfish, and bronzespotted rockfish, is prohibited in the recreational fishery seaward of California all year in all areas. Retention of species or species groups for which the season is closed is prohibited in the recreational fishery seaward of California all year in all areas, unless otherwise authorized in this section. For each person engaged in recreational fishing in the EEZ seaward of California, the following closed areas, seasons, bag limits, and size limits apply:

(i) * * *

(A) Recreational rockfish conservation areas. The recreational RCAs are areas that are closed to recreational fishing for groundfish. Fishing for groundfish with recreational gear is prohibited within the recreational RCA, except that recreational fishing for “other flatfish,” petrale sole, and starry flounder is permitted within the recreational RCA as specified in paragraph (c)(3)(iv) of this section. It is unlawful to take and retain, possess, or land groundfish taken with recreational gear within the recreational RCA, unless otherwise authorized in this section. A vessel fishing in the recreational RCA may not be in possession of any species prohibited by the restrictions that apply within the recreational RCA. [For example, if a vessel fishes in the recreational salmon fishery within the RCA, the vessel cannot be in possession of rockfish while in the RCA. The vessel may, however, on the same trip fish for and retain rockfish shoreward of the RCA on the return trip to port.] If the season is closed for a species or species group, fishing for that species or species group is prohibited both within the recreational RCA and shoreward of the recreational RCA, unless otherwise authorized in this section.

(1) Between 42° N. lat. (California/Oregon border) and 40°10′ N. lat. (Northern Management Area), recreational fishing for all groundfish (except petrale sole, starry flounder, and “other flatfish” as specified in paragraph (c)(3)(iv) of this section) is prohibited seaward of the 30 fm (55 m) depth contour along the mainland coast and along islands and offshore seamounts from May 1 through October 31 (shoreward of 30 fm is open); is open at all depths from November 1 through December 31; and is closed entirely from January 1 through April 30.

(2) Between 40°10′ N. lat. and 38°57.50′ N. lat. (Mendocino Management Area), recreational fishing for all groundfish (except petrale sole, starry flounder, and “other flatfish” as specified in paragraph (c)(3)(iv) of this section) is prohibited seaward of the 20 fm (37 m) depth contour along the mainland coast and along islands and offshore seamounts from May 1 through October 31 (shoreward of 20 fm is open), is open at all depths from November 1 through December 31, and is closed entirely from January 1 through April 30.

(3) Between 38°57.50′ N. lat. and 37°11′ N. lat. (San Francisco Management Area), recreational fishing for all groundfish (except petrale sole, starry flounder, and “other flatfish” as specified in paragraph (c)(3)(iv) of this section) is prohibited seaward of the boundary line approximating the 40 fm (73 m) depth contour along the mainland coast and along islands and offshore seamounts from April 15 through December 31; and is closed entirely from January 1 through April 14. Closures around Cordell Banks (see paragraph (c)(3)(i)(C) of this section) also apply in this area. Coordinates for the boundary line approximating the 40 fm (73 m) depth contour are listed in § 660.71.

(4) Between 37°11′ N. lat. and 34°27′ N. lat. (Central Management Area), recreational fishing for all groundfish (except petrale sole, starry flounder, and “other flatfish” as specified in paragraph (c)(3)(iv) of this section) is prohibited seaward of a boundary line approximating the 50 fm (91 m) depth contour along the mainland coast and along islands and offshore seamounts from April 1 through December 31; and is closed entirely from January 1 through March 31 (i.e., prohibited seaward of the shoreline). Coordinates for the boundary line approximating the 50 fm (91 m) depth contour are specified in § 660.72.

(5) South of 34°27′ N. lat. (Southern Management Area), recreational fishing for all groundfish (except California scorpionfish as specified below in this paragraph and in paragraph (c)(3)(v) of this section and “other flatfish,” petrale sole, and starry flounder, as specified in paragraph (c)(3)(iv) of this section) is prohibited seaward of a boundary line approximating the 60 fm (109.7 m) depth contour from March 1 through December 31 along the mainland coast and along islands and offshore seamounts, except in the CCAs where fishing is prohibited seaward of the 20 fm (37 m) depth contour when the fishing season is open (see paragraph (c)(3)(i)(B) of this section). Recreational fishing for all groundfish (except California scorpionfish, “other flatfish,” petrale sole, and starry flounder) is closed entirely from January 1 through February 28 (i.e., prohibited seaward of the shoreline). When the California scorpionfish fishing season is open, recreational fishing for California scorpionfish south of 34°27′ N. lat. is prohibited seaward of a boundary line approximating the 60 fm (109.7 m) depth contour, except in the CCAs where fishing is prohibited seaward of the 20 fm (37 m) depth contour.

* * * * *

(ii) * * *

(A) * * *

(1) Between 42° N. lat. (California/Oregon border) and 40°10′ N. lat. (North Management Area), recreational fishing for the RCG complex is open from May 1 through December 31 (i.e., it's closed from January 1 through April 30).

(2) Between 40°10′ N. lat. and 38°57.50′ N. lat. (Mendocino Management Area), recreational fishing for the RCG Complex is open from May 1 through October December 31 (i.e., it's closed from January 1 through April 30).

(3) Between 38°57.50′ N. lat. and 37°11′ N. lat. (San Francisco Management Area), recreational fishing for the RCG complex is open from April 15 through December 31 (i.e., it's closed from January 1 through April 14).

(4) Between 37°11′ N. lat. and 34°27′ N. lat. (Central Management Area), recreational fishing for the RCG complex is open from April 1 through December 31 (i.e., it's closed from January 1 through March 31).

* * * * *

(B) Bag limits, hook limits. In times and areas when the recreational season for the RCG Complex is open, there is a limit of 2 hooks and 1 line when fishing for the RCG complex and lingcod. The bag limit is 10 RCG Complex fish per day coastwide. Retention of yelloweye rockfish, bronzespotted rockfish, and cowcod is prohibited. Within the 10 RCG Complex fish per day limit, no more than 3 may be black rockfish, no more than 3 may be cabezon, and no more than 1 may be canary rockfish. Multi-day limits are authorized by a valid permit issued by California and must not exceed the daily limit multiplied by the number of days in the fishing trip.

* * * * *

(iii) * * *

(A) * * *

(1) Between 42° N. lat. (California/Oregon border) and 40°10′ N. lat. (Northern Management Area), recreational fishing for lingcod is open from May 1 through December 31 (i.e., it's closed from January 1 through April 30).

(2) Between 40°10′ N. lat. and 38°57.50′ N. lat. (Mendocino Management Area), recreational fishing for lingcod is open from May 1 through December 31 (i.e., it's closed from January 1 through April 30).

(3) Between 38°57.50′ N. lat. and 37°11′ N. lat. (San Francisco Management Area), recreational fishing for lingcod is open from April 15 through December 31 (i.e., it's closed from January 1 through April 14).

(4) Between 37°11′ N. lat. and 34°27′ N. lat. (Central Management Area), recreational fishing for lingcod is open from April 1 through December 31 (i.e., it's closed from January 1 through March 31).

(5) South of 34°27′ N. lat. (Southern Management Area), recreational fishing for lingcod is open from March 1 through December 31 (i.e., it's closed from January 1 through February 28).

(B) Bag limits, hook limits. In times and areas when the recreational season for lingcod is open, there is a limit of 2 hooks and 1 line when fishing for lingcod. The bag limit is 2 lingcod per day. Multi-day limits are authorized by a valid permit issued by California and must not exceed the daily limit multiplied by the number of days in the fishing trip.

* * * * *

(iv) “Other flatfish,” petrale sole, and starry flounder. Coastwide off California, recreational fishing for “other flatfish,” petrale sole, and starry flounder, is permitted both shoreward of and within the closed areas described in paragraph (c)(3)(i) of this section. “Other flatfish” are defined at § 660.11, subpart C, and include butter sole, curlfin sole, flathead sole, Pacific sanddab, rex sole, rock sole, and sand sole. Recreational fishing for “other flatfish,” petrale sole, and starry flounder, is permitted within the closed areas. Petrale sole, starry flounder, and “Other flatfish,” except Pacific sanddab, are subject to the overall 20-fish bag limit for all species of finfish, of which there may be no more than 10 fish of any one species. There is no season restriction or size limit for “other flatfish,” petrale sole, and starry flounder however, it is prohibited to filet “other flatfish,” petrale sole, and starry flounder, at sea.

(v) * * *

(A) * * *

(1) Between 40°10′ N. lat. and 38°57.50′ N. lat. (Mendocino Management Area), recreational fishing for California scorpionfish is open from May 1 through August 31 (i.e., it's closed from January 1 through April 30 and from September 1 through December 31).

* * * * *

[FR Doc. 2016-25517 Filed 10-27-16; 8:45 am]

BILLING CODE 3510-22-P